DEPARTMENT OF COMMERCE

National Oceanic and Atmospheric Administration

50 CFR Parts 679 and 680

[Docket No. 080302360-8575-03]

RIN 0648-AT91

Pacific Halibut Fisheries; Bering Sea and Aleutian Islands King and Tanner Crab Fisheries; Groundfish Fisheries of the Exclusive Economic Zone Off Alaska; Individual Fishing Quota Program; Western Alaska Community Development Quota Program; Recordkeeping and Reporting; Permits

AGENCY: National Marine Fisheries Service (NMFS), National Oceanic and Atmospheric Administration (NOAA), Commerce.

ACTION: Supplemental proposed rule; reopening of comment period.

SUMMARY: This supplemental proposed rule provides specific information and further explanation regarding a June 29, 2007 (72 FR 35748) NMFS proposed rule that set out new recordkeeping and reporting requirements; a new electronic groundfish catch reporting system, Interagency Electronic Reporting System, and its data entry component, eLandings; the integration of eLandings with existing logbook requirements and future electronic logbooks; a variety of fisheries permits provisions and revisions to regulations governing the Bering Sea and Aleutian Islands Management Area Crab Rationalization Program, including fee calculations; a revision to a Sitka Pinnacles Marine Reserve closure provision; and a revision to a groundfish observer provision regarding at-sea vessel-to-vessel transfers.

DATES: Comments must be received on or before on October 24, 2008.

ADDRESSES: Send comments to Sue Salveson, Assistant Regional Administrator, Sustainable Fisheries Division, Alaska Region, NMFS, Attn: Ellen Sebastian. You may submit comments, identified by “RIN 0648-AT91” by any of the following methods:

• Webform at the Federal eRulemaking Portal: http://www.regulations.gov. Follow the instructions at that site for submitting comments.

• Mail: P.O. Box 21668, Juneau, AK 99802.

• Hand Delivery to the Federal Building: 709 West 9th Street, Room 420A, Juneau, AK.

• Fax: 907-586-7557.

Instructions: All comments received are a part of the public record and generally will be posted to http://www.regulations.gov without change. NMFS will accept anonymous comments. NMFS will accept attachments to electronic comments if they are in Microsoft Word, Excel, WordPerfect, or Adobe portable document file (pdf) file formats. All comments submitted on the original proposed rule for RIN 0648-AT91, published June 29, 2007 (72 FR 35748) will still be considered in the rulemaking process and do not need to be resubmitted.

Copies of the Categorical Exclusion (CE), Regulatory Impact Review (RIR), and Initial Regulatory Flexibility Analysis (IRFA) prepared for the original proposed rule may be obtained from the NMFS Alaska Region, P.O. Box 21668, Juneau, AK 99802, Attn: Ellen Sebastian, or by calling the Alaska Region, NMFS, at 907-586-7228, or from the NMFS Alaska Region Web site at http://www.alaskafisheries.noaa.gov.

FOR FURTHER INFORMATION CONTACT: Patsy A. Bearden, 907-586-7008.

SUPPLEMENTARY INFORMATION: NMFS published a proposed rule in the Federal Register on June 29, 2007 (72 FR 35748). The original proposed rule is available via the Internet (http://www.alaskafisheries.noaa.gov) and from NMFS (see ADDRESSES). A detailed description of the original proposed rule was provided in the preamble to the original proposed rule and is not repeated here. This supplemental proposed rule explains the reorganization of materials within the current recordkeeping and reporting (R&R) regulatory text to integrate electronic and non-electronic requirements.

Comments and Responses

NMFS received two e-mails containing nine comments on the original proposed rule. Responses to all nine comments follow:

Comment 1: The commenter pointed out that no East or West component is requested in regulations and logbooks when describing position coordinates in latitude and longitude and that an East or West component is necessary to describe both the beginning position and the end position of gear.

Response: NMFS agrees. Regulations governing the information requirements of logbooks in § 679.5(c) are proposed in this supplement to include an East or West component.

Comment 2: The commenter pointed out that in the logbooks, the space allocated for the date and time of gear retrieval is only big enough for either the date or the time, but not both, and requests that the logbooks be redesigned to provide more space to record this information.

Response: NMFS agrees. NMFS will adjust the format of the logbooks at the next printing. No change to the regulatory text in the proposed rule is needed to respond to this comment.

Comment 3: In the daily fishing logbook, it is not clear what NMFS is requesting when asking for the target species code and the estimated total round weight. The commenter suggests that it be made very clear that only a single Target Species Code is to be used (and that it be the species code of the desired target) and also that the Estimated Total Round Catch Weight either refers to that single Target Species Code or else refers to the entire catch, whichever is the intent of the recordkeeping form.

Response: NMFS agrees. Regulations governing the information requirements of logbooks in § 679.5(c) are proposed in this supplement to add the requirement to “Enter only a single target species code of the desired target.” In addition, the data element “estimated total round catch weight” was changed to “total hail weight.” This change was intended to make it clear that the estimated quantity of the entire catch is to be recorded in that space.

Comment 4: On the daily cumulative production logbook (DCPL), the operator frequently tries to put two or even three improved retention/improved utilization (IR/IU) Species Codes in a single box and a like number of IR/IU Species Weights in a single box. These are often unreadable and of no value. The commenter suggests that it be made very clear that only a single IR/IU Species Code is to be used (and that it be the species code associated with the largest amount of catch) and that the IR/IU Species Weight either refers to that single IR/IU or else refers to the combined total IR/IU catch, whichever is the intent of the recordkeeping form.

Response: NMFS requires all species to be recorded, not just the largest catch, and would adjust the logbook requirements at § 679.5(c) to be more clear on that point by adding the requirements “Use one line to record information for each IR/IU species, including species code and amount of catch. If more than one IR/IU species is to be recorded, the operator must use a separate line for each species.”

Comment 5: Several vessel operators, when filling out the DCPL Total Haul Weight, first subtract the IR/IU weight and fill the remainder in the Total Haul Weight column (they first record the true Total Haul Weight, cross it out and put in a lesser value that is always the remainder). Clearer instructions on how to fill out these fields are necessary.

Response: The transition between older and new NMFS logbooks caused this to happen. In current DCPLs, the information requested is the total hail weight, which is the estimated total weight of the entire catch. No change to the regulatory text in the proposed rule is needed to respond to this comment.

Comment 6: Cut all quotas allowed by 50 percent this year and by 10 percent each subsequent year.

Response: This rule would implement revisions to electronic recordkeeping and reporting and several miscellaneous adjustments to the regulations at 50 CFR part 679. These revisions have no relationship to the establishment of harvest specifications or the assignment of quotas or allocations in the North Pacific groundfish fisheries, so this comment is outside the scope of this rulemaking.

Comment 7: Establish marine sanctuaries where no ships can go to fish and do it now [sic].

Response: The proposed rule did not address the establishment of marine sanctuaries, so this comment is outside the scope of this rulemaking.

Comment 8: Get satellite inspections of what these commercial fishing profiteers are actually doing out there instead of what they tell you they do [sic].

Response: In 1988, the NOAA Fisheries Office for Law Enforcement (OLE) embarked on a satellite-based vessel monitoring program using vessel monitoring systems (VMS) to locate high-seas drift-net fishing vessels and monitor compliance with area restrictions in the North Pacific Ocean. VMS allows the OLE to monitor and survey vessels over vast expanses of open water while maintaining the confidentiality of fishing positions. VMS allows the OLE to use 21st century technologies to monitor compliance, track violators, and provide substantial evidence for prosecution while maintaining the integrity of the individual fisherman's effort. Visit OLE's Web site at http://www.nmfs.noaa.gov/ole/ak_alaska.html for more information. Changes to VMS requirements are outside the scope of the proposed rule, and no changes were made in response to this comment.

Comment 9: The commenter incorporates The Los Angeles Times five-part series on what is happening to our seas into the comment. The commenter believes that commercial fishing is doing damage to the seas and asks NMFS to take remedial action.

Response: This comment is outside the scope of the proposed rule, and no changes were made in response to this comment.

Background and Need for Action

In addition to the changes from the original proposed rule in response to comments described in the previous section, NMFS identified the need for the changes described in this supplemental proposed rule after the original proposed rule was published. The identified additional changes are described below. These changes are necessary to fully and effectively implement regulatory revisions described in the original proposed rule.

Section 679.2 Definitions

The original proposed rule added and revised definitions at § 679.2. The supplemental proposed rule would revise the definitions for “active/inactive periods” to show the correct cross-reference to “active period” for catcher vessels using trawl gear, catcher vessels using longline or pot gear, catcher/processors using trawl gear, catcher/processors using longline or pot gear, and motherships.

The original proposed rule revised the definition for “haul” by removing a cross-reference and adding defining text; the supplemental proposed rule would revise that definition by removing the words “new or repaired” and refer only to “a test of trawl gear.” This would ensure that the definition of “haul” would include any fishing for purposes of testing gear rather than limiting the definition to testing only new or repaired trawl gear.

The original proposed rule added a definition for “Interagency electronic reporting system (IERS)”; the supplemental proposed rule would revise that definition by adding “named eLandings” after “client software” to specify the relationship between IERS and eLandings.

The original proposed rule added a definition for “non-individual entity” in an effort to standardize the terms used to describe an entity other than an individual. The intention was to replace the term “other entity” with the new term “other non-individual entity” in all places in part 679 where the term “other entity” does not refer to an individual. Further, the intention was to add “other non-individual entity” in paragraphs that referred to entities of a similar nature, i.e., corporations, associations, and partnerships. However, the original proposed rule did not include additional necessary revisions to other relevant regulations. This supplemental proposed rule would make the necessary additional revisions in §§ 679.2, 679.40, 679.41, and 679.42.

The original proposed rule added a definition for “Permit.” The supplemental proposed rule would revise that definition by removing “endorsement” as a type of permit, which is incorrect, because an endorsement is not a permit but rather a limitation of a permit. It would also replace existing text with documentation granting permission to fish, and including “license” as a type of permit.

The original proposed rule added a definition for “User.” The supplemental proposed rule would revise that definition by adding “an individual representative of a” at the beginning of the sentence, prior to the list of entities, to specify that a User of eLandings is an individual within an entity. In addition, the supplemental proposed rule would remove “an owner, operator, manager of a,” as these terms are not appropriate for this definition.

Section 679.4 Permits

Section 679.4 describes most of the permit requirements available for the Exclusive Economic Zone (EEZ) off Alaska. Section 679.4(a)(1) lists the permits that are available for the EEZ off Alaska, as well as permit effectiveness information, and cross-references to additional information for each permit. The original proposed rule revised entries for Registered Buyer permit (§ 679.4(a)(1)(i)(A)), and added Scallop License Limitation Program (LLP) permit (§ 679.4(a)(1)(vii)(C)). The supplemental proposed rule would revise entries for groundfish permits (§ 679.4(a)(1)(iv)(A) and (B)), and add entries for Crab Rationalization Program permits (§ 680.4(a)(1)(xiv)(A) through (H)). These changes are necessary to correct omissions from the original proposed rule and to provide a complete list of permits.

The original proposed rule revised § 679.4(a)(3)(i) and (a)(3)(iii) to provide general permit information. The supplemental proposed rule would revise paragraph (a)(3)(iii) to be in the active voice.

The original proposed rule added a new § 679.4(a)(9) to include the circumstances under which a participant could surrender permits. The supplemental proposed rule would revise § 679.4(a)(9) by replacing paragraphs (a)(9)(i) through (iv) with text that describes generally the procedure to surrender a permit. The supplemental proposed rule would revise the following regulations to place specific surrender-of-a-permit regulations in separate paragraphs and to place a cross-reference to § 679.4(a)(9): § 679.4(b)(4)(ii) for surrender of a Federal Fisheries Permit (FFP); § 679.4(d)(1)(iii) for surrender of an Individual Fishing Quota (IFQ) permit; § 679.4(d)(2)(iv) for surrender of an IFQ hired master permit; § 679.4(d)(3)(v) for surrender of a Registered Buyer permit; § 679.4(e)(2) for surrender of a halibut Western Alaska Community Development Quota (CDQ) permit; § 679.4(e)(3) for surrender of a CDQ hired master permit; § 679.4(f)(4)(ii) for surrender of a Federal Processor Permit (FPP); § 679.4(k)(6)(x) for surrender of a groundfish or crab LLP license; § 679.4(l)(5)(ii) for surrender of an American Fisheries Act (AFA) inshore processor permit; and redesignated § 679.4(l)(1)(ii)(C) to reformat and state that AFA permits may not be surrendered, except for AFA inshore processor permits. In addition, the supplemental proposed rule would redesignate § 679.4(g)(1) as (g)(1)(i) and add (g)(1)(ii) to describe surrender of the Scallop LLP permit.

Section 679.5 Recordkeeping and Reporting (R&R)

Section 679.5 describes most of the recordkeeping and reporting requirements for fisheries of the EEZ off Alaska. The original proposed rule reorganized and expanded this section. This supplemental proposed rule would improve the organization and presentation of the § 679.5 regulations and correct technical errors that occurred in the original proposed rule.

Section 679.5(a) General R&R Requirements. Section 679.5(a) describes the R&R general requirements and items that relate to several modes of R&R. In the original proposed rule, § 679.5 was revised. In the supplemental proposed rule, § 679.5(a)(1) heading would be revised by adding “groundfish” before the words “logbooks” and “forms” to denote that the logbooks and forms being discussed are for the groundfish directed fisheries. Paragraph (a)(1)(i) would be revised to add a telephone number and fax number where a participant may obtain more information.

The supplemental proposed rule would add introductory text at § 679.5(a) to summarize the different types of R&R requirements formerly found in Table 9, and indicate that additional R&R requirements are found at § 679.28. The heading of paragraph (a)(1) would be revised by adding “groundfish” to denote that the logbooks and forms discussed are for use with the groundfish directed fisheries. Paragraph (a)(1)(i) of § 679.5 would be revised to add a telephone number and fax number where a participant could obtain more information, and the last sentence of paragraph (a)(1)(i) would be removed because it does not contain regulatory text. Paragraph (a)(1)(ii) would be revised to add “written” between “Upon” and “notification” to ensure that the notification to NMFS is written. In § 679.5(a)(1)(i), (a)(2)(i), (a)(2)(ii), (a)(5)(i), (a)(5)(ii), (a)(5)(ii)(A), (a)(5)(ii)(B), and (a)(6), reference to Table 9 to part 679 would be replaced with cross-references to § 679.5 and § 679.28, as appropriate.

The original proposed rule created § 679.5(a)(1)(iii) to describe “management programs” in detail. This data element is required in the DFLs, DCPLs, and eLandings and, instead of repeating the detailed description of management programs, a cross reference would be added to the appropriate paragraphs referencing paragraph (a)(1)(iii). The supplemental proposed rule would revise paragraph (a)(1)(iii) by removing the last sentence “If harvest is not under one of these management programs, leave blank”. It is correct that in the DFLs and DCPLs, the box would be left blank if not listed under one of the management programs; however eLandings requires that this field be completed and not left blank. Paragraphs (e)(5)(i)(A)(3) and (e)(6)(i)(A)(3) would be revised to add a cross-reference to § 679.5(a)(1)(iii), instead of taking the space to describe “management programs” again.

Paragraph (a)(3) describes fish that must be recorded and reported. Accurate and complete recording of fish ensures that catch accounting for quotas is as accurate as possible to prevent overfishing or underfishing. Several sources of fish information were inadvertently omitted from the original proposed rule and are included in the supplemental proposed rule. The supplemental proposed rule would redesignate paragraphs (a)(3)(i) through (iii) as (a)(3)(ii) through (a)(3)(iv), respectively, to add a new paragraph (a)(3)(i) entitled “Harvest information.” Harvest information is an essential data element for management of the fisheries, especially for the catcher/processors, and must be recorded. Proposed redesignated paragraph (a)(3)(ii) would be revised to add “receipt of fish from a buying station” as a method of receiving fish that must be recorded. Buying station fish is recorded in actual practice, but inadvertently was omitted from the original proposed rule. A shoreside processor, stationary floating processor (SFP), or mothership must record fish received from a buying station in order to account for all fish received. Proposed redesignated paragraph (a)(3)(iii) would be revised to add that the disposition of harvest, e.g., fish that were caught but not delivered, such as fish eaten onboard or fish used as bait onboard a vessel, must be recorded so that these amounts are counted against the quotas.

Paragraph (a)(4) describes exemptions from R&R. The supplemental proposed rule would revise paragraph (a)(4)(i) to add at the beginning of the first sentence “Except for the vessel activity report described at § 679.5(k).” The requirement that all vessels provide a vessel activity report under certain conditions is long-standing. The requirement was inadvertently omitted from the original proposed rule, and this proposed change would reestablish the requirement in the regulations.

The supplemental proposed rule would add new paragraph (a)(7) to provide the detailed information needed to record custom processing information. Proposed paragraph (c)(5)(ix), located in the original proposed rule in the shoreside processor DCPL section, would be redesignated as paragraph (a)(7) and further revised. The supplemental proposed rule would move the requirements from paragraph (c)(5) to paragraph (a)(7) because this information is pertinent to shoreside processors, SFPs, and motherships.

Section 679.5(c) Logbooks. The supplemental proposed rule would replace “50 CFR 300.60 through 300.65” with “§§ 300.60 through 300.65” to correct the format of this citation in paragraphs (c)(1)(vi)(B), (c)(3)(v)(G)(2), and (c)(3)(v)(G)(3)(i) through (iii).

Paragraphs (c)(3)(vi)(H), (c)(4)(vi)(H)(1), (c)(6)(vi)(F), and (d)(4)(ix)(E) would be revised by replacing “total retained weight” with “total weight.” This would correct the definition of hail weight, which is an estimate of the entire catch before discard without regard to species. Including the term “retained” incorrectly changes the meaning of hail weight.

The supplemental proposed rule would revise appropriate paragraphs in DFL and DCPL sections to add immediately before existing text “The operator's name must be printed in the DFL or DCPL.” This text is currently required in § 679.5(a)(5)(i) but was overlooked in the original proposed rule.

The supplemental proposed rule would revise appropriate paragraphs in DFL and DCPL sections to replace “operator signature” with “Operator sign the completed logsheets.” This would provide the signature requirement within the time limit and make the wording consistent with other descriptions elsewhere in the regulations.

The original proposed rule would reorganize and revise logbook requirements, add sections to describe requirements for each logbook, and place logbook requirements in § 679.5(c) under the heading “Logbooks vs. eLandings and ELBs.” The supplemental proposed rule would revise the heading to read “Logbooks.”

Section 679.5(c)(1) General requirements. The original proposed rule would create paragraph (c)(1) to describe general requirements for recording information in the DFL or DCPL. The original proposed rule compared the methods of recording/reporting using logbooks with eLandings and electronic logbooks (ELBs) under paragraph (c)(1) “General requirements” as follows: (i) Shoreside processor or SFP, (ii) Mothership, (iii) Catcher/processor, (iv) Catcher vessel, (v) Registered Buyer, and (vi) Registered Crab Receiver. The supplemental proposed rule would remove paragraphs (c)(1)(i) through (vi) and integrate that information into the sections devoted to each procedure. The purpose of this integration would be to provide an explanation of how the different elements of the R&R procedure would work together.

Paragraphs (c)(1)(vii) through (xii) would be redesignated as (c)(1)(i) through (vi), respectively. Proposed redesignated paragraph (c)(1)(v)(A) would be revised to correct the cross-reference and to replace “the operator, manager, or any other person may not alter or change” with “no person may alter or change” to ensure that no unauthorized person could make changes. Proposed redesignated paragraph (c)(1)(v)(B) would be revised to replace “may be corrected” with “must be corrected” to make clear this text is a requirement. In all the logbook data entry limit tables, the supplemental proposed rule would change the deadline for the operator to provide the completed golden DFL or DCPL logsheet to the observer before the observer leaves the vessel.

Proposed redesignated paragraph (c)(1)(vi)(B) would be revised to remove “or manager” because the requirement for a shoreside processor DCPL would be removed due to eLandings; therefore the term “manager” would no longer apply to this requirement. The table in paragraph (c)(1)(vi)(B) would be revised to remove the sub-column for “SS/SFP” and to remove “SS/SFP = shoreside processor and SFP” in the table note. This table would be further revised by correcting the citation format for §§ 300.60 through 300.65 in the last row of the “Submit to” column.

Section 679.5(c)(2) Recording active and inactive time periods in the DFL or DCPL. The original proposed rule created new paragraph (c)(2) to describe requirements for recording active and inactive time periods in the DFL or DCPL.

The supplemental proposed rule would revise paragraphs (c)(2)(i), (c)(2)(ii), and (c)(2)(iii) to remove each instance of “or manager” because it also would remove the requirement for a shoreside processor DCPL and terms associated with that requirement. Paragraph (c)(2)(iii)(B) would be removed because it refers to Part I of the shoreside processor DCPL, and paragraphs (c)(2)(iii)(C) through (G) would be redesignated as (c)(2)(iii)(B) through (F), respectively.

Section 679.5(c)(3) Longline or pot gear catcher vessel DFL and catcher/processor DCPL. The original proposed rule created new paragraph (c)(3) to describe requirements for the longline and pot gear catcher vessel DFL and catcher/processor DCPL. The supplemental proposed rule would redesignate paragraph (c)(3)(i) introductory text as (c)(3)(i)(A) and (B) to describe separately the requirements for a catcher vessel and a catcher/processor.

The supplemental proposed rule would revise paragraphs (c)(3)(i)(A)(1), (c)(3)(i)(A)(2), (c)(3)(i)(B)(1), and (c)(3)(i)(B)(2) to describe the requirement for completing the catcher vessel longline or pot ELB, described at § 679.5(f). The statement, “must use a combination of catcher/processor longline or pot gear DCPL and eLandings” would replace “must maintain a longline and pot gear DCPL” in paragraph (c)(3)(i)(A)(2) as part of the integration language for the DCPL and ELB.

The original proposed rule created new paragraph (c)(3)(ii), entitled, “Data entry time limits.” The supplemental proposed rule would redesignate (c)(3)(ii) introductory text as (c)(3)(ii)(A) and (B) and revise these paragraphs to each have a separate table describing the data entry time limits for a catcher vessel and for a catcher/processor. The catcher/processor table under paragraph (c)(3)(ii)(B) would incorporate the use of eLandings.

The supplemental proposed rule would revise paragraph (c)(3)(iv)(A)(2) to identify the paragraph numbers of the information to be recorded in the catcher vessel DFL if the catcher vessel is active. It would revise paragraph (c)(3)(iv)(B)(2) to describe separately the information that must be recorded in the catcher/processor DCPL from that recorded in eLandings.

To reconcile with recent rule-making (see 73 FR 30876, May 29, 2008), in paragraph (c)(3)(iv)(B)(1), the supplemental proposed rule would revise the definition for active status of a longline or pot gear catcher/processor by removing “checked-in” as a reason for being active and by adding “when all or part of the longline or pot gear is in the water or when processing.”

Paragraph (c)(3)(v)(B) would be revised to add a first sentence indicating that the operator's name must be printed in the DFL or DCPL as currently required in § 679.5(a)(5)(i) and to revise the time limit for operator signature consistent with revised paragraphs (c)(3)(ii)(A)(6) and (c)(3)(ii)(B)(6) in the supplemental proposed rule. Paragraph (c)(3)(v)(D) would be revised to replace “of each IFQ holder aboard the vessel” with “each permit number of any IFQ permit on which anyone aboard is authorized to fish” to state more clearly that all permit numbers under which persons aboard a vessel may fish must be recorded.

The original proposed rule created new paragraph (c)(3)(vi) to describe catch-by-set information in detail for harvest by longline or pot gear. The supplemental proposed rule would make a distinction between deployment of gear and the start position of the gear by revising paragraph headings for (c)(3)(vi)(B)(1), (2), and (3) because the gear is not catching fish until it is in position to fish and to replace “deployment” with “begin position,” and between retrieval of gear and the last position of the gear by revising paragraph headings for (c)(3)(vi)(C)(1), (2), and (3) because the gear is not catching fish when it is being hauled onboard.

The original proposed rule created new paragraph (c)(3)(vii) to describe requirements for recording longline or pot catcher/processor product information in the DCPL. The supplemental proposed rule would remove existing text and add a requirement for the operator of a catcher/processor using longline or pot gear to record all product information in eLandings.

The original proposed rule created new paragraph (c)(3)(ix) to describe requirements for recording longline or pot catcher/processor discard and disposition information in the DCPL. The supplemental proposed rule would remove existing text and add a requirement for the operator of a catcher/processor using longline or pot gear to record all discard and disposition information in eLandings.

Section 679.5(c)(4) Trawl gear catcher vessel DFL and catcher/processor DCPL. The original proposed rule created new paragraph (c)(4) to describe requirements for the trawl gear catcher vessel DFL and catcher/processor DCPL.

The supplemental proposed rule would redesignate paragraph (c)(4)(ii)(A) as (c)(4)(ii)(B)(1) and revise it by adding “or if required to use a NMFS-approved scale, the scale weight for each haul.” This change would provide requirements on how to record information when required to use scales (e.g., Rockfish Pilot Program, Amendment 80 Program, GRS Program).

The supplemental proposed rule would redesignate paragraph (c)(4)(vi)(H) as (c)(4)(vi)(H)(1) and would revise it. Paragraph (c)(4)(vi)(H)(2) would be added to describe use of a NMFS-approved scale on a catcher/processor. This would provide requirements on how to record information when required to use scales (e.g., Rockfish Pilot Program, Amendment 80 Program, GRS Program).

The supplemental proposed rule would redesignate paragraph (c)(4)(i) introductory text as (c)(4)(i)(A) and (B) to describe separately the requirements for a catcher vessel and a catcher/processor and to refer to the option of completing the catcher vessel trawl ELB or catcher/processor trawl ELB, described at § 679.5(f). The statement, “must use a combination of catcher/processor trawl gear DCPL and eLandings” would replace “must maintain a trawl gear DCPL” in paragraph (c)(4)(i)(A)(2) as part of the integration language for the DCPL and ELB.

The original proposed rule created new paragraph (c)(4)(ii), entitled, “Data entry time limits.” The supplemental proposed rule would redesignate (c)(4)(ii) introductory text as (c)(4)(ii)(A) and (B) and revise these paragraphs to each have a separate table to describe the data entry timing limits for a catcher vessel and for a catcher/processor. The table for the catcher/processor under paragraph (c)(4)(ii)(B) would incorporate the use of eLandings.

The original proposed rule created new paragraph (c)(4)(iv) to describe R&R requirements when active. The supplemental proposed rule would revise paragraph (c)(4)(iv)(B)(1) by revising the definition of “active” status of a trawl catcher/processor to remove “checked-in” as a reason for being active and by adding “when all or part of the trawl net is in the water or when processing”. The supplemental proposed rule would revise paragraph (c)(4)(iv)(B)(2) to identify the paragraph numbers of the information to be recorded in the DCPL and in eLandings. Paragraph (c)(4)(v) would provide identification information that is recorded in both the DCPL and eLandings.

The original proposed rule created new paragraph (c)(4)(vii) to describe requirements for recording trawl catcher/processor product information in the DCPL. The supplemental proposed rule would remove existing text and add a requirement for the operator of a catcher/processor using trawl gear to record all product information in eLandings.

The original proposed rule created new paragraph (c)(4)(ix) to describe requirements for recording trawl catcher/processor discard and disposition information in the DCPL. The supplemental proposed rule would remove existing text and add a requirement for the operator of a catcher/processor using trawl gear to record all discard and disposition information in eLandings.

Section 679.5(c)(5) Shoreside processor DCPL. The original proposed rule created new paragraph (c)(5) to describe R&R requirements for the shoreside processor DCPL. Because eLandings would replace the shoreside processor DCPL, the supplemental proposed rule would remove that section, and replace it with a cross-reference to eLandings at § 679.5(e) and paragraphs (c)(5)(i) and (ii). Paragraph (c)(5)(i) would describe required R&R information if “inactive.” In paragraph (c)(5)(ii), the definition for “active” status of a shoreside processor or SFP would be revised to remove “checked-in” as a reason for being active.

Section 679.5(c)(6) Mothership DCPL. The original proposed rule created new paragraph (c)(6) to describe R&R requirements for the mothership DCPL. The supplemental proposed rule would revise (c)(6)(i) by adding a reference to the option of completing the mothership ELB, to § 679.5(f). The statement, “is required to use a combination of mothership DCPL and eLandings to record and report daily processor identification information, delivery information, groundfish production data, and groundfish and prohibited species discard or disposition data” would replace “must maintain a mothership DCPL” in paragraph (c)(6)(i).

The supplemental proposed rule would revise paragraph (c)(6)(ii) which describes data entry time limits by replacing “must record in the DCPL” with “must record in the DCPL or eLandings.” It would revise the table at paragraph (c)(6)(ii) by adding two columns to show where to record data: one for DCPL and one for eLandings. X's in these columns indicate where the data are to be recorded.

Paragraph (c)(6)(iv) describes required information if the mothership is active. The supplemental proposed would revise this paragraph to state that certain information must be recorded in the DCPL and other information in eLandings and to identify that information by paragraph number. In addition, the definition of “active” status of a mothership would be revised to remove “checked-in” as a reason for being active.

The supplemental proposed rule would add new paragraph (c)(6)(v), entitled “Identification information” and add new paragraph (c)(6)(v) introductory text. It would redesignate paragraphs (c)(6)(iv)(A) through (J) as (c)(6)(v)(A) through (J), respectively. The heading of proposed redesignated paragraph (c)(6)(iv)(C) would be revised to read “Vessel information.” It would redesignate paragraphs (c)(6)(v) through (c)(6)(vii) as (c)(6)(vi) and (c)(6)(viii), respectively.

The supplemental proposed rule would revise proposed redesignated paragraph (c)(6)(vii), which describes groundfish product information, by removing existing text and adding a requirement for the operator of a mothership to record all product information in eLandings. It would revise proposed redesignated paragraph (c)(6)(viii), which describes discard and disposition information, by removing existing text and adding a requirement for the operator of a mothership to record all discard and disposition information in eLandings.

Section 679.5(d) Buying Station Report (BSR). In the original proposed rule, paragraph (d), which describes buying station requirements, was revised. To improve readability of the text, the supplemental proposed rule would add headings to paragraph (d)(1)(i) to read “Separate BSR;” paragraph (d)(1)(ii) to read “BSR Attachments;” and paragraph (d)(1)(iii) to read “Catcher vessel as buying station.”

The supplemental proposed rule would revise paragraph (d)(1)(i) by adding immediately before the first sentence, “In addition to the information required at paragraphs (a)(5) and (a)(6) of this section.” This change is necessary because paragraphs (a)(5) and (a)(6) describe inspection, retention, and maintenance of records, which apply also to buying station operators and managers. Inadvertently omitted from the original proposed rule, it would reestablish the requirement in the regulations.

The supplemental proposed rule would revise paragraph (d)(4)(iii) to correct the cross-reference by replacing “paragraph (a)(2)” with “paragraphs (d)(1) and (d)(2)” which describe “who needs to sign.” It would revise paragraphs (d)(4)(v), (vi), and (vii) by adding headings to read “Gear type,” “Federal reporting area,” and “Crab protection areas,” respectively, to make the subheadings of paragraph (d) uniform. It would revise the heading for paragraph (d)(4)(x)(C) to read “Discard or disposition weight” and the heading for paragraph (d)(4)(x)(D) to read “PSC discard or disposition numbers.”

Section 679.5(e) Interagency Electronic Reporting System (IERS) and eLandings. Section 679.5(e) describes R&R requirements using eLandings. The original proposed rule removed the existing electronic R&R system, Shoreside Processor Electronic Reporting System (SPELR), at § 679.5(e) and replaced it with the Interagency Electronic Reporting System (IERS) and its data entry component, eLandings, which is available through the Internet. It indicated that there were available from the Alaska Region, three methods of R&R: DFL and DCPL, eLandings, and ELBs, and presented each of these methods in a separate section.

The supplemental proposed rule would further reorganize certain sections of § 679.5(e), with changes to headings of paragraphs (e)(5) through (e)(10), would incorporate information moved from § 679.5(c) to better integrate the available R&R methods, and would correct miscellaneous technical errors.

The supplemental proposed rule would correct, throughout the eLandings regulations (§ 679.5(e)), the format of the year from (mm/dd/yy) to read uniformly in 4 digits (mm/dd/yyyy). Note that the logbook regulations date format is mm/dd/yy.

The supplemental proposed rule would correct a grammatical error that occurred in the original proposed rule. The text “user of” would be replaced with “user for.” This change would be made in the following paragraphs: (e)(5)(i), (e)(5)(i)(B), (e)(5)(ii), (e)(5)(iii), (e)(6)(i) through (e)(6)(iii), (e)(7)(i), (e)(7)(ii), (e)(7)(iii)(B), (e)(8)(iii) through (e)(8)(vi), (e)(9)(i), (e)(9)(ii), (e)(10)(iii), and (e)(10)(iv).

In the original proposed rule, NMFS created new paragraph (e)(1) to describe the responsibilities of the participants to obtain the necessary equipment and software to work with eLandings, and the responsibility to use eLandings for entry of groundfish information.

In the proposed rule, paragraph (e)(1)(i) described the responsibility for “Hardware, software, and Internet connectivity.” The supplemental proposed rule would remove an incorrect cross-reference to paragraph (e)(2) and revise this introductory text to paragraph (e)(1)(i) by removing “Unless NMFS approves an alternative reporting method, for recordkeeping and reporting data for those fisheries listed in paragraph (e)(2) of this section,” because only eLandings is approved for this purpose. In addition, “landings data” would be added to the list of fisheries information needed by NMFS, as this item was inadvertently overlooked.

The supplemental proposed rule would divide paragraph (e)(1)(ii), describing R&R procedure in the event of computer or network failure and unavailability of eLandings, into two paragraphs, one for groundfish and one for IFQ crab, halibut, and sablefish. It would redesignate paragraph (e)(1)(ii)(A) as paragraph (e)(1)(ii), and the heading would be revised to read: “Computer or network failure: Groundfish.” In addition, text would be removed that refers to use of an interim paper form in case of computer or network failure and replaced with text describing use of the DCPL to record groundfish information, because the DCPL is onboard, familiar to use, and convenient.

The supplemental proposed rule would redesignate paragraph (e)(1)(ii)(B) as (e)(1)(iii) with a heading to read “Computer or network failure: IFQ manual landing report for IFQ crab, IFQ halibut, CDQ halibut, and IFQ sablefish.” This paragraph describes the requirement to use a manual IFQ landing report if computer or network failure occurs when entering CDQ halibut or IFQ information. The first and second sentences of proposed redesignated (e)(1)(iii) would be redesignated as (e)(1)(iii) introductory text and revised by adding “CDQ halibut” to the list of information. In addition, this paragraph would be revised by removing “and submit it by fax to 907-586-7313” because manual landing instructions must be requested by telephone.

The supplemental proposed rule would redesignate the last two sentences of paragraph (e)(1)(iii)(B) as (e)(1)(iii)(A). It would redesignate the first sentence of paragraph (e)(1)(ii) as (e)(1)(iii)(B) to provide instructions to submit the IFQ manual landing report by fax. It would add paragraph (e)(1)(iii)(C) to provide instructions to print and retain the IFQ manual landing report per paragraphs (a)(5) and (a)(6).

The original proposed rule described “eLandings processor registration” in paragraph (e)(2). The supplemental proposed rule would remove paragraph (e)(2)(ii), because this text is mostly descriptive and not a requirement. It would redesignate paragraph (e)(2)(iv) as new (e)(2)(ii).

The original proposed rule described “Information required for eLandings processor registration form” in paragraph (e)(3). The supplemental proposed would revise paragraph (e)(3)(iii) by removing “and home port of shoreside processor, SFP, mothership, or catcher/processor.” It would add paragraph (e)(3)(iv) introductory text to require that all federal permits be listed, so that the submitter would understand that more than one permit is acceptable, but that all permits must be listed. It would revise paragraphs (e)(3)(iv)(A) and (B) headings and text by adding “groundfish” prior to the type of processor to improve the accuracy of the question.

Paragraph (e)(3)(iv)(E) describes eLandings information required from a buying station. The supplemental proposed rule would remove this paragraph, because a buying station does not complete this registration form. It would redesignate paragraphs (e)(3)(v) and (vi) as (e)(3)(viii) and (ix), respectively, because two paragraphs would be added. The information, “port code,” removed from paragraph (e)(3)(iii) would be redesignated as paragraph (e)(3)(v). Paragraph (e)(3)(vi) would be added to request the “ADF&G vessel identification number of the vessel” from a mothership, catcher/processor, or tender operation to ensure specific identification.

The supplemental proposed rule would redesignate paragraph (e)(3)(iv)(E) as (e)(3)(vii) and revise the paragraph to request the state where the license was issued for vehicle buying stations, to ensure specific identification. Proposed redesignated (e)(3)(viii) would be revised to insert “where the processing would take place” to further clarify this information. Proposed redesignated paragraph (e)(3)(ix) would be revised to emphasize the requirement for a primary user for eLandings and to expand the description of some of the data elements required at registration.

The original proposed rule described “Information entered automatically for eLandings landing report” in paragraph (e)(4). The supplemental proposed rule would revise paragraph (e)(4) to inform the participant that he or she must review the autofilled data entry cells to ensure that they are accurate for the landing that is taking place.

At paragraph (e)(5), the original proposed rule described the information to be entered into eLandings by a shoreside processor and SFP. The supplemental proposed rule would revise the heading for (e)(5) to read “Shoreside processor or SFP landings report” as part of the restructuring of the regulations. It would redesignate paragraph (c)(1)(i)(B) as (e)(5) introductory text and revise it to describe who must use eLandings to enter groundfish landings information. The supplemental proposed rule would revise the heading for paragraph (e)(5)(i) to read “Information entered for each groundfish delivery to a shoreside processor and SFP.” It would revise paragraph (e)(5)(i) introductory text to add that data must also be entered into eLandings for receipt of groundfish delivery from processors for reprocessing or rehandling product.

The supplemental proposed rule would revise paragraph (e)(5)(i)(A)(2) by replacing “crew size (including operator)” with “Crew size.” Enter the number of licensed crew aboard the vessel, including operator, to specify who to include in the count. It would revise paragraph (e)(5)(i)(A)(7) to identify a buying station, whether a tender or land-based entity. Paragraph (e)(5)(i)(A)(9) describes recording whether the blue logsheet was received from the catcher vessel at the time of catch delivery. The supplemental proposed rule would revise this paragraph to add the table of codes that describe nonsubmittal of a blue discard logsheet by the catcher vessel. It would revise the heading for paragraph (e)(5)(i)(B) to read “Landings information” and revise paragraph (e)(5)(i)(B)(2) which describes landings weight, to include information on actual scale weights, currently in § 679.5(a)(7)(iv)(D)(1), and provide options for sorting. This revision was overlooked in the original proposed rule.

Paragraph (e)(5)(ii) describes required signatures on the landing report (ADF&G fish ticket). The supplemental proposed rule would remove this paragraph because signatures are not required by Federal regulations even though they are required by State regulations. It would redesignate paragraph (e)(5)(iii) as (e)(5)(ii) and revise the text by replacing “(e)(5)(ii)” with “(e)(5)(i)” because paragraph content changed. The supplemental proposed rule would add paragraph (e)(5)(iii) with heading to read “Compliance” to state that by using eLandings, the User accepts the responsibility of and acknowledges compliance with eLandings requirements for complete and accurate R&R.

The original proposed rule described eLandings information entered for each groundfish delivery to a mothership at paragraph (e)(6). The supplemental proposed rule would revise the heading for paragraph (e)(6) to read “Mothership landings report” to better describe the contents of the paragraph. It would redesignate paragraph (c)(1)(ii)(C) as (e)(6) introductory text and revise it to state that the operator is required to use eLandings to submit a daily landings report.

In the original proposed rule, the use of eLandings by motherships was provided in two stages: through December 31, 2007, to voluntarily submit weekly landings reports, and starting January 1, 2008, required to submit daily landings reports. Since implementation of the IERS final rule will be later than anticipated, the supplemental proposed rule would place the requirement for daily landing reports directly into regulation rather than in two steps. It would revise the heading for paragraph (e)(6)(i) to read “Information entered for each groundfish delivery to a mothership” and revise paragraph (e)(6)(i) to add that data must also be entered into eLandings for receipt of groundfish delivery from processors for reprocessing or rehandling product. Paragraph (e)(6)(ii) describes required signatures on the landing report (ADF&G fish ticket). The supplemental proposed rule would remove this paragraph because signatures are not required by Federal regulations even though they are required by State regulations. It would add paragraph (e)(6)(iii) with heading to read “Compliance” to state that by using eLandings, the User accepts the responsibility of and acknowledge compliance with eLandings requirements for complete and accurate R&R.

The original proposed rule described information entered for each IFQ halibut, CDQ halibut, and IFQ sablefish delivery at paragraph (e)(7). As part of the text restructure, the supplemental proposed rule would revise the heading for paragraph (e)(7) to read “Registered Buyer landings report.” It would redesignate paragraph (c)(1)(v) as (e)(7) introductory text and revise the heading for paragraph (e)(7)(i) to read “Information entered for each IFQ halibut, CDQ halibut, and IFQ sablefish delivery.” The supplemental proposed rule would revise paragraph (e)(7)(i)(E)(8) by adding a note that NMFS makes the 2 percent slime deduction, not the submitter. This change would reestablish the requirement in the regulations that NMFS does this calculation and the submitter is not required nor permitted to do so. The supplemental proposed rule would revise the heading for paragraph (e)(7)(ii) to read “Signatures for IFQ halibut, CDQ halibut, or IFQ sablefish deliveries” and revise paragraph (e)(7)(ii) to state that the participant must review the autofilled cells for accuracy of landing data and that the landing report is dated, and must acknowledge the responsibility indicated by signature. It would add paragraphs (e)(7)(ii)(A) through (C) to require the User to print the completed groundfish landing report and the groundfish IFQ landing receipt; to ensure signatures are complete within six hours after all IFQ halibut, CDQ halibut, and IFQ sablefish are offloaded from a harvesting vessel and prior to shipment or transfer of the fish from the landing site; and to provide printed name and sign the groundfish IFQ landing receipt within six hours after all IFQ halibut, CDQ halibut, and IFQ sablefish are offloaded from a harvesting vessel and prior to shipment or transfer of the fish from the landing site. Paragraph (e)(7)(iv) would be added to add a cross-reference for § 679.5(e)(1)(iii) where a manual landing report is described.

The original proposed rule described information entered for each IFQ crab delivery at paragraph (e)(8). The supplemental proposed rule would revise the heading for paragraph (e)(8) to read “Registered Crab Receiver (RCR)-IFQ crab landings report.” It would redesignate paragraph (e)(8)(i) as (e)(8)(iii) and revise the heading to read “Information entered for each IFQ crab delivery.” It would redesignate paragraphs (c)(1)(vi)(A) and (c)(1)(vi)(B) as (e)(8)(i) and (e)(8)(ii), respectively. Proposed redesignated paragraph (e)(8)(iii)(C)(5) would be revised by adding at the end of the sentence “(All ADF&G statistical areas are translated to the NMFS reporting area and the International Pacific Halibut Commission (IPHC) reporting area by eLandings.)” to explain why the reporting area does not appear. Paragraph (e)(9) would be redesignated as (e)(8)(iv) with heading to read “Information entered for IFQ crab custom processing landings” to describe additional information required if the User for the RCR is custom processing IFQ crab, the “ADF&G processor code of the person for which the IFQ crab was custom processed.”

The supplemental proposed rule would redesignate paragraph (e)(8)(ii) as (e)(8)(v) and revise with a heading to read “Signatures for IFQ crab deliveries.” It would further revise the paragraph to include the date signed and the responsibility indicated by signature that currently is in § 679.5(l)(2)(iii)(M). In addition, the supplemental proposed rule would add requirements to print the completed crab landing report and to retain the landing report per paragraph (a)(5) of this section. It would redesignate paragraph (e)(8)(iii) as (e)(8)(vi). Paragraph (e)(8)(vii) would be added with a heading to read “IFQ manual landing report for crab”and a cross-reference to paragraph (e)(1)(iii) where a manual landing report is described.

The original proposed rule described shoreside processor or SFP information entered for an eLandings production report in paragraph (e)(10). As part of the regulatory text restructure, the supplemental proposed rule would redesignate paragraph (e)(10) as (e)(9). It would redesignate paragraph (c)(1)(i)(B) as (e)(9) introductory text and revise paragraph (e)(9) introductory text to require that eLandings be used to create a daily production report and add as the last sentence a cross-reference to § 679.5(a)(5) and (a)(6) which describe record inspection, retention, and maintenance. Proposed redesignated paragraph (e)(9)(i) would be revised to inform the participant that he or she must review the autofilled cells to ensure that they are accurate. The supplemental proposed rule would remove paragraph (e)(9)(i)(B) because “manager name and signature” does not appear on the eLandings production report. It would add new paragraph (e)(9)(i)(B) to request the number of observers onsite. This information is required under current regulations at § 679.5, but was inadvertently not included in the original proposed rule.

The supplemental proposed rule would revise paragraph (e)(10)(i)(C) by replacing “No production. Indicate if no production occurred” with “No production/no deliveries (inactive).” This revision would show that the processor is “inactive” to coincide with former descriptions of inactive data from shoreside processors or SFPs. The supplemental proposed rule would redesignate paragraphs (e)(10)(i)(D)(1) through (3) as (e)(9)(i)(C) through (E) and would add “Area of harvest” to (e)(9)(i)(C); add “Product description” to (e)(9)(i)(D); and replace existing text at (e)(9)(i)(E) with “Product weight. Enter actual scale weight of product to the nearest pound.” Proposed redesignated (e)(9)(ii) would be revised to add to the first sentence “When checked-in pursuant to paragraph (h)(2) of this section” and to add as the last sentence “If a shoreside processor or SFP using eLandings is not taking deliveries over a weekend, the User or manager may transmit the eLandings production report to NMFS on Monday.”

Paragraph (e)(11) in the original proposed rule described catcher/processor or mothership information entered for an eLandings production report. The supplemental proposed rule would redesignate this paragraph as (e)(10) and would divide it into two separate paragraphs, one for catcher/processors and one for motherships. It would redesignate paragraph (c)(1)(ii)(B) as (e)(10)(i), revise its heading to read “Catcher/processor,” and revise it to require an operator of a catcher/processor to use eLandings to create a production report. The supplemental proposed rule would redesignate paragraph (c)(1)(iii)(B) as (e)(10)(ii), revise its heading to read “Mothership,” and revised the paragraph to require an operator of a mothership to use eLandings to create a production report. It would redesignate paragraph (e)(11)(i) as (e)(10)(iii) introductory text and revise it to inform the participant that he or she must review the autofilled cells to ensure that they are accurate. The supplemental proposed rule would add paragraph (e)(10)(iii)(B) with a heading to read “Designation. From Table 14c to this part, enter whether processor is a catcher/processor = FCP or a mothership = FLD.” This information is necessary for eLandings data management but was overlooked in the original proposed rule. The supplemental proposed rule would redesignate paragraph (e)(11)(i)(B) as (e)(10)(iii)(C) and remove paragraph (e)(11)(i)(C) because “operator name and signature” do not appear on the production report. It would add paragraph (e)(10)(iii)(D) to read “Management program. Enter management program and identifying number, if any (see paragraph (a)(1)(iii) of this section).”

The supplemental proposed rule would redesignate paragraph (e)(11)(i)(G) as (e)(10)(iii)(E). It would redesignate paragraph (e)(11)(i)(E) as (e)(10)(iii)(F) and revise it to read “Federal Reporting Area of harvest.” It would add paragraph (e)(10)(iii)(G) to read “COBLZ or RKCSA. Indicate whether fishing occurred in COBLZ or RKCSA (if applicable).” This was overlooked in the original proposed rule. The supplemental proposed rule would redesignate paragraph (e)(11)(i)(F)(1) and (2) as paragraphs (e)(10)(iii)(H) and (I) and revise it to read “(H) Product description. Species code, product type, and product code of product; and (I) Product weight. Enter product weight in metric tons to the nearest 0.001 mt.” It would redesignate paragraph (e)(11)(i)(D) as (e)(10)(iii)(J) and revise it to read “No production (inactive). If there was no production for the day, mark the “No Production” box.” This was overlooked in the original proposed rule. Paragraph (e)(11)(i)(H) would be removed because “ADF&G fish ticket number” does not appear on the production report. This was an error in the original proposed rule. Paragraphs (e)(10)(iii)(K) through (M) would be added to describe discard, discard weight, and PSC numbers. This was overlooked in the original proposed rule.

The supplemental proposed rule would add paragraph (e)(10)(iii)(N) to request ADF&G statistical area to be effective January 1, 2009. The eLandings software will not be developed to receive this information until 2009. This item is needed to aid in identifying fishing information. Paragraph (e)(11)(ii) would be redesignated as (e)(10)(iv) and revised to add prior to the first sentence “When checked-in pursuant to paragraph (h)(2) of this section,” and remove the effective date because the publication of the final rule is later than anticipated. A sentence would be added to remove a restriction from daily submittals of the production reports on weekends.

The original proposed rule described eLandings printed reports in paragraph (e)(12). The supplemental proposed rule would redesignate paragraph (e)(12) as (e)(11) and change the heading to read “Printing of landing reports, landing receipts, and production reports.” It would remove paragraph (e)(12). Paragraph (e)(11)(i) would be added to describe the requirements to retain a printed paper copy onsite or onboard of each landing report; each production report; if IFQ halibut, IFQ sablefish, or CDQ halibut, each groundfish IFQ landing receipt; and if IFQ crab, each crab IFQ landing receipt. Paragraph (e)(11)(ii) would be added to describe the mothership requirement to print an additional copy of each landing report for the catcher vessel operator. This was omitted from the original proposed rule and this would reestablish the requirement in the regulations. The supplemental proposed rule would add new paragraph (e)(12) with a heading to read “Retention and inspection of landing reports, landing receipts, and production reports” and add a cross-reference to paragraphs (a)(5) and (a)(6) of this section for R&R retention and inspection requirements.

Section 679.5(f) Electronic Logbooks (ELBs). The electronic logbooks (ELBs) are alternatives to the daily fishing logbook (DFL) used by catcher vessels and the daily cumulative fishing logbook (DCPL) used by catcher/processors and motherships. The original proposed rule described use of an ELB in place of a DFL or DCPL but did not mention the necessary interaction with eLandings. The supplemental proposed rule would reorganize the text to arrange the regulations as they would be needed by the end-user and would describe the optional use of a combination of ELB and eLandings to record and report groundfish information. For catcher vessels, the ELB would be used to record and report all groundfish information. For catcher/processors and motherships, part of the information would be recorded in the ELB, and part of the information would be recorded in eLandings.

The supplemental proposed rule would revise paragraph (f) introductory text to state that, when pre-approved by NMFS, the operator may use a combination of a NMFS-approved ELB and eLandings to record and report groundfish information. This would change the sentence to active voice. It would revise paragraph (f)(1)(ii) to state that the operator of a catcher/processor using longline or pot gear may use a combination of a NMFS-approved catcher/processor longline or pot gear ELB and eLandings to record and report groundfish information. Paragraph (f)(1)(iv) would be revised to state that the operator of a catcher/processor using trawl gear may use a combination of a NMFS-approved catcher/processor trawl gear ELB and eLandings to record and report groundfish information. Paragraph (f)(1)(v) would be revised to state that the operator of a mothership may use a combination of a NMFS-approved mothership ELB and eLandings to record and report groundfish information.

Section 679.5(h) Check-in/Check-out Reports. A proposed rule designed to change the check-in/check-out requirements (CICO) at § 679.5(h) was published May 29, 2008 (73 FR 30876). The CICO proposed rule would eliminate the requirement for a check-in/check-out report for certain of the motherships and catcher/processors. The requirements of that proposed rule would be incorporated into this supplemental proposed rule so as to not reverse the changes after the IERS final rule is published. Current R&R regulations require operators of motherships and trawl, longline, and pot gear catcher/processors to record the occurrence of active and inactive periods. In the CICO proposed rule, NMFS proposes to revise the definitions of “active” status for catcher/processors, motherships, shoreside processors, and SFPs by removing “checked-in” as a reason for being active. “Active” status currently means “when checked-in or processing” for all those processors. “Active” status would be changed for motherships, shoreside processors, and SFPs to mean “when receiving or processing groundfish.” The definition for “active” for a catcher/processor using longline or pot gear would be revised to mean “when all or part of the longline or pot gear is in the water or when processing.” For a catcher/processor using trawl gear, the definition for “active” would be revised to mean “when all or part of the trawl net is in the water or when processing.”

To accommodate the changes provided in a check-in/check-out proposed rule (73 FR 30876, May 29, 2008) which proposed revising “active” period definitions, NMFS would revise paragraphs (c)(3)(iv)(A)(1) for catcher vessel, longline or pot gear; (c)(3)(iv)(B)(1) for catcher/processor, longline or pot gear; (c)(4)(iv)(A)(1) for catcher vessel, trawl gear; (c)(4)(iv)(B)(1) for catcher/processor, trawl gear; (c)(5)(ii) for shoreside processor or SFP; and (c)(6)(iv) for motherships. Paragraph (h)(2) would be revised to add an exception to check-in/check-out requirements if a catcher/processor has onboard an operating vessel monitoring system transmitter that meets the requirements of § 679.28(f).

Section 679.5(i) Weekly Production Reports (WPRs). The original proposed rule reorganized and revised WPRs at § 679.5(i). The supplemental proposed rule would revise paragraph (i) to state that the WPR is removed from use and to provide a cross-reference to the eLandings requirements in § 679.5(e). The operators of catcher/processors and motherships and managers of shoreside processors would use eLandings instead of WPRs. All the relevant information previously submitted in the WPRs would be included in the requirements for daily production reports under eLandings. This rule would also replace references to the WPR throughout 50 CFR part 679 with references to production reports.

Section 679.28 Equipment and Operational

Section 679.28 describes equipment and operational requirements. The supplemental proposed rule would revise § 679.28(a) to add a cross-reference to § 679.5(a)(5) and (a)(6) which describes record inspection, retention, and maintenance. With this change, NMFS' intention is to create consistent regulations regarding inspection, retention, and maintenance.

The original proposed rule described revisions to equipment and operational requirements in § 679.28(h) and added a new section to provide the process and criteria by which a private-sector vendor could get an ELB software program approved for use in the NMFS Alaska Region fisheries.

The supplemental proposed rule would revise § 679.28(h)(1)(iii) to increase the number of days NMFS has to review and approve vendor ELB software from 15 days to 60 days. After further evaluation of the ELB program, NMFS concludes that 15 days is not enough time to conduct the necessary review and evaluation process for ELB software.

Section 679.40 IFQ Properly Debit Account

Section 679.40 describes sablefish and halibut quota share allocations and other management measures. In the original proposed rule, paragraph (c)(3) was revised. The supplemental proposed rule would revise paragraph (c)(3) by adding “or following transfers or penalties (15 CFR part 904)” to the last line of the paragraph. This would indicate that an IFQ permit usually is issued prior to the start of the IFQ fishing season, but sometimes due to circumstances the IFQ permit is issued after the start of the IFQ fishing season due to transfer or penalty.

In the original proposed rule, paragraph (h) was added. The original proposed rule proposed standardization of the regulatory text describing the proper accounting or debit of IFQ sablefish or halibut quota. The supplemental proposed rule would reorganize § 679.40(h). It would redesignate paragraph (h)(3) as new (h)(1) and remove an incorrect cross-reference to § 679.5(e). It would redesignate § 679.5(l)(2)(iv)(D) as new § 679.40(h)(2) and update and reformat the regulations to include what constitutes confirmation of a properly debited account. The supplemental proposed rule would redesignate paragraph (h)(1) as new (h)(3) and would revise proposed redesignated paragraph (h)(3)(i) by removing the exception phrase at the beginning of the first sentence, as this was inappropriate. It would combine paragraph (h)(1)(ii) with paragraph (h)(2), redesignate it as paragraph (h)(3)(ii), and revise it. These two sentences need to be in the same paragraph because they refer to the same activity.

Tables & Figures to Part 679

The original proposed rule revised Table 9 by removing an outdated term and by adding other types of R&R, including VMS, in an attempt to list all the R&R requirements in 50 CFR part 679. The supplemental proposed rule would remove Table 9. Programs are continually revised or added to Alaska Region fisheries, which would require continued revision to Table 9, often with R&R requirements listed in sections other than § 679.5. Instead of adding new material to this table to become all encompassing, NMFS would remove Table 9 to avoid confusion by potentially duplicating information found in other parts of the regulations or inadvertently leaving out material.

The original proposed rule revised Table 2b by moving crab species from other tables and adding scientific names, as appropriate. The supplemental proposed rule would further revise Table 2b by removing notations which incorrectly indicate that the selected crab species were part of the BSAI Crab Rationalization Program. Erroneous check marks would be removed for Korean Horsehair, Box, Dungeness, Multispinus, and Verrilli crabs.

The original proposed rule revised Figures 3a, 5a, 7, and 12 to Part 679.

The supplemental proposed rule would revise Figure 7 to part 679 by correcting the cross-reference in the figure title by replacing § 679.24(d)(4)(iii) with § 679.24(d)(4).

The original proposed rule revised Figure 12 to part 679 by amending the figure title and legend to agree with regulatory text. The supplemental proposed rule would revise Figure 12 to part 679 by redrawing the graphic for the Nearshore Bristol Bay Trawl Closure Area to agree with the coordinates in the legend.

Section 680.2 Definitions

The original proposed rule revised paragraphs (1) through (4) of the definition for “Crab individual fishing quota (crab IFQ).” The supplemental proposed rule would revise those paragraphs to clarify that the distinctions between these paragraphs is dependent upon the initial quota share from which the crab IFQ was derived.

Section 680.5 Crab Rationalization Program R&R

eLandings was originally required by the Crab Rationalization Program (CR Program) for participants to submit the IFQ crab landing report (see § 680.5(c)). The original proposed rule removed these regulations from Part 680 and incorporated them into eLandings regulations at § 679.5(e) so that all eLandings regulations were in the same location. In addition, the original proposed rule added § 680.5(m) to describe the CR Program Registered Crab Receiver (RCR) Ex-vessel Volume and Value Report in which the reporting of “price per pound” currently is required under § 680.5(d)(7)(xx). In the original proposed rule, NMFS proposed to make optional the reporting of “price per pound” at the time of each landing on the IFQ crab landing report and to require annual reporting of this information on the CR Program RCR Ex-vessel Volume and Value Report. NMFS intended to also move the requirement from the CR Program landing report to the annual report for the participant to provide ex-vessel value and volume by CR management program, formerly found at § 680.5(d)(7)(vii), but inadvertently omitted this information. It was intended that the annual CR RCR Ex-vessel Volume and Value Report collect all the necessary information from each RCR for each CR management program.

The supplemental proposed rule would revise paragraph (m)(4) introductory text to explain that the CR RCR Ex-vessel Volume and Value Report would need to be completed only for priced crab that is delivered raw. It would redesignate paragraphs (m)(4)(ii) and (iii) as (m)(4)(iii) and (iv), respectively, and add new paragraph (m)(4)(ii) to require that a new reporting element, the CR crab program (IFQ, CDQ, Adak) be identified when recording volume and value information. Proposed redesignated paragraph (m)(4)(iii)(A) would be revised by replacing “crab fishery/species” with “crab fishery and species by month” because both elements, crab fishery and crab species, need to be identified in the database.

The supplemental proposed rule would revise paragraph (m)(4)(iii)(B) to clarify that ex-vessel value includes dollars, goods, and services. It would remove the last sentence regarding price adjustments because it is duplicative of paragraph (m)(4)(iii)(C). It would remove the text for paragraph (m)(4)(iv), which requests data elements found on a paper form, and replace it with a certification statement.

The supplemental proposed rule would revise paragraph (m)(5) introductory text by replacing mail and fax information with instructions for the RCR to log in to the NMFS-approved online data Web site to submit a CR RCR Ex-vessel Volume and Value Report. This revision would be available due to recent enhancements in the NMFS Alaska Region Web site.

Changes Resulting From Other Published Rules

Changes have been made to R&R text in final rules since the original proposed rule was published. The supplemental proposed rule would edit regulatory text to ensure that the changes made in other previous final rules are not reversed by this rule.

Regulations for the IFQ Program for the fixed-gear commercial Pacific halibut fishery and sablefish fishery were modified by a final rule on August 9, 2007 (72 FR 44795) (IFQ final rule). The IFQ final rule changed some paragraphs that were further designated for change in the original proposed rule, but due to timing differences, the changes were not made in the original proposed rule. The supplemental proposed rule would make these changes to maintain consistency in the regulations. Without these changes, the regulations would revert back to what they were prior to the IFQ final rule. The original proposed rule revised paragraphs (a)(2)(i) and (ii) and removed (a)(2)(iii) of § 679.5. The supplemental proposed rule would further revise paragraphs (a)(2)(i) and (a)(2)(ii) by adding a cross-reference to § 679.28 for additional R&R requirements and would add paragraphs (a)(2)(iii) and (a)(2)(iv) to describe the R&R responsibility of IFQ and CDQ permit holders that was provided in the IFQ final rule. The original proposed rule revised § 679.5(l)(2); the supplemental proposed rule would revise the heading for § 679.5(l)(2)(ii) to read “No movement of IFQ halibut, CDQ halibut, or IFQ sablefish.”

The final rule for Amendment 80 to the Fishery Management Plan for Groundfish of the Bering Sea and Aleutian Islands Management Area (72 FR 52668, September 14, 2007) and the final rule implementing Amendment 85 to the BSAI groundfish Fishery Management Plan for Groundfish of the Bering Sea and Aleutian Islands Management Area (72 FR 50788, September 4, 2007) removed regulations for submittal of the CDQ delivery report and the CDQ catch report, § 679.5(n)(1) and (n)(2). In the Remove/Add Table, the original proposed rule revised paragraph (n)(1)(i) by changing “SPELR” to “eLandings.” In the supplemental proposed rule this change would be removed.

Classification

The Administrator, Alaska Region, determined that this regulatory amendment is necessary for the conservation and management of the groundfish, halibut, and crab fisheries and that it is consistent with the Magnuson-Stevens Fishery Conservation and Management Act and other applicable laws.

This supplemental proposed rule has been determined to be not significant for purposes of Executive Order 12866.

An Initial Regulatory Flexibility Analysis (IRFA) was prepared for the original proposed rule as required by section 604 of the Regulatory Flexibility Act (RFA) and published in the June 29 original proposed rule (72 FR 35748, June 29, 2007) and is not repeated here. Copies of the IRFA are available from NMFS (see ADDRESSES).

Paperwork Reduction Act Collections of Information

This supplemental proposed rule contains collection-of-information requirements that are subject to review and approval by the Office of Management and Budget (OMB) under the Paperwork Reduction Act (PRA) and which have been approved by OMB. The collections are listed below by OMB control number.

OMB Control Number 0648-0206

Public reporting burden is estimated to average per response: 21 minutes for Federal fisheries permit and 21 minutes for Federal processor permit.

OMB Control Number 0648-0213

Public reporting burden is estimated to average per response: 28 minutes for catcher vessel longline and pot gear DFL; 18 minutes for catcher vessel trawl DFL; 31 minutes for shoreside processor DCPL; 31 minutes for mothership DCPL; 41 minutes for catcher/processor longline and pot gear DCPL; 30 minutes for catcher/processor trawl gear DCPL; 23 minutes for buying station report; 7 minutes for check-in/check-out report, mothership or catcher/processor; 8 minutes for check-in/check-out report, shoreside processor; 17 minutes for WPR; 28 minutes for catcher vessel longline and pot gear ELB; 18 minutes for catcher vessel trawl ELB; 20 minutes for catcher/processor longline and pot gear ELB; 15 minutes for catcher/processor trawl gear ELB; and 15 minutes for mothership ELB.

OMB Control Number 0648-0272

Public reporting burden for IFQ landing reports is estimated to average 18 minutes per response.

OMB Control Number 0648-0334

Public reporting burden is estimated to average per response: one hour for groundfish and crab LLP transfer application and one hour for scallop LLP transfer application.

OMB Control Number 0648-0515

Public reporting burden is estimated to average per response: 15 minutes for IERS application processor registration; 35 minutes for eLandings landing report; 35 minutes for manual landing report; and 15 minutes for catcher/processor or mothership eLandings production data.

OMB Control Number 0648-0570

Public reporting burden is estimated to average per response: 20 minutes for crab catcher/processor offload report, 40 hours for eligible crab community organization (ECCO) annual report; and 1 hour for CR Registered Crab Receiver Ex-vessel Volume and Value Report.

These estimates include the time for reviewing instructions, searching existing data sources, gathering and maintaining the data needed, and completing and reviewing the collection of information.

Send comments regarding this burden estimate, or any other aspect of this data collection, including suggestions for reducing the burden, to NMFS (see ADDRESSES) and by e-mail to David_Rostker@omb.eop.gov, or fax to 202-395-7285.

Notwithstanding any other provision of the law, no person is required to respond to, nor shall any person be subject to a penalty for failure to comply with, a collection of information subject to the requirements of the PRA, unless that collection of information displays a currently valid OMB control number.

List of Subjects in 50 CFR Parts 679 and 680

Alaska, Fisheries, Reporting and recordkeeping requirements.

Dated: September 11, 2008.
Samuel D. Rauch III,
Deputy Assistant Administrator for Regulatory Programs, National Marine Fisheries Service.

For the reasons set out in the preamble, NMFS proposes to amend 50 CFR parts 679 and 680 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.2:

A. Add in alphabetical order definitions for “At-sea operation”, “eLandings”, “Interagency electronic reporting system (IERS)”, “Maximum retainable amount (MRA)”, “Non-IFQ groundfish”, “Non-individual entity”, “Permit”, “Shoreside processor electronic logbook report (SPELR)”, “Single geographic location”, “User”, “User identification (UserID)”, and “Week-ending date”.

B. Revise the definitions of “Active/inactive periods”, “Associated processor”, “Gear deployment (or to set gear)”, “Gear retrieval (or to haul gear)”, “Haul”, “Prohibited species catch (PSC)”, and “Tender vessel”.

The additions and revisions read as follows:

§ 679.2 Definitions.

* * * * *

Active/inactive periods means for longline or pot gear catcher vessel, see § 679.5(c)(3)(iv)(A)(1); for longline or pot gear catcher/processor, see § 679.5(c)(3)(iv)(B)(1); for trawl gear catcher vessel, see § 679.5(c)(4)(iv)(A)(1); for trawl gear catcher/processor, see § 679.5(c)(4)(iv)(B)(1); for shoreside processor or SFP, see § 679.5(c)(5)(ii); for mothership, see § 679.5(c)(6)(iv).

* * * * *

Associated processor means:

(1) Relationship with a buying station. A mothership or catcher/processor issued an FFP, or a shoreside processor or SFP issued an FPP, with a contractual relationship with a buying station to conduct groundfish buying station activities for that processor.

(2) Relationship with a custom processor. A mothership or catcher/processor issued an FFP or a shoreside processor or SFP issued an FPP, with a contractual relationship with a custom processor to process groundfish on its behalf.

At-sea operation means, for purposes of eLandings, a catcher/processor or mothership that is receiving and/or processing fish in State waters and/or in waters of the EEZ off the coast of Alaska.

* * * * *

eLandings means the Internet data entry system or desktop client components of the Interagency Electronic Reporting System (IERS) for reporting commercial fishery landings and production from waters off Alaska.

* * * * *

Gear deployment (or to set gear) (see § 679.5(c)(3)(vi)(B) for longline and pot gear; see § 679.5(c)(4)(vi)(B) for trawl gear).

Gear retrieval (or to haul gear) (see § 679.5(c)(3)(vi)(C) for longline and pot gear; see § 679.5(c)(4)(vi)(C) for trawl gear).

* * * * *

Haul means the retrieval of trawl gear which results in catching fish or which does not result in catching fish; a test of trawl gear; or when non-functional gear is pulled in, even if no fish are harvested. All hauls of any type need to be recorded and numbered throughout the year, whether or not fish are caught.

* * * * *

Interagency electronic reporting system (IERS) means an interagency electronic reporting system that allows fishery participants to use the Internet or desktop client software named eLandings to enter landings and production data for appropriate distribution to the ADF&G, IPHC, and NMFS Alaska Region (see § 679.5(e)).

* * * * *

Maximum retainable amount (MRA) (see § 679.20(e)).

* * * * *

Non-IFQ groundfish means groundfish, other than IFQ sablefish.

Non-individual entity means a person who is not an individual or “natural” person; it includes corporations, partnerships, estates, trusts, joint ventures, joint tenancy, and any other type of “person” other than a natural person.

* * * * *

Permit means documentation granting permission to fish and includes “license” as a type of permit.

* * * * *

Prohibited species catch (PSC) means any of the species listed in Table 2b to this part.

* * * * *

Shoreside processor electronic logbook report (SPELR) (discontinued, see definition of “eLandings” under this section).

* * * * *

Single geographic location (see § 679.4(l)(5)(iii)).

* * * * *

Tender vessel (see also the definition of “buying station” under this section) means a vessel that is used to transport unprocessed fish or shellfish received from another vessel to an associated processor.

* * * * *

User means, for purposes of IERS and eLandings, an individual representative of a Registered Buyer; a Registered Crab Receiver; a mothership or catcher/processor that is required to have a Federal Fisheries Permit (FFP) under § 679.4; a shoreside processor or SFP and mothership that receives groundfish from vessels issued an FFP under § 679.4; any shoreside processor or SFP that is required to have a Federal processor permit under § 679.4; and his or her designee(s).

User identification (UserID), for purposes of IERS and eLandings, means the string of letters and/or numbers that identifies the individual and gives him or her authorization to view and submit reports for specific operations or to otherwise use eLandings. To facilitate the management of Users and privileges and to provide for data security, a separate UserID is issued to each individual.

* * * * *

Week-ending date means the last day of the weekly reporting period which ends on Saturday at 2400 hours, A.l.t., except during the last week of each calendar year, when it ends at 2400 hours, A.l.t., December 31.

* * * * *

3. In § 679.4:

A. Paragraph (a)(4) is removed and reserved.

B. Paragraphs (a)(1)(i)(A), (a)(1)(iv)(A), (a)(1)(iv)(B), (a)(3)(i), (a)(3)(iii), (b) heading, (b)(3), (b)(4), (b)(5) heading, (b)(5)(iv), (e)(2), (e)(3), (f) heading, (f)(2), (f)(3), (f)(4), (g)(1), (k) heading, and (l)(1)(iv) are revised.

C. Paragraphs (a)(1)(vii)(C), (a)(1)(xiv), (a)(9), (b)(5)(vi)(C), (d)(1)(iii), (d)(2)(iv), (d)(3)(v), (k)(6)(x), (l)(1)(ii)(C), and (l)(5)(ii) are added.

The revisions and additions read as follows:

§ 679.4 Permits.

(a) * * *

(1) * * *

If program permit type is: | Permit is in effect from issue date . . . | For more information, see . . .
(i) * * *
(A) Registered buyer | Until expiration date shown on permit | Paragraph (d)(3)(ii) of this section.
| * * * * * * *
(iv) * * *
(A) Federal fisheries | Until expiration date shown on permit | Paragraph (b) of this section.
(B) Federal processor | Until expiration date shown on permit | Paragraph (f) of this section.
| * * * * * * *
(vii) * * *
(C) Scallop license | Indefinite | Paragraph (g) of this section.
| * * * * * * *
(xiv) Crab Rationalization Program permits | see § 680.4 | § 680.4.
(A) Crab Quota Share permit | Indefinite | § 680.4(b).
(B) Crab Processor Quota Share permit | Indefinite | § 680.4(c).
(C) Crab Individual Fishing Quota (IFQ) permit | Specified fishing year | § 680.4(d).
(D) Crab Individual Processor Quota (IPQ) permit | Specified fishing year | § 680.4(e).
(E) Crab IFQ hired master permit | Specified fishing year | § 680.4(g).
(F) Registered Crab receiver permit | Specified fishing year | § 680.4(i).
(G) Federal crab vessel permit | Specified fishing year | § 680.4(k).
(H) Crab harvesting cooperative IFQ permit | Specified fishing year | § 680.21(b).

* * * * *

(3) * * *

(i) A person may obtain an application for a new permit or for renewal or revision of an existing permit for any of the permits under this section and must submit forms to NMFS as instructed in application instructions. With appropriate software, all permit applications may be completed online and printed from the Alaska Region Web site at http://www.alaskafisheries.noaa.gov.

* * * * *

(iii) The operator, manager, Registered Buyer, or Registered Crab Receiver must obtain a separate permit for each applicant, facility, or vessel, as appropriate to each Federal permit in this section (§ 679.4) and retain a copy of each permit application, whether the application is requesting an initial permit or renewing or revising an existing permit.

* * * * *

(9) Permit surrender. The Regional Administrator will recognize the voluntary surrender of a permit issued in this section, § 679.4, if a permit may be surrendered and it is submitted by the person named on the permit, owner of record, or agent. Submit the original permit to Program Administrator, RAM Program, P.O. Box 21668, Juneau, AK 99802, by certified mail or other method that provides written evidence that NMFS Alaska Region received it. The receiving date of signature by NMFS staff is the date the permit was surrendered.

(b) Federal fisheries permit (FFP)

* * * * *

(3) Vessel operations categories. An FFP authorizes a vessel owner to deploy a vessel to conduct operations in the GOA or BSAI under the following categories: Catcher vessel, catcher/processor, mothership, tender vessel, or support vessel. A vessel may not be operated in a category other than as specified on the FFP, except that a catcher vessel, catcher/processor, mothership, or tender vessel may be operated as a support vessel.

(4) Duration—(i) Length of permit effectiveness. An FFP is in effect from the effective date through the expiration date, unless it is revoked, suspended, surrendered in accordance with paragraph (a)(9) of this section, or modified under § 600.735 or § 600.740 of this chapter.

(ii) Surrendered permit. An FFP permit may be voluntarily surrendered in accordance with paragraph (a)(9) of this section. An FFP may be reissued in the same fishing year in which it was surrendered to the permit holder of record. Contact NMFS/RAM by telephone locally at 907-586-7202 (Option #2) or toll-free at 800-304-4846 (option #2).

(iii) Amended permit. An owner or operator, who applied for and received an FFP, must notify NMFS of any change in the permit information by submitting an FFP application found at the NMFS Web site http://www.alaskafisheries.noaa.gov as instructed on the application form. Upon receipt and approval of a permit amendment, the Program Administrator, RAM, will issue an amended FFP.

(5) Contents of an FFP application. * * *

* * * * *

(iv) Area and gear information. Indicate the type of vessel operation. If catcher/processor or catcher vessel, indicate only the gear types used for groundfish fishing. If the vessel is a catcher/processor under 125 ft (18.3 m) LOA that is intended to process GOA inshore pollock or GOA inshore Pacific cod, mark the box for a GOA inshore processing endorsement.

* * * * *

(vi) * * *

(C) Selections for species endorsements will remain valid until an FFP is amended to remove those endorsements or the permit with these endorsements is surrendered or revoked.

* * * * *

(d) * * *

(1) * * *

(iii) An IFQ permit may be voluntarily surrendered in accordance with paragraph (a)(9) of this section. An IFQ permit will not be reissued in the same fishing year in which it was surrendered, but may be reissued to the quota share holder of record in a subsequent fishing year. Contact NMFS/RAM for more information locally at 907-586-7202 (Option #2) or toll-free at 800-304-4846 (option #2).

(2) * * *

(iv) An IFQ hired master permit may be voluntarily surrendered in accordance with paragraph (a)(9) of this section. An IFQ hired master permit may be reissued to the permit holder of record in the same fishing year in which it was surrendered. Contact NMFS/RAM for more information by telephone locally at 907-586-7202 (Option #2) or toll-free at 800-304-4846 (option #2).

(3) * * *

(v) A Registered Buyer permit may be voluntarily surrendered in accordance with paragraph (a)(9) of this section. A Registered Buyer permit may be reissued to the permit holder of record in the same fishing year in which it was surrendered. Contact NMFS/RAM for more information by telephone locally at 907-586-7202 (Option #2) or toll-free at 800-304-4846 (option #2).

* * * * *

(e) * * *

(2) Halibut CDQ permit. The CDQ group must obtain a halibut CDQ permit issued by the Regional Administrator. The vessel operator must have a copy of the halibut CDQ permit on any fishing vessel operated by, or for, a CDQ group that will have halibut CDQ onboard and must make the permit available for inspection by an authorized officer. The halibut CDQ permit is non-transferable and is issued annually until revoked, suspended, surrendered, or modified. A halibut CDQ permit may be voluntarily surrendered in accordance with paragraph (a)(9) of this section. The halibut CDQ permit will not be reissued in the same fishing year in which it was surrendered, but may be reissued in a subsequent fishing year to the CDQ group entitled to a CDQ halibut allocation. Contact NMFS/RAM for more information by telephone locally at 907-586-7202 (Option #2) or toll-free at 800-304-4846 (option #2).

(3) An individual must have onboard the vessel a legible copy of his or her halibut CDQ hired master permit issued by the Regional Administrator while harvesting and landing any CDQ halibut. Each halibut CDQ hired master permit will identify a CDQ permit number and the individual authorized by the CDQ group to land halibut for debit against the CDQ group's halibut CDQ. A halibut CDQ hired master permit may be voluntarily surrendered in accordance with paragraph (a)(9) of this section. A halibut CDQ hired master permit may be reissued to the permit holder of record in the same fishing year in which it was surrendered. Contact NMFS/RAM for more information by telephone locally at 907-586-7202 (Option #2) or toll-free at 800-304-4846 (option #2).

* * * * *

(f) Federal processor permit (FPP)

* * * * *

(2) Contents of an FPP application. To obtain an FPP, the owner must complete an FPP application and provide the following information (see paragraphs (f)(2)(i) through (v) of this section for each SFP and shoreside processor plant to be permitted):

(i) New or amended permit. Indicate whether application is for a new or amended FPP; and if an amended permit, provide the current FPP number. Indicate whether application is for a shoreside processor or an SFP.

(ii) Owner information. Indicate the name(s), permanent business mailing address, business telephone number, business fax number, and business e-mail address of all owners, and if applicable, the name of any person or company (other than the owner) who manages the operations of the shoreside processor or SFP.

(iii) SFP information. Indicate the vessel name; whether this is a vessel of the United States; USCG documentation number; ADF&G vessel registration number; ADF&G processor code; the vessel's LOA (ft); registered length (ft); gross tonnage; net tonnage; shaft horsepower; homeport (city and state); and whether choosing to receive a GOA inshore processing endorsement. A GOA inshore processing endorsement is required in order to process GOA inshore pollock and GOA inshore Pacific cod.

(iv) Shoreside processor information. Indicate the shoreside processor's name; permanent business mailing address; physical location of plant at which the shoreside processor is operating (street, city, state, zip code); whether the shoreside processor is replacing a previous processor at this facility (YES or NO, and if YES, name of previous processor; whether multiple processing businesses are using this plant; whether the owner named in paragraph (f)(2)(ii) of this section owns this plant; ADF&G processor code; business telephone number; business fax number; and business e-mail address.

(v) Signature. The owner or agent of the owner of the shoreside processor or SFP must sign and date the application. If the owner is a company, the agent of the owner must sign and date the application.

(3) Issuance. Upon receipt of a properly completed permit application, the Regional Administrator will issue a Federal processor permit required by this paragraph (f).

(4) Duration—(i) Length of effectiveness. An FPP is in effect from the effective date through the date of permit expiration, unless it is revoked, suspended, surrendered in accordance with paragraph (a)(9) of this section, or modified under § 600.735 or § 600.740 of this chapter.

(ii) Surrendered permit. An FPP may be voluntarily surrendered in accordance with paragraph (a)(9) of this section. An FPP may be reissued to the permit holder of record in the same fishing year in which it was surrendered. Contact NMFS/RAM for more information by telephone locally at 907-586-7202 (Option #2) or toll-free at 800-304-4846 (option #2).

(iii) Amended permit. An owner or operator, who applied for and received an FPP, must notify NMFS of any change in the permit information by submitting an FPP application found at the NMFS Web site http://www.alaskafisheries.noaa.gov. The owner or operator must submit the application as instructed on the application form. Upon receipt and approval of a permit amendment, the Program Administrator, RAM, will issue an amended FPP.

* * * * *

(g) * * *

(1) General requirements. (i) In addition to the permit and licensing requirements prescribed in this part, each vessel within the EEZ off Alaska that is catching and retaining scallops, must have an original scallop LLP license onboard at all times it is catching and retaining scallops. This scallop LLP license, issued by NMFS, authorizes the person named on the license to catch and retain scallops in compliance with State of Alaska regulations and only with a vessel that does not exceed the maximum LOA specified on the license and the gear designation specified on the license.

(ii) A scallop LLP license may be voluntarily surrendered in accordance with paragraph (a)(9) of this section. A surrendered scallop LLP license will cease to exist and will not be subsequently reissued. Contact NMFS/RAM for more information by telephone locally at 907-586-7202 (Option #2) or toll-free at 800-304-4846 (option #2).

* * * * *

(k) Licenses for license limitation (LLP) groundfish or crab species

* * * * *

(6) * * *

(x) Surrender of groundfish or crab LLP. A groundfish or crab LLP license may be voluntarily surrendered in accordance with paragraph (a)(9) of this section. A surrendered groundfish or crab LLP license will cease to exist and will not be subsequently reissued. Contact NMFS/RAM for more information by telephone locally at 907-586-7202 (Option #2) or toll-free at 800-304-4846 (option #2).

* * * * *

(l) * * *

(1) * * *

(ii) * * *

(C) Surrender of AFA permits. Except for AFA inshore processor permits, AFA permits may not be surrendered.

* * * * *

(iv) Amended permits. AFA vessel and processor permits may not be used on or transferred to any vessel or processor that is not listed on the permit. However, AFA permits may be amended by NMFS to reflect any change in the ownership of the vessel or processor after submittal of this information to NMFS in a written letter.

* * * * *

(5) * * *

(ii) Surrender of permit. An AFA inshore processor permit may be voluntarily surrendered in accordance with paragraph (a)(9) of this section. The AFA inshore processor permit will not be reissued in the same fishing year in which it was surrendered, but may be reapplied for and if approved, reissued to the permit holder of record in a subsequent fishing year. Contact NMFS/RAM for more information by telephone locally at 907-586-7202 (Option #2) or toll-free at 800-304-4846 (option #2).

* * * * *

4. In § 679.5:

A. Paragraphs (j) and (m) are removed and reserved.

B. Paragraphs (a) through (f), (g)(1) introductory text, (h), (i), (l)(1)(iv), and (l)(2) are revised.

The revisions read as follows:

§ 679.5 Recordkeeping and reporting (R&R).

(a) General R&R requirements. R&R requirements include, but are not limited to, paper and electronic documentation, logbooks, forms, reports, receipts, computer printouts, and requests for inspection described in this section and in § 679.28.

(1) Groundfish logbooks and forms. (i) The Regional Administrator will prescribe and provide groundfish logbooks required under this section. All groundfish forms required under this section are available from the Alaska Region Web site at http://www.alaskafisheries.noaa.gov or may be requested by calling the Sustainable Fisheries Division at 907-586-7228 or faxing 907-586-7465. The forms may be completed online, printed, and mailed or faxed to NMFS at the address or fax number shown on the form. The forms also may be completed online, saved as a file, and submitted to NMFS as an attachment to an e-mail to the e-mail address shown on the form.

(ii) Current editions. The operator must use the current edition of the logbooks and current format of the forms. Upon approval from the Regional Administrator NMFS-approved electronic versions of the forms may be used. Upon written notification and approval by the Regional Administrator, logbooks from the previous year may be used.

(iii) Management program defined. A “management program” is a unique fishery program with a specific management strategy and/or allocation. Harvest that occurred under the management programs listed below must be recorded separately in the logbooks, forms, and eLandings.

If harvest made under . . . program | Record the . . . | For more information, see . . .
(A) Western Alaska Community Development Quota (CDQ) | CDQ group number | subpart C of this part.
(B) Exempted Fishery | Exempted fishery permit number | § 679.6.
(C) Research Fishery | Research fishery permit number | § 600.745(a) of this chapter.
(D) Aleutian Islands Pollock (AIP) | n/a | subpart F of this part.
(E) Open access (OA) | [for recording in eLandings only] | paragraph (e) of this section.

(2) Responsibility. (i) The operator of a catcher vessel, catcher/processor, mothership, or buying station receiving groundfish from a catcher vessel and delivering to a mothership (hereafter referred to as the operator) and the manager of a shoreside processor, SFP, or buying station receiving groundfish from a catcher vessel and delivering to a shoreside processor or SFP (hereafter referred to as the manager) are each responsible for complying with the applicable R&R requirements in this section and in § 679.28.

(ii) The owner of a vessel, shoreside processor, SFP, or buying station is responsible for compliance and must ensure that the operator, manager, or representative (see paragraph (b) of this section) complies with the applicable R&R requirements in this section and in § 679.28.

(iii) The IFQ permit holder, IFQ hired master permit holder, or Registered Buyer must comply with the R&R requirements provided at paragraphs (e), (g), (k), and (l) of this section.

(iv) The CDQ permit holder, CDQ hired master permit holder, or Registered Buyer must comply with the R&R requirements provided at paragraphs (e), (g), (k), and (l)(1) through (6) of this section.

(3) Fish to be recorded and reported. The operator or manager must record and report the following information (see paragraphs (a)(3)(i) through (iv) of this section) for all groundfish (see Table 2a to this part), prohibited species (see Table 2b to this part) and forage fish (see Table 2c to this part). The operator or manager may record and report the following information (see paragraphs (a)(3)(i) through (iv) of this section) for non-groundfish (see Table 2d to this part):

(i) Harvest information;

(ii) Receipt information from catcher vessels and buying stations, including fish received from vessels not required to have an FFP; and fish received under contract for handling or processing for another processor;

(iii) Discard or disposition information, including fish reported but not delivered to the operator or manager, e.g., fish used onboard a vessel, when receiving catch from a catcher vessel or buying station; and

(iv) Transfer information, including fish transferred out of the facility or off the vessel.

(4) Exemptions—(i) Catcher vessels less than 60 ft (18.3 m) LOA. Except for the vessel activity report described at paragraph (k) of this section, the owner or operator of a catcher vessel less than 60 ft (18.3 m) LOA is not required to comply with the R&R requirements of this section.

(ii) Catcher vessels that take groundfish in crab pot gear for use as crab bait on that vessel. (A) Owners or operators of catcher vessels who, when crab is open anywhere or in the same area as an open crab season, take groundfish in crab pot gear for use as crab bait onboard their same vessels, and the bait is neither transferred nor sold, are not required to comply with R&R requirements of this section.

(B) This exemption does not apply to fishermen who:

(1) Catch groundfish for bait during an open crab season and sell that groundfish or transfer it to another vessel, or

(2) Participate in a directed fishery for groundfish using any gear type during periods that are outside an open crab season for use as crab bait onboard their vessel.

(C) No groundfish species listed by NMFS as “prohibited” in a management or regulatory area may be taken in that area for use as bait.

(5) Inspection and retention of records—(i) Inspection of records. The operator or manager must make available for inspection the R&R documentation in this section and in § 679.28 upon the request of an authorized officer.

(ii) Retention of records. The operator or manager must retain the R&R documentation described in this section and in § 679.28:

(A) On site. Retain these records on site at the shoreside processor or SFP, or onboard the vessel until the end of the fishing year during which the records were made and for as long thereafter as fish or fish products recorded in the R&R documentation are retained.

(B) For 3 years. Retain these records for 3 years after the end of the fishing year during which the records were made.

(6) Maintenance of records. The operator or manager must maintain all records described in this section and in § 679.28 in English and in a legible, timely, and accurate manner, based on Alaska local time (A.l.t.); if handwritten, in indelible ink; if computer-generated, as a legible printed paper copy.

(7) Custom processing. The manager of a shoreside processor or SFP or the operator of a mothership must record products that result from custom processing for another person in eLandings consistently throughout a fishing year using one of the following two methods:

(i) Combined records. Record landings, discards or dispositions, and products of custom-processed groundfish routinely in eLandings using processor name, FFP or FPP number, and ADF&G processor code; or

(ii) Separate records. Record landings, discards or dispositions, and products of custom-processed groundfish in eLandings identified by the name, FPP number or FFP number, and ADF&G processor code of the associated business entity.

(b) Representative. The operator of a catcher vessel, mothership, catcher/processor, or buying station delivering to a mothership or manager of a shoreside processor, SFP, or buying station delivering to a shoreside processor or SFP may identify one contact person to complete the logbook and forms and to respond to inquiries from NMFS. Designation of a representative under this paragraph does not relieve the owner, operator, or manager of responsibility for compliance under paragraphs (a)(1) through (6) of this section.

(c) Logbooks—(1) Requirements—(i) Use of two or more vessel logbooks of same gear type. If using more than one logbook of the same gear type in a fishing year onboard a vessel, the operator must ensure that the page numbers follow the consecutive order of the previous logbook.

(ii) Use of two or more vessel logbooks of different gear types. If two or more different gear types are used onboard a vessel in a fishing year, the operator(s) of this vessel must use the same number of separate vessel logbooks for the different gear types, each separately paginated.

(iii) Two vessel logbooks for pair trawl. If two vessels are dragging a trawl between them (pair trawl), the operator of each vessel must maintain a separate logbook to record the amount of the catch retained and fish discarded by that vessel. Each of the two logbooks must be separately paginated.

(iv) Two logbooks of different operation. If a vessel functions both as a mothership and as a catcher/processor in the same fishing year, the operator(s) must maintain two logbooks, a separate logbook for each operation type, each separately paginated.

(v) Alteration of logbook information. (A) Except as described in paragraph (c)(1)(v)(B) of this section, no person may alter or change any entry or record in a logbook.

(B) An inaccurate or incorrect entry or record must be corrected by lining out the original and inserting the correction, provided that the original entry or record remains legible. All corrections must be made in ink.

(vi) Logsheet distribution and submittal. (A) No person except an authorized officer may remove any original white logsheet of any logbook.

(B) The operator must distribute and submit logsheets as indicated in the following table:

Logsheet Distribution and Submittal
If logsheet color is . . . | Logsheet found in these logbooks: CV lgl | Logsheet found in these logbooks: CV trw | Logsheet found in these logbooks: CP lgl | Logsheet found in these logbooks: CP trw | Logsheet found in these logbooks: MS | Submit to . . . | Time limit
(1) White | X | X | X | X | X | Must retain, permanently bound in logbook.
(2) Goldenrod | X | X | X | X | X | Observer | After signature of operator and prior to departure of observer from the vessel.
(3) Yellow | X | X | X | X | X | Must submit quarterly to: NOAA Fisheries Office for Law Enforcement Alaska Region Logbook Program, P.O. Box 21767, Juneau, AK 99802-1767, Telephone: 907-586-7225 | On the following schedule: 1st quarter by May 1 of that fishing year. 2nd quarter by August 1 of that fishing year. 3rd quarter by November 1 of that fishing year. 4th quarter by February 1 of the following fishing year.
(4) Blue | X | X |  |  |  | Mothership, shoreside processor, SFP, or buying station that receives the harvest | Within 2 hours after completion of catch delivery.
(5) Green | X |  | X |  |  | Optional, but may be required by IPHC (see §§ 300.60 through 300.65 of this chapter) | If required, after the vessel's catch is off-loaded.
Note: CP = catcher/processor; CV = catcher vessel; lgl = longline; trw = trawl; MS = mothership.

(2) Recording active and inactive time periods in the DFL or DCPL—(i) Account for each day of the fishing year. The operator must account for each day of the fishing year, January 1 through December 31, in the DFL or DCPL and indicate whether the vessel or processor was active or inactive during the time period.

(A) An active period by fishing category is defined in the following paragraphs under this section:

Paragraph | Fishing category
(c)(3)(iv)(A)(1) | Catcher vessel, longline or pot gear.
(c)(3)(iv)(B)(1) | Catcher/processor, longline or pot gear.
(c)(4)(iv)(A)(1) | Catcher vessel, trawl gear.
(c)(4)(iv)(B)(1) | Catcher/processor, trawl gear.
(c)(5)(ii) | Shoreside processor or SFP.
(c)(6)(iv) | Mothership.

(B) An inactive period is defined as a time period other than active.

(ii) Record January 1 on page 1. The operator must record the first day of the fishing year, January 1, on page one of the DFL or DCPL regardless of whether the vessel or processor was active or inactive. The operator must record time periods consecutively.

(iii) Required information for inactive periods. If inactive, the operator must record the following information (see paragraphs (c)(2)(iii)(A) through (F) of this section) on one logsheet in the DFL or DCPL:

(A) If a catcher vessel, vessel name, ADF&G vessel registration number, FFP number or Federal crab vessel permit number, operator printed name, operator signature, and page number.

(B) If a mothership or catcher/processor, record vessel name, ADF&G processor code, FFP number, operator printed name, operator signature, and page number.

(C) Mark “inactive.”

(D) Record the date (mm/dd) of the first day when inactive under “Start date.”

(E) Write brief explanation why inactive, e.g., bad weather or equipment failure. If inactive due to surrender of a FFP or FPP, write “surrender of permit” as the reason for inactivity.

(F) Record the date (mm/dd) of the last day when inactive under “End date.”

(iv) Inactive two or more quarters. If the inactive time period extends across two or more successive quarters, the operator must complete a logsheet for each inactive quarter. The first logsheet must indicate the first and last day of the first inactive quarter. Successive logsheets must indicate the first and last day of its respective inactive quarter.

(3) Longline and pot gear catcher vessel DFL and catcher/processor DCPL—(i) Responsibility—(A) Groundfish fisheries. (1) Except as described in paragraph (f)(1)(i) of this section, the operator of a catcher vessel 60 ft (18.3 m) or greater LOA, that is required to have an FFP under § 679.4(b) and that is using longline or pot gear to harvest groundfish must maintain a longline and pot gear DFL.

(2) Except as described in paragraph (f)(1)(ii) of this section, the operator of a catcher/processor that is required to have an FFP under § 679.4(b) and that is using longline or pot gear to harvest groundfish must use a combination of catcher/processor longline and pot gear DCPL and eLandings to record and report daily processor identification information, catch-by-set information, groundfish production data, and groundfish and prohibited species discard or disposition data.

(B) IFQ halibut, CDQ halibut, and IFQ sablefish fisheries. (1) Except as described in paragraph (f)(1)(i) of this section, the operator of a catcher vessel 60 ft (18.3 m) or greater LOA, using fixed gear (NMFS), setline (IPHC), or pot gear to harvest IFQ sablefish, IFQ halibut, or CDQ halibut from the GOA or BSAI, must maintain a longline and pot gear DFL.

(2) Except as described in paragraph (f)(1)(ii) of this section, the operator of a catcher/processor that is using longline or pot gear to harvest IFQ sablefish, IFQ halibut, or CDQ halibut from the GOA or BSAI must use a combination of catcher/processor longline and pot gear DCPL and eLandings to record and report daily processor identification information, catch-by-set halibut and sablefish landings data, and halibut, sablefish, and prohibited species discard or disposition data.

(C) CR crab fisheries. (1) The operator of a catcher vessel 60 ft (18.3 m) or greater LOA, using pot gear to harvest CR crab from the BSAI must maintain a longline and pot gear DFL.

(2) The operator of a catcher/processor that is using pot gear to harvest CR crab from the BSAI must use a combination of catcher/processor longline and pot gear DCPL and eLandings to record and report daily processor identification information, CR crab landings data, and CR crab and prohibited species discard or disposition data.

(ii) Data entry time limits—(A) Catcher vessel. The operator of a catcher vessel using longline or pot gear must record in the DFL the information from the following table for each set within the specified time limit:

Data Entry Time Limits, Catcher Vessel Longline or Pot Gear
Required information | Time limit for recording
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | Within 2 hours after completion of gear retrieval.
(2) Discard and disposition information | By noon each day to record the previous day's discard and disposition information.
(3) Submit the blue DFL to mothership, shoreside processor, SFP, or buying station receiving catch | Within 2 hours after completion of catch delivery.
(4) All other required information | Within 2 hours after the vessel's catch is off-loaded, notwithstanding other time limits.
(5) Operator sign the completed logsheets | Within 2 hours after completion of catch delivery.
(6) Submit goldenrod logsheet to the observer | After signature of operator and prior to departure of observer from the vessel.

(B) Catcher/processor. The operator of a catcher/processor using longline or pot gear must record in the DCPL or eLandings the information from the following table for each set within the specified time limit:

Data Entry Time Limits, Catcher/Processor Longline or Pot Gear
Required information | Record in: DCPL | Record in: eLandings | Time limit for recording
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | X | X | Within 2 hours after completion of gear retrieval.
(2) Discard and disposition information |  | X | By noon each day to record the previous day's discard and disposition information.
(3) Product information |  | X | By noon each day to record the previous day's production information.
(4) All other required information | X | X | By noon of the day following completion of production.
(5) Operator sign the completed logsheets | X | X | By noon of the day following the week-ending date of the weekly reporting period.
(6) Submit goldenrod logsheet to the observer | X |  | After signature of operator and prior to departure of observer from the vessel.

(iii) Required information, if inactive. See paragraph (c)(2) of this section.

(iv) Required information, if active—(A) Catcher vessel, longline or pot gear. (1) A catcher vessel using longline or pot gear is active when gear remains on the grounds in a reporting area (except reporting areas 300, 400, 550, or 690), regardless of the vessel location.

(2) If the catcher vessel identified in paragraph (c)(3)(i)(A)(1) of this section is active, the operator must record in the DFL, for one or more days on each logsheet, the information listed in paragraphs (c)(3)(v), (vi), (viii), (ix), and (x) of this section.

(3) Retain and record discard quantities over the MRA. When a catcher vessel is fishing in an IFQ fishery and the fishery for Pacific cod or rockfish is closed to directed fishing but not in PSC status in that reporting area as described in § 679.20, the operator must retain and record up to and including the maximum retainable amount (MRA) for Pacific cod or rockfish as defined in Table 10 or 11 to this part. Quantities over this amount must be discarded and recorded as discard in the logbook.

(B) Catcher/processor, longline or pot gear. (1) A catcher/processor using longline or pot gear is active when processing or when all or part of the longline or pot gear is in the water.

(2) If the catcher/processor identified in paragraph (c)(3)(i)(A)(2) of this section is active, the operator must record in the DCPL the information listed in paragraphs (c)(3)(v) and (vi) of this section and must record in eLandings the information listed in paragraphs (c)(3)(v), (vii), (viii), and (x) of this section.

(3) Retain and record discard quantities over the MRA. When a catcher/processor is fishing in an IFQ fishery and the fishery for Pacific cod or rockfish is closed to directed fishing but not in PSC status in that reporting area as described in § 679.20, the operator must retain and record up to and including the MRA for Pacific cod or rockfish as defined in Table 10 or 11 to this part. Quantities over this amount must be discarded and recorded as discard in eLandings.

(v) Identification information—(A) Page number. Number the pages in each logbook consecutively, beginning on the first page of the DFL or DCPL with page 1 for January 1 and continuing for the remainder of the fishing year.

(B) Printed name and signature of operator. The operator's name must be printed in the DFL or DCPL. The operator must sign each completed logsheet of the DFL or DCPL as verification of acceptance of the responsibility required in paragraph (a)(2) of this section.

(C) Vessel identification. Name of vessel as displayed in official documentation; FFP number or Federal crab vessel permit number of the vessel; and ADF&G vessel registration number if a catcher vessel or ADF&G processor code if a catcher/processor.

(D) Other permit numbers (if applicable). IFQ permit number of the operator, if any, and each permit number of any IFQ permit on which anyone aboard is authorized to fish; groundfish CDQ group number; and halibut CDQ permit number.

(E) Reporting area—(1) Groundfish. Record the Federal reporting area code (see Figures 1 and 3 to this part) where gear retrieval was completed, regardless of where the majority of the set took place. Use a separate logsheet for each reporting area.

(2) IFQ halibut and CDQ halibut. Record the IPHC regulatory area (see Figure 15 to this part) where gear retrieval was completed, regardless of where the majority of the set took place.

(3) CR crab. Leave this field blank.

(F) Crew size. If a catcher vessel, record the number of crew members (including operator), excluding certified observer(s), on the last day of a trip. If a catcher/processor, record the number of crew members (including operator), excluding certified observer(s), on the last day of the weekly reporting period.

(G) Gear type. Use a separate logsheet for each gear type. From the following table, indicate the gear type used to harvest the fish and appropriate “gear ID.” In addition, if using hook-and-line gear, enter the alphabetical letter that coincides with the gear description. If gear information is the same on subsequent logsheets, mark the box instead of re-entering the gear type information on the next logsheet.

If gear type is . . . | Then . . .
(1) Other gear | If gear is other than those listed within this table, indicate “Other” and describe.
(2) Pot gear | Enter the number of pots lost (optional, but may be required by IPHC regulations (see §§ 300.60 through 300.65 of this chapter)) and number of pots set.
(3) Hook-and-line gear | Indicate: (i) Whether gear is fixed hook (conventional or tub), autoline, or snap (optional, but may be required by IPHC regulations (see §§ 300.60 through 300.65 of this chapter)).
| (ii) Length of skate to the nearest foot (optional, but may be required by IPHC regulations (see §§ 300.60 through 300.65 of this chapter)), number of skates lost (optional, but may be required by IPHC regulations (see §§ 300.60 through 300.65 of this chapter)), and number of skates set.
| (iii) Number of hooks per skate (optional, but may be required by IPHC regulations (see §§ 300.60 through 300.65 of this chapter)), size of hooks, and hook spacing in feet.
| (iv) Seabird avoidance gear code(s) (see § 679.24(e) and Table 19 to this part).

(H) Management program. Indicate whether harvest occurred under a management program (see paragraph (a)(1)(iii) of this section). Use a separate logsheet for each management program. If harvest is not under one of the listed management programs, leave blank.

(I) Observer information. Record the number of observers aboard, the name of the observer(s), and the observer cruise number(s).

(vi) Catch-by-set information. The operator must record the following information (see paragraphs (c)(3)(vi)(A) through (L) of this section) for each set (see § 679.2) in the DFL or DCPL. If no catch occurred for a given day, write “no catch.”

(A) Set number. Sequentially by year.

(B) Gear deployment (or to set gear)—(1) Hook-and-line gear begin position. Record date (mm/dd), time (in military format, A.l.t.), and the begin position (in latitude and longitude to the nearest minute; indicate E or W for longitude) when the first hook-and-line gear of a set enters the water.

(2) Jig or troll gear begin position. Record date (mm/dd), time (in military format, A.l.t.), and the begin position (latitude and longitude to the nearest minute; indicate E or W for longitude) when the jig or troll gear enters the water.

(3) Pot gear begin position. Record date (mm/dd), time (in military format, A.l.t.), and the begin position (latitude and longitude to the nearest minute; indicate E or W for longitude) when the pot gear enters the water.

(C) Gear retrieval (or to haul gear)—(1) Hook-and-line gear end position. Date (mm/dd), time (in military format, A.l.t.), and end position coordinates (in latitude and longitude to the nearest minute; indicate E or W for longitude), where the last hook-and-line gear of a set leaves the water, regardless of where the majority of the set took place.

(2) Jig or troll gear end position. Date (mm/dd), time (in military format, A.l.t.), and end position coordinates (in latitude and longitude to the nearest minute; indicate E or W for longitude) where the jig or troll gear leaves the water.

(3) Pot gear end position. Date (mm/dd), time (in military format, A.l.t.), and end position coordinates (in latitude and longitude to the nearest minute; indicate E or W for longitude) where the last pot of a set is retrieved, regardless of where the majority of the set took place.

(D) Begin and end buoy or bag numbers. (optional, but may be required by IPHC regulations (see §§ 300.60 through 300.65 of this chapter)).

(E) Begin and end gear depths. Recorded to the nearest fathom (optional, but may be required by IPHC regulations (see §§ 300.60 through 300.65 of this chapter)).

(F) Species codes. The operator must record and report required information for all groundfish (see Table 2a to this part), prohibited species (see Table 2b to this part), and forage fish (see Table 2c to this part). The operator may record and report information for non-groundfish (see Table 2d to this part).

(G) Target species code. Enter the species code of the intended species to be harvested. Enter only one target species code.

(H) Estimated total hail weight. Enter the estimated hail weight, which is an estimate of the total weight of the entire catch without regard to species. Indicate whether weight is estimated to the nearest pound or to the nearest 0.001 mt.

(I) IR/IU species (see § 679.27). If a catcher/processor, enter species code of IR/IU species and estimated total round weight for each IR/IU species, if applicable; indicate whether weight is estimated to the nearest pound or the nearest 0.001 mt. Use one line to record information for each IR/IU species, including species code and amount of catch. If more than one IR/IU species are to be recorded, the operator must use a separate line for each species.

(J) IFQ halibut and CDQ halibut. Estimated total net weight of IFQ halibut and CDQ halibut to the nearest pound.

(K) IFQ sablefish. Number and estimated total round weight of IFQ sablefish to the nearest pound. Indicate whether IFQ sablefish product is Western cut, Eastern cut, or round weight.

(L) CR crab. If in a CR crab fishery, record the number and scale weight of raw CR crab to the nearest pound.

(vii) Product information, catcher/processor. The operator of a catcher/processor using longline or pot gear must record groundfish product information for all retained groundfish in eLandings (see paragraph (e)(10) of this section).

(viii) Discard or disposition information, catcher vessel. The operator must record in a DFL the discard or disposition information that occurred prior to and during delivery to a buying station, mothership, shoreside processor, or SFP. Discard or disposition information must include the daily weight of groundfish, daily weight of herring PSC, and daily number of PSC animals. If no discard or disposition occurred for a given day, the operator must write “no discards or disposition.”

(A) Enter discard or disposition information by species codes and product codes as follows:

(1) Date (mm/dd) of discard or disposition (day that discard or disposition occurred).

(2) For whole fish discard or disposition of groundfish or Pacific herring PSC, daily estimated total weight, balance forward weight from the previous day, and cumulative total weight since last delivery for each species; indicate whether weight is estimated to the nearest pound or nearest 0.001 mt.

(3) For whole fish discard or disposition of each prohibited species (Pacific salmon, steelhead trout, Pacific halibut, king crabs, and Tanner crabs) record the daily estimated total number, balance forward from the previous day, and cumulative total number since the last delivery.

(4) Summarize the weekly cumulative discard and disposition totals of groundfish weights and number of PSC animals separately by reporting area, management program, and gear type. Determine the weekly cumulative total by adding daily totals and the balance carried forward from the day before.

(B) The operator must record “0” or zero balance forward and start a new logsheet after the offload or transfer of all fish or fish product onboard and prior to the beginning of each fishing trip. Nothing shall be carried forward from the previous fishing trip.

(ix) Discard or disposition information, catcher/processor. The operator of a catcher/processor using longline or pot gear must record all discard or disposition information in eLandings (see paragraph (e)(10) of this section).

(x) Catcher vessel delivery information. The operator of a catcher vessel must enter the following information (see paragraphs (c)(3)(x)(A) through (D) of this section) for delivery to a buying station, mothership, shoreside processor, or SFP:

(A) Date (mm/dd) that delivery of harvest was completed.

(B) ADF&G fish ticket issued to operator by the recipient, Registered Buyer, or RCR receiving the delivery.

(C) Name of recipient, Registered Buyer, or RCR.

(D) For the unloading port, enter the name of the port or port code (see Tables 14a and 14b to this part) of delivery location.

(4) Trawl gear catcher vessel DFL and catcher/processor DCPL—(i) Responsibility.

(A) Except as described in paragraph (f)(1)(iii) of this section, the operator of a catcher vessel 60 ft (18.3 m) or greater LOA, that is required to have an FFP under § 679.4(b), and that is using trawl gear to harvest groundfish must maintain a trawl gear DFL, must complete one or more logsheets per day. Upon notification by the Regional Administrator, a DFL from the previous year may be used.

(B) Except as described in paragraph (f)(1)(iv) of this section, the operator of a catcher/processor that is required to have an FFP under § 679.4(b) and that is using trawl gear to harvest groundfish is required to use a combination of catcher/processor trawl gear DCPL and eLandings to record and report daily processor identification information, catch-by-haul landings information, groundfish production data, and groundfish and prohibited species discard or disposition data.

(ii) Data entry time limits—(A) Catcher vessel. The operator of a catcher vessel using trawl gear must record in the DFL the information in the following table for each haul within the specified time limit:

Data Entry Time Limits, Catcher Vessel Trawl Gear
Required information | Time limit for recording
(1) Haul number, time and date gear set, time and date gear hauled, beginning and end positions, CDQ group number (if applicable), and total estimated hail weight for each haul | Within 2 hours after completion of gear retrieval.
(2) Discard and disposition information | By noon each day to record the previous day's discard and disposition information.
(3) Submit blue DFL to mothership, shoreside processor, SFP, or buying station receiving the catch | Within 2 hours after completion of catch delivery.
(4) Record all other required information | Within 2 hours after the vessel's catch is off-loaded, notwithstanding other time limits.
(5) Operator sign the completed logsheets | Within 2 hours after completion of catch delivery.
(6) Submit the goldenrod logsheet to the observer | After signature of operator and prior to departure of observer from the vessel.

(B) Catcher/processor. The operator of a catcher/processor using trawl gear must record in the DCPL or eLandings the information in the following table for each haul within the specified time limit:

Data Entry Time Limits, Catcher/Processor Trawl Gear
Required information | Record in: DCPL | Record in: eLandings | Time limit for recording
(1) Haul number, time and date gear set, time and date gear hauled, begin and end positions of gear, CDQ group number (if applicable), and total estimated hail weight for each haul, or if required to use a NMFS-approved scale, the scale weight for each haul | X | X | Except for Rockfish Pilot Program, within 2 hours after completion of gear retrieval. For Rockfish Pilot Program, actual scale weight from the flow scale may be recorded within 24 hours after completion of gear retrieval.
(2) Discard and disposition information |  | X | By noon each day to record the previous day's discard and disposition information.
(3) Record product information |  | X | By noon each day to record the previous day's production information.
(4) Record all other required information | X | X | By noon of the day following completion of production to record all other required information.
(5) Operator sign the completed logsheets | X | X | By noon of the day following the week-ending date of the weekly reporting period.
(6) Submit the goldenrod logsheet to the observer | X |  | After signature of operator and prior to departure of observer from the vessel.

(iii) Required information, if inactive. See paragraph (c)(2) of this section.

(iv) Required information, if active—(A) Catcher vessel. (1) A catcher vessel using trawl gear is active when all or part of the trawl net is in the water.

(2) If the catcher vessel identified in paragraph (c)(4)(i)(A) of this section is active, the operator must record for one day per logsheet in the DFL, the information described in paragraphs (c)(4)(v), (vi), (viii), and (x) of this section.

(B) Catcher/processor. (1) A catcher/processor using trawl gear is active when processing groundfish or when all or part of the trawl net is in the water.

(2) If the catcher/processor identified in paragraph (c)(4)(i)(B) of this section is active, the operator must record for one day per logsheet in the DCPL, the information described in paragraphs (c)(4)(v) and (vi) of this section and record in eLandings the information described in paragraphs (c)(4)(v), (vii), and (ix) of this section.

(v) Identification information. If active, the operator must record the following information (see paragraphs (c)(4)(v)(A) through (J) of this section):

(A) Date. Enter date of each day (mm/dd/yy). This date is also the date of gear deployment.

(B) Page number. Number the pages in each logbook consecutively, beginning on the first page of the DFL or DCPL with page 1 for January 1 and continuing for the remainder of the fishing year.

(C) Printed name and signature of operator. The operator's name must be printed in the DFL or DCPL. The operator must sign each completed logsheet of the DFL or DCPL as verification of acceptance of the responsibility required in paragraph (a)(2) of this section. The operator's signature is due by noon of the day following the week-ending date of the weekly reporting period.

(D) Vessel identification. Name of vessel as displayed in official documentation; FFP number of the vessel; ADF&G vessel registration number if a catcher vessel; and ADF&G processor code if a catcher/processor.

(E) Federal reporting area. Record the Federal reporting area code where gear retrieval was completed, regardless of where the majority of the set took place. Use a separate logsheet for each reporting area.

(F) COBLZ or RKCSA. If gear retrieval occurred in the COBLZ (see Figure 13 to this part) or RKCSA (see Figure 11 to this part) area within a reporting area, use two separate logsheets, the first to record the information from the reporting area that includes COBLZ or RKCSA, and the second to record the information from the reporting area that does not include COBLZ or RKCSA.

(G) Crew size. If a catcher vessel, record the number of crew members (including operator), excluding certified observer(s), on the last day of a trip. If a catcher/processor, record the number of crew members (including operator), excluding certified observer(s), on the last day of the weekly reporting period.

(H) Gear type. Use a separate logsheet for each gear type. Indicate whether pelagic trawl or non-pelagic trawl gear was used to harvest the fish.

(I) Management program. Indicate whether harvest occurred under one of the management programs (see paragraph (a)(1)(iii) of this section). Use a separate logsheet for each management program. If harvest is not under one of the listed management programs, leave blank.

(J) Observer information. Record the number of observers aboard, the name of the observer(s), and the observer cruise number(s).

(vi) Catch-by-haul information. The operator must record the following information (see paragraphs (c)(4)(vi)(A) through (H) of this section) for each haul (see § 679.2). If no catch occurred for a given day, write “no catch.”

(A) Haul number. Number hauls sequentially by year.

(B) Gear deployment (or to set gear). Record the following information (see paragraphs (c)(4)(vi)(B)(1) and (2) of this section) for trawl gear deployment:

(1) The time (in military format, A.l.t.) when the trawl net enters the water, and

(2) The position (latitude and longitude to the nearest minute; indicate E or W for longitude) where the trawl net enters the water.

(C) Gear retrieval (or to haul gear). Record the following information (see paragraphs (c)(4)(vi)(C)(1) and (2) of this section) for trawl gear retrieval:

(1) The date (mm/dd) and time (in military format, A.l.t.) when retrieval of trawl gear cable begins.

(2) The position (in latitude and longitude to the nearest minute; indicate E or W for longitude) where retrieval of trawl gear cable begins.

(D) Average sea depth and average gear depth. Average sea depth and average gear depth; indicate whether average is reported to the nearest meter or fathom.

(E) Species codes. The operator must record and report the required information for all groundfish (see Table 2a to this part), prohibited species (see Table 2b to this part), and forage fish (see Table 2c to this part). The operator may also record and report the required information for non-groundfish (see Table 2d to this part).

(F) Target species code. Enter the species code of the species to be harvested. Enter only one target species code.

(G) IR/IU species (see § 679.27). If a catcher/processor, enter species code of IR/IU species and estimated total round weight for each IR/IU species, if applicable; indicate whether estimated weight is to the nearest pound or the nearest 0.001 mt. Use one line to record information for each IR/IU species, including species code and amount of catch. If more than one IR/IU species are to be recorded, the operator must use a separate line for each species.

(H) Total estimated hail weight. (1) If a catcher vessel or catcher/processor using trawl gear and not using NMFS-approved scales, the operator must record the hail weight of each haul; total hail weight is an estimate of the total weight of the entire catch without regard to species. Indicate whether estimated weight is to the nearest pound or to the nearest 0.001 mt.

(2) If a catcher/processor using trawl gear is required to use a NMFS-approved scale, the operator must record the scale weight of each haul without regard to species. Indicate whether weight is to the nearest pound or to the nearest 0.001 mt.

(vii) Product information, catcher/processor. The operator of a catcher/processor using trawl gear must record all product information for all retained groundfish in eLandings (see paragraph (e)(10) of this section).

(viii) Discard or disposition information, catcher vessel. The operator must record in a DFL (see paragraphs (c)(4)(viii)(A) through (E) of this section) the discard or disposition that occurred prior to and during delivery to a buying station, mothership, shoreside processor, or SFP. If no discards or disposition occurred on a given day, write “no discards or disposition.”

(A) Species code and product code. Record the species code and product code for all discards and disposition of groundfish and PSC Pacific herring, Pacific salmon, steelhead trout, Pacific halibut, king crabs, and Tanner crabs.

(B) Discard and disposition weight. Record the daily estimated total round weight of groundfish or Pacific herring PSC discards and disposition, balance forward weight from the previous day, and cumulative total weight since last delivery, calculated by adding the daily totals and balance carried forward from the day before; indicate whether estimated weight is to the nearest pound or nearest 0.001 mt.

(C) PSC discard numbers. Record the daily number of PSC discards and disposition, balance forward from the previous day, and cumulative total number since last delivery of PSC animals (Pacific salmon, steelhead trout, Pacific halibut, king crabs, and Tanner crabs).

(D) Discard and disposition cumulative total. Summarize cumulative discard and disposition totals of groundfish and PSC animals separately by reporting area, if harvest occurred in the COBLZ or RKCSA, management program, and gear type.

(E) Discard zero balance forward. After the offload or transfer of all fish or fish product onboard and prior to the beginning of each fishing trip, the operator must record the balance forward from the previous day as “zero” and start a new logsheet. At the beginning of each fishing trip, nothing shall be carried forward from the previous fishing trip.

(ix) Discard or disposition information, catcher/processor. The operator of a catcher/processor using trawl gear must record discard or disposition information in eLandings (see paragraph (e)(10) of this section).

(x) Catcher vessel delivery information. The operator must enter the following delivery information (see paragraphs (c)(4)(x)(A) through (C) of this section) for groundfish delivered to a buying station, mothership, shoreside processor, or SFP:

(A) Date (mm/dd) that delivery of harvest was completed,

(B) ADF&G fish ticket number issued to operator by the recipient receiving the delivery, and

(C) Name and ADF&G processor code of recipient.

(5) Shoreside processor DCPL. The shoreside processor DCPL has been replaced by eLandings and is no longer available. (See paragraph (e) of this section.)

(i) Required information, if inactive. See paragraph (c)(2) of this section.

(ii) Required information, if active. A shoreside processor or SFP is active when receiving or processing groundfish.

(6) Mothership DCPL—(i) Responsibility. Except as described in paragraph (f)(1)(v) of this section, the operator of a mothership that is required to have an FFP under § 679.4(b) and that receives or processes any groundfish from the GOA or BSAI from vessels issued an FFP under § 679.4(b) is required to use a combination of mothership DCPL and eLandings to record and report daily processor identification information, delivery information, groundfish production data, and groundfish and prohibited species discard or disposition data. The operator must enter into the DCPL any information for groundfish received from catcher vessel, groundfish received from processors for reprocessing or rehandling, and groundfish received from an associated buying station documented on a BSR.

(ii) Data entry time limits. The operator of a mothership must record in the DCPL or eLandings the information in the following table for each groundfish delivery within the specified time limit:

Data Entry Time Limits, Mothership
Required information | Record In: DCPL | Record In: eLandings | Time limit for recording
(A) All catcher vessel or buying station delivery information | X | X | Within 2 hours after completion of receipt of each groundfish delivery.
(B) Product information |  | X | By noon each day to record the previous day's production.
(C) Discard or disposition information |  | X | By noon each day to record the previous day's discard/disposition.
(D) All other required information | X | X | By noon of the day following completion of production.
(E) Operator sign the completed logsheets | X | X | By noon of the day following the week-ending date of the weekly reporting period.
(F) Submit the goldenrod logsheet to the observer | X |  | After signed by the operator and prior to departure of observer from the mothership.

(iii) Required information, if inactive. See paragraph (c)(2) of this section.

(iv) Required information, if active. A mothership is active when receiving or processing groundfish. If the mothership identified in paragraph (c)(6)(i) of this section is active, the operator must record for one day per logsheet in the DCPL, the information described in paragraphs (c)(6)(v) and (vi) of this section and record in eLandings the information described in paragraphs (c)(6)(v), (vii), and (viii) of this section.

(v) Identification information. If active, the operator must record the following information (see paragraphs (c)(6)(v)(A) through (J) of this section) in the DCPL:

(A) Page number. Number the pages in each logbook consecutively, beginning with page 1 for January 1 and continuing throughout the logbook for the remainder of the fishing year.

(B) Printed name and signature of operator. The operator's name must be printed in the DCPL. The operator must sign each completed DCPL logsheet as verification of acceptance of the responsibility required in paragraph (a)(2) of this section.

(C) Vessel information. Name of mothership as displayed in official documentation, FFP number, and ADF&G processor code.

(D) Date. Enter date (mm/dd/yy) of each operating day.

(E) Crew size. Record the number of crew members (including operator), excluding certified observer(s), on the last day of the weekly reporting period.

(F) Gear type. Indicate the gear type of harvester. If gear type is other than those listed, circle “Other” and describe. Use a separate logsheet for each gear type.

(G) Federal reporting areas. Record Federal reporting area code (see Figures 1 and 3 to this part) where harvest was completed. Use a separate logsheet for each reporting area.

(H) COBLZ or RKCSA. If groundfish was harvested with trawl gear in the COBLZ or RKCSA, use two separate logsheets to record the information: One logsheet for the reporting area that includes COBLZ or RKCSA, and a second logsheet to record the information from the reporting area that does not include COBLZ or RKCSA.

(I) Observer information. Record the number of observers aboard, the name(s) of the observer(s), and the observer cruise number(s).

(J) Management program. Indicate whether harvest occurred under one of the management programs (see paragraph (a)(1)(iii) of this section). Use a separate logsheet for each management program. If harvest is not under one of the listed management programs, leave blank.

(vi) Delivery information. The operator must record delivery information (see paragraphs (c)(6)(vi)(A) through (H) of this section) when unprocessed groundfish deliveries are received by the mothership from a buying station or a catcher vessel. If no deliveries are received for a given day, write “no deliveries.”

(A) Type of delivery. Enter “CV” or “BS” to indicate if delivery was from a catcher vessel or buying station, respectively.

(B) Non-submittal of discard report. Indicate whether the blue logsheet was received from the catcher vessel at the time of catch delivery. If the delivery was from a buying station, leave this column blank. If the blue logsheet is not received from the catcher vessel, enter “NO” and one of the response codes in the following table to describe the reason for non-submittal.

Non-submittal of discard report | Code
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) Vessel identification. Name and ADF&G vessel registration number of the catcher vessel or buying station (if applicable) delivering the groundfish.

(D) Receipt time. Record time (in military format, A.l.t.) when receipt of groundfish delivery was completed.

(E) Beginning position of receipt. Record the position coordinates (in latitude and longitude to the nearest minute; indicate E or W for longitude) where receipt of the groundfish delivery began.

(F) Estimated total groundfish hail weight. Enter the estimated total hail weight of the combined species of each delivery from a catcher vessel or buying station. Total estimated hail weight is an estimate of the total weight of the entire catch without regard to species. Indicate whether the estimated weight is to the nearest pound or to the nearest 0.001 mt. If a catcher vessel reported discards on a blue DFL but did not deliver groundfish, enter “0” in this column.

(G) IR/IU species (see § 679.27). Enter the species code of IR/IU species and the estimated total round weight for each IR/IU species, if applicable; indicate whether estimated weight is to the nearest pound or the nearest 0.001 mt. Use one line to record information for each IR/IU species, including species code and amount of catch. If more than one IR/IU species are to be recorded, the operator must use a separate line for each species.

(H) ADF&G fish ticket numbers. If receiving unprocessed groundfish from a catcher vessel, record the ADF&G fish ticket number that the mothership issued to each catcher vessel. If receiving unprocessed groundfish from an associated buying station, record the ADF&G fish ticket numbers issued by the buying station on behalf of the mothership to the catcher vessel.

(vii) Product information. The operator of a mothership must record all groundfish product information in eLandings (see paragraph (e)(10) of this section), including products made from unprocessed groundfish deliveries received from a buying station or a catcher vessel; groundfish received from another processor or other source; and groundfish received for custom processing (see paragraph (a)(7) of this section) by the mothership for another processor or business entity.

(viii) Discard or disposition information. The operator of a mothership must record discard and disposition information in eLandings (see paragraph (e)(10) of this section). The discard or disposition information must include:

(A) Discards and disposition that occurred onboard after receipt of groundfish from a catcher vessel or buying station;

(B) Discards and disposition that occurred prior to, during, and after processing of groundfish;

(C) Discards and disposition that were reported on a blue DFL received from a catcher vessel delivering groundfish;

(D) Discards and disposition that are recorded on a blue DFL received from a catcher vessel even though no groundfish are delivered; and

(E) Discards and disposition reported on a BSR received from a buying station delivering groundfish, if different from the blue DFL logsheets submitted by catcher vessels to the buying station.

(d) Buying Station Report (BSR)—(1) Responsibility—(i) Separate BSR. In addition to the information required at paragraphs (a)(5) and (6) of this section, the operator or manager of a buying station that receives or delivers groundfish harvested from the GOA or BSAI in association with a shoreside processor or SFP as defined in paragraph (c)(5) of this section or a mothership as defined in paragraph (c)(6) of this section, must complete and retain a separate BSR for each delivery of unprocessed groundfish or donated prohibited species received from a catcher vessel on behalf of an associated processor.

(ii) BSR attachments. The operator or manager must ensure that the following (see paragraphs (d)(1)(ii)(A) through (C) of this section) accompanies each groundfish delivery from the landing site to the associated processor:

(A) A complete and accurate BSR that describes the delivery;

(B) Any blue DFL logsheets or equivalent printed ELB discard reports received from a catcher vessel; and

(C) Copies of all ADF&G fish tickets issued to the catcher vessel on behalf of the associated processor.

(iii) The operator of a catcher vessel, by prior arrangement with an associated processor, may function as a buying station for his own catch as follows:

(A) By shipping his groundfish catch with a copy of the BSR directly to that processor via truck or airline in the event that the processor is not located where the harvest is offloaded; or

(B) By driving a truck that contains his catch and a copy of the BSR to the processor.

(2) Data entry time limits. The operator or manager of a buying station must record in the BSR all required information and sign the BSR within 2 hours of completion of delivery from a catcher vessel.

(3) Required information, if inactive. The operator or manager of a buying station is not required to record information if inactive.

(4) Required information, if active. A buying station is active when receiving, discarding, or delivering groundfish for an associated processor. The operator or manager of a buying station must record the following information (see paragraphs (d)(4)(i) through (x) of this section) on a BSR for each delivery:

(i) Original/revised report. If a BSR is the first submitted to the Regional Administrator for a given date, gear type, and reporting area, indicate “ORIGINAL REPORT.” If a report is a correction to a previously submitted BSR for a given date, gear type, and reporting area, indicate “REVISED REPORT.”

(ii) Identification of buying station. Enter name and ADF&G vessel registration number if a vessel; or name, license number, and state of license issuance if a vehicle. The name should be recorded as it is displayed in official documentation.

(iii) Operator or manager name and signature. The operator or manager must sign the completed BSR prior to delivery of harvest to a mothership, shoreside processor, or SFP. This signature is verification by the operator or manager of acceptance of the responsibility required in paragraphs (d)(1) and (2) of this section.

(iv) Management program. Indicate whether harvest occurred under a management program (see paragraph (a)(1)(iii) of this section). If harvest is not under one of the listed management programs, leave blank.

(v) Gear type. Indicate gear type of harvester.

(vi) Federal reporting area. Indicate Federal reporting area (see Figures 1 and 3 to this part) from which groundfish were harvested.

(vii) Crab protection areas. If harvester gear type was trawl and gear retrieval occurred in the COBLZ or RKCSA (see Figures 11 and 13 to this part), use two separate BSRs to record the information: One BSR for the reporting area that includes COBLZ or RKCSA, and a second BSR to record the information from the reporting area that does not include COBLZ or RKCSA.

(viii) Associated processor. Enter the name, ADF&G processor code, FFP number or FPP number of the associated processor, date (mm/dd/yy) and time (A.l.t., military format) delivery was completed.

(ix) Catcher vessel delivery information—(A) Catcher vessel identification. Name and ADF&G vessel registration number of catcher vessel making the delivery.

(B) Non-submittal of discard report. Indicate whether the blue logsheet was received from the catcher vessel at the time of catch delivery. If the blue logsheet is not received from the catcher vessel, enter “NO” and one of the following response codes to describe the reason for non-submittal.

Non-submittal of discard report | Code
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) ADF&G fish ticket number. Enter ADF&G fish ticket number issued to catcher vessel.

(D) Species codes and scale weight. In addition to recording the estimated total delivery weight or actual scale weight of a catcher vessel delivery, if the operator or manager of the buying station sorted the delivery prior to delivery to an associated processor, he or she may enter specific species code and scale weights of individual species to the BSR; indicate whether to the nearest pound or to the nearest 0.001 mt.

(E) Estimated total groundfish hail weight. Enter the estimated total groundfish hail weight or actual scale weight of delivery. Estimated total hail weight is an estimate of the total weight of the entire catch without regard to species. Indicate whether to the nearest pound or to the nearest 0.001 mt.

(x) Discard and disposition information—(A) Discard. The operator or manager of a buying station must record in a BSR, discard or disposition information that:

(1) Occurred on and was reported by a catcher vessel on a blue logsheet;

(2) Occurred on the buying station prior to delivery to an associated processor; and

(3) Was recorded on a blue logsheet submitted to the buying station by a catcher vessel when no groundfish were delivered by the catcher vessel (for example, disposition code 95 describes fish or fish products eaten onboard or taken off the vessel for personal use).

(B) No discards. If no discards or disposition for a delivery, write “no discards.”

(C) Discard or disposition weight. Total discard or disposition weight of groundfish and herring PSC by species code and product code (indicate whether to nearest pound or to the nearest 0.001 mt).

(D) PSC discard or disposition numbers. Total PSC discard or disposition number of animals by species code and product code.

(e) Interagency Electronic Reporting System (IERS) and eLandings—(1) Responsibility—(i) Hardware, software, and Internet connectivity. A User must obtain at his or her own expense hardware, software, and Internet connectivity to support Internet submissions of commercial fishery landings for which participants report to NMFS: Landings data, production data, and discard or disposition data. The User must enter this information via the Internet at http://elandings.alaska.gov by logging on to the eLandings system or by using the desktop client software.

(ii) Computer or network failure: groundfish. In the event the eLandings system and/or the Internet is unavailable for a period longer than the required reporting time, contact NMFS Inseason Management at 907-586-7228 for instructions. A User who for any reason is unable to properly submit a landing report or production report through eLandings must record the information in the DCPL until network connections are restored. When the network is restored, the User must enter this same information into eLandings.

(iii) Computer or network failure: IFQ manual landing report for IFQ crab, IFQ halibut, and IFQ sablefish. If the Internet connection is unavailable or a change must be made to IFQ crab, IFQ halibut, CDQ halibut, and IFQ sablefish information submitted through the eLandings IFQ section (IFQ report), the User must complete an IFQ manual landing report to enter or change the data. Manual landing instructions must be obtained from OLE, Juneau, AK, at 800-304-4846 (Select Option 1).

(A) The User must complete all questions on the manual report, even if only one item has changed. In addition, the following information is required: whether the manual landing report is an original or revised, name, telephone number, and fax number of individual submitting the manual landing report.

(B) The User must print the IFQ manual landing report and submit it by fax to 907-586-7313.

(C) The User must retain the printed copies of IFQ manual landing reports as indicated at paragraph (a)(5) of this section. The User must make available the printed copies upon request of NMFS observers and authorized officers as indicated at paragraph (a)(6) of this section.

(2) eLandings processor registration. (i) Before a User can use the eLandings system to report landings, production, discard or disposition data, he or she must request authorization to use the system, reserve a unique UserID, and obtain a password by using the Internet to complete the eLandings processor registration at https://elandings@alaska.gov/elandings/Register.

(ii) Upon registration acceptance, the User must print, sign, and mail the User Agreement Form to NMFS/RAM eLandings Registration, P.O. Box 21668, Juneau, AK 99802-1668; or fax a signed form to 907-586-7354, Attn: eLandings Registration; or deliver the signed form by courier to NMFS/RAM eLandings Registration, 709 West Ninth Street, Suite 713, Juneau, AK 99801. Confirmation will be e-mailed to indicate that the User is registered, authorized to use eLandings, and that the UserID and User's account are enabled.

(iii) The User's signature on the registration form means that the User agrees to the following terms (see paragraphs (e)(2)(iii)(A) through (C) of this section):

(A) To use eLandings access privileges only for submitting legitimate fishery landing reports;

(B) To safeguard the UserID and password to prevent their use by unauthorized persons; and

(C) To ensure that the User is authorized to submit landing reports for the processor permit number(s) listed.

(3) Information required for eLandings processor registration form. The User must enter the following information (see paragraphs (e)(3)(i) through (ix) of this section) to obtain operation registration and UserID registration:

(i) Operation type. Select the operation type from the dropdown list according to the following table:

For this Federal category: | Enter one of these eLandings operation types:
(A) Shoreside processor or SFP | (1) Plant/receiver. (2) Custom processing.
(B) Mothership | At-sea.
(C) Catcher/processor | At-sea.
(D) Buying station | (1) Tender. (2) Buying station.

(ii) Operation name. Enter a name that will refer to the specific operation. For example, if the plant is in Kodiak and the company is East Pacific Seafoods, the operation name might read “East Pacific Seafoods—Kodiak.”

(iii) ADF&G processor code. Enter ADF&G processor code.

(iv) Federal permit number. Enter all the federal permits associated with the operation.

(A) Groundfish shoreside processor or SFP. If a groundfish shoreside processor or SFP, enter the FPP number.

(B) Groundfish catcher/processor or mothership. If a groundfish catcher/processor or mothership, enter the FFP number.

(C) Registered Buyer. If a Registered Buyer, enter the Registered Buyer permit number.

(D) Registered Crab Receiver. If a Registered Crab Receiver, enter the Registered Crab Receiver permit number.

(v) Port code. Enter the home port code (see Tables 14a, 14b, and 14c to this part) for the operation.

(vi) ADF&G vessel registration number. If a mothership, catcher/processor, or tender operation, the operator must enter the ADF&G vessel identification number of the vessel.

(vii) Vehicle license number. If a buying station operation that is a vehicle, enter vehicle license number and the state of license issuance.

(viii) Physical operation. If a buying station or custom processor, enter the following information to identify the associated processor where the processing will take place: operation type, ADF&G processor code, and applicable FFP number, FPP number, Registered Buyer permit number, and Registered Crab Receiver permit number.

(ix) UserID registration for primary User. Each operation requires a primary User. Enter the following information for the primary User for the new operation: create and enter a UserID, initial password, company name, User name (name of the person who will use the UserID), city and state where the operation is located, business telephone number, business fax number, business e-mail address, security question, and security answer.

(4) Information entered automatically for eLandings landing report. eLandings autofills the following fields from processor registration records (see paragraph (e)(2) of this section): UserID, processor company name, business telephone number, e-mail address, port of landing, ADF&G processor code, and Federal permit number. The User must review the autofilled cells to ensure that they are accurate for the landing that is taking place. eLandings assigns a unique landing report number and an ADF&G electronic fish ticket number upon completion of data entry.

(5) Shoreside processor or SFP landings report. The manager of a shoreside processor or SFP that receives groundfish from a catcher vessel issued an FFP under § 679.4 and that is required to have an FPP under § 679.4(f) must use eLandings or other NMFS-approved software to submit a daily landings report during the fishing year to report processor identification information and the following information under paragraphs (e)(5)(i) through (iii) of this section:

(i) Information entered for each groundfish delivery to a shoreside processor and SFP. The User for a shoreside processor or SFP must enter the following information (see paragraphs (e)(5)(i)(A) through (C) of this section) for each groundfish delivery (other than IFQ sablefish) provided by the operator of a catcher vessel, the operator or manager of an associated buying station, and from processors for reprocessing or rehandling product into eLandings or other NMFS-approved software:

(A) Delivery information. (1) Number of observers onboard.

(2) For crew size, enter the number of licensed crew aboard the vessel, including the operator.

(3) Management program name and identifying number, if any, in which harvest occurred (see paragraph (a)(1)(iii) of this section).

(4) ADF&G groundfish statistical area of harvest.

(5) For date of landing, enter date (mm/dd/yyyy) that the delivery was completed.

(6) Indicate (YES or NO) whether delivery is from a buying station.

(7) If the delivery is received from a buying station other than a tender, indicate the name of the buying station. If the delivery is received from a buying station that is a tender, enter the ADF&G vessel registration number.

(8) If delivery is received from a catcher vessel, indicate the ADF&G vessel registration number of the vessel.

(9) Indicate whether the blue logsheet was received from the catcher vessel at the time of catch delivery. If the blue logsheet is not received from the catcher vessel, enter “NO” and select the applicable code from the following table to explain the reason provided by the catcher vessel for not supplying this copy:

Non-submittal of discard report | Code
(i) The catcher vessel does not have an FFP | “P”
(ii) The catcher vessel is under 60 ft (18.3 m) LOA and does not have an FFP | “P”
(iii) The catcher vessel is under 60 ft (18.3 m) LOA and has an FFP | “L”
(iv) The catcher vessel delivered an unsorted codend | “U”
(v) Another reason; describe circumstances | “O”

(10) Gear type of harvester.

(11) Total estimated hail weight (to the nearest pound).

(12) ADF&G fish ticket number provided to catcher vessel (eLandings assigns an ADF&G fish ticket number to the landing report).

(B) Landings information. The User for a shoreside processor or SFP must record the following landings information (see paragraphs (e)(5)(i)(B)(1) and (2) of this section) for all retained species from groundfish deliveries:

(1) Date of landing (mm/dd/yyyy).

(2) Landed scale weight (to the nearest pound) by species code and delivery condition code. Obtain actual weights for each groundfish species received and retained by:

(i) Sorting according to species codes and direct weighing of that species, or

(ii) Weighing the entire delivery and then sorting and weighing the groundfish species individually to determine their weights.

(C) Discard or disposition information. The User must record:

(1) Discard or disposition of fish: that occurred on and was reported by a catcher vessel; that occurred on and was reported by a buying station; and that occurred prior to, during, and/or after production of groundfish at the shoreside processor or SFP. Discards and dispositions also must be recorded when no groundfish are delivered but the blue DFL is submitted by a catcher vessel containing records of discards or disposition.

(2) If groundfish or PSC herring, enter species code, delivery condition code, disposition code, and weight (to the nearest pound), and

(3) If PSC halibut, salmon, or crab, enter species code, delivery condition code, disposition code, and count (in numbers of animals).

(ii) Submittal time limit. The User for a shoreside processor or SFP must enter information described at paragraph (e)(5)(i) of this section into eLandings or other NMFS-approved software for each groundfish delivery from a specific vessel by noon of the day following completion of the delivery.

(iii) Compliance. By using eLandings, the User for the shoreside processor or SFP and the catcher vessel operator or buying station operator or manager providing information to the User for the shoreside processor or SFP accept the responsibility of and acknowledge compliance with § 679.7(a)(10).

(6) Mothership landings report. The operator of a mothership that is issued an FFP under § 679.4(b) and that receives groundfish from catcher vessels required to have an FFP under § 679.4 is required to use eLandings or other NMFS-approved software to submit a daily landings report during the fishing year to report processor identification information and the following information under paragraphs (e)(6)(i) through (iii) of this section):

(i) Information entered for each groundfish delivery to a mothership. The User for a mothership must enter the following information (see paragraphs (e)(6)(i)(A)(1) through (11) of this section) provided by the operator of a catcher vessel, operator or manager of an associated buying station, or information received from processors for reprocessing or rehandling product.

(A) Delivery information. (1) Number of observers onboard.

(2) Crew size (including operator).

(3) Management program name and identifying number, if any, in which harvest occurred (see paragraph (a)(1)(iii) of this section).

(4) ADF&G groundfish statistical area of harvest.

(5) Date (mm/dd/yyyy) that delivery was completed.

(6) If the delivery is received from a tender, enter the ADF&G vessel registration number of the tender.

(7) If delivery received from a catcher vessel, enter the ADF&G vessel registration number of the vessel.

(8) Indicate whether the blue logsheet was received from the catcher vessel at the time of catch delivery. If the blue logsheet was not received from the catcher vessel, enter “NO” and select a code from the following table to explain the reason provided by the catcher vessel for not supplying this copy.

Non-submittal of discard report | Code
(i) The catcher vessel does not have an FFP | “P”
(ii) The catcher vessel is under 60 ft (18.3 m) LOA and does not have an FFP | “P”
(iii) The catcher vessel is under 60 ft (18.3 m) LOA and has an FFP | “L”
(iv) The catcher vessel delivered an unsorted codend | “U”
(v) Another reason; describe circumstances | “O”

(9) Gear type of harvester.

(10) Total estimated round weight by species (pounds).

(11) ADF&G fish ticket number provided to catcher vessel (eLandings assigns an ADF&G fish ticket number to the landing report).

(B) Discard or disposition information. (1) The User must record discard or disposition information that occurred on and was reported by a catcher vessel; that occurred on and was reported by a buying station; and that occurred prior to, during, and after production of groundfish at the mothership. Discards and dispositions also must be recorded when no groundfish are delivered but the blue DFL is submitted by a catcher vessel containing records of discards or disposition.

(2) If groundfish or PSC herring, enter species code, delivery condition code, disposition code, and weight (to the nearest pound), and

(3) If PSC halibut, salmon, or crab, enter species code, delivery condition code, disposition code, and count (in numbers of animals).

(ii) Submittal time limit. The User for a mothership must enter information described at paragraph (e)(6)(i) of this section into eLandings or other NMFS-approved software for each groundfish delivery from a specific vessel by noon of the day following the delivery day.

(iii) Compliance. By using eLandings, the User for the mothership and the catcher vessel operator or buying station operator providing information to the User for the mothership accept the responsibility of and acknowledge compliance with § 679.7(a)(10).

(7) Registered Buyer landings report. A person who is issued a Registered Buyer permit under § 679.4(d)(3) and who receives IFQ halibut or IFQ sablefish from an IFQ permit holder or who receives CDQ halibut from a CDQ permit holder at any time during the fishing year is required to use eLandings or other NMFS-approved software to submit landings reports with the following information from paragraphs (e)(7)(i) and (ii) of this section):

(i) Information entered for each IFQ halibut, CDQ halibut, and IFQ sablefish delivery. The User for a Registered Buyer must enter the following information (see paragraphs (e)(7)(i)(A) through (E) of this section) for each IFQ halibut, CDQ halibut, and IFQ sablefish delivery into eLandings or other NMFS-approved software:

(A) User identification. UserID and password of person assigned for that system.

(B) Landing date. Date (mm/dd/yyyy) of the landing.

(C) Landing location. Location (port code) of the landing (See Tables 14a, 14b, and 14c to this part).

(D) Permit numbers. Permit number of the IFQ permit holder, and any IFQ hired master permit holder, or CDQ hired master permit holder harvesting the fish and permit number of Registered Buyer receiving the IFQ halibut, IFQ sablefish, or CDQ halibut.

(E) Delivery information. As reported by the IFQ permit holder, IFQ hired master permit holder, or CDQ hired master permit holder including the information in paragraphs (e)(7)(i)(E)(1) through (9) of this section):

(1) Harvesting vessel's ADF&G vessel registration number.

(2) Gear code of gear used to harvest IFQ halibut, IFQ sablefish, or CDQ halibut.

(3) ADF&G fish ticket number(s) for the landing (after the initial eLandings report is submitted, eLandings assigns an ADF&G fish ticket number to the landing report).

(4) ADF&G statistical area of harvest.

(5) If ADF&G statistical area is bisected by a line dividing two IFQ regulatory areas, provide the IFQ regulatory area of harvest.

(6) Except as provided in paragraph (e)(7)(i)(E)(7) of this section, initial accurate scale weight(s) (to the nearest pound) made at the time of offloading for IFQ halibut, IFQ sablefish, or CDQ halibut sold and retained (where retained includes fish intended for personal use, fish weighed and reloaded for delivery to another processor, and fish landed but rejected at the dock by the Registered Buyer); species codes; delivery condition code; and disposition code for each ADF&G statistical area of harvest.

(7) Accurate weight of IFQ sablefish processed product obtained before the offload may be substituted for the initial accurate scale weight provided in paragraph (e)(7)(i)(E)(6) of this section, at time of offload, if the vessel operator is a Registered Buyer reporting an IFQ sablefish landing.

(8) Indicate whether initial accurate scale weight is given with or without ice and slime. Fish which have been washed prior to weighing or which have been offloaded from refrigerated salt water are not eligible for a 2-percent deduction for ice and slime and must be reported as fish weights without ice and slime. The 2-percent deduction is made by NMFS, not the submitter.

(9) Indicate whether IFQ halibut is incidental catch concurrent with legal landing of salmon or concurrent with legal landing of lingcod harvested using dinglebar gear.

(ii) Signatures for IFQ halibut, CDQ halibut, or IFQ sablefish deliveries. (A) The User for the Registered Buyer must print the completed groundfish landing report (ADF&G electronic groundfish ticket) and the groundfish IFQ landing receipt. The User must review the autofilled data entry cells to ensure that they are accurate for the landing that is taking place.

(B) The User for the Registered Buyer, plus the IFQ permit holder or the IFQ hired master permit holder or CDQ hired master permit holder, must acknowledge the accuracy of the printed IFQ halibut, CDQ halibut, or IFQ sablefish landing receipt, and if necessary, IFQ manual landing report, by entering printed name, signature, and date.

(iii) Time limits—(A) Landing hours. A landing of IFQ halibut, CDQ halibut, or IFQ sablefish may commence only between 0600 hours, A.l.t., and 1800 hours, A.l.t., unless permission to land at a different time is granted in advance by a clearing officer.

(B) Landing receipt signatures. The User for the Registered Buyer and the IFQ permit holder, IFQ hired master permit holder, or CDQ hired master permit holder must sign the groundfish IFQ landing receipt within six hours after all IFQ halibut, CDQ halibut, and IFQ sablefish are offloaded from a harvesting vessel and prior to shipment or transfer of the fish from the landing site.

(C) Landing completion. The User for the Registered Buyer must submit a completed IFQ landing report, as described in paragraph (e)(7), within six hours after all IFQ halibut, CDQ halibut, and IFQ sablefish are offloaded from a specific vessel and prior to shipment or transfer of said fish from the landing site.

(iv) IFQ manual landing report. See paragraph (e)(1)(iii) of this section.

(8) Registered Crab Receiver (RCR)—IFQ crab landings report. (i) A person who is issued an RCR permit under § 680.4(i) of this chapter and who receives IFQ crab from a crab IFQ permit holder or crab IFQ hired master is required to use eLandings to submit a landings report to report every landing of IFQ crab and incidental groundfish.

(ii) An RCR using a catcher/processor is required to submit a crab landings report using eLandings in a format approved by NMFS. NMFS will provide format specifications upon request. Interested parties may contact NMFS Alaska Region, Sustainable Fisheries Division, Catch Accounting/Data Quality, P.O. Box 21668, Juneau, AK 99802-1668, telephone 907-586-7228.

(iii) Information entered for each IFQ crab delivery. The User for the RCR must enter the following information (see paragraphs (e)(8)(iii)(A) through (C) of this section) into eLandings or other NMFS-approved software for each IFQ crab delivery:

(A) Permit numbers. RCR permit number, IFQ permit number, and IPQ permit number, as appropriate.

(B) Operation type. (1) If a shoreside processor or SFP, enter type of processing operation and port code from Table 14a or 14b to this part.

(2) If a catcher/processor, enter operation type from Table 14c to this part.

(C) Delivery information. As reported by IFQ permit holder.

(1) ADF&G vessel registration number of the delivering vessel.

(2) Date (mm/dd/yyyy) fishing began.

(3) Date (mm/dd/yyyy) of the IFQ crab landing.

(4) ADF&G fish ticket number (automatically supplied).

(5) ADF&G statistical area of harvest (All ADF&G statistical areas are translated to the NMFS reporting area and the IPHC reporting area by eLandings.).

(6) Species code of catch from Table 2 to part 680.

(7) Delivery-condition codes of catch from Table 3a to this part.

(8) Number of crab retained and sold condition code, product type, size/grade, and sold pounds; and optionally, price per pound.

(9) Scale weight of deadloss (to the nearest pound) and scale weight of crab retained for personal use (to the nearest pound). Deadloss and personal use crab that an IPQ holder did not purchase are not debited from the IPQ holder's account.

(iv) Information entered for IFQ crab custom processing landings. In addition to the information required in paragraph (e)(8)(iii) of this section, if custom processing IFQ crab, the User for the RCR must enter the ADF&G processor code of the person for which the IFQ crab was custom processed.

(v) Signatures for IFQ crab deliveries. (A) The User for the RCR must print the completed crab landing report (ADF&G electronic crab ticket) and the crab IFQ landing receipt. The User must review the autofilled data entry cells to ensure that they are accurate for the landing that is taking place.

(B) The User for the Registered Crab Receiver (RCR), plus the IFQ permit holder or IFQ hired master permit holder, must acknowledge the accuracy of the printed IFQ crab landing receipt, and, if necessary, IFQ manual landing report, by entering printed name, signature, and date.

(vi) Time limits. (A) Except as indicated in paragraph (e)(8)(vi)(B) of this section, the User for the RCR is required to submit a crab landing report described at paragraph (e)(8) of this section to NMFS within six hours after all crab is offloaded from the vessel.

(B) For IFQ crab harvested on a catcher/processor, the User for the RCR is required to submit an IFQ crab landing report to NMFS by Tuesday noon after the end of each weekly reporting period in which IFQ crab was harvested.

(C) The User for the RCR and the IFQ permit holder or IFQ hired master permit holder must enter printed name and sign the crab IFQ landing receipt within six hours after all crab is offloaded from the harvesting vessel.

(vii) Landing document retention. The User must retain each landing report and landing receipt per paragraph (a)(5) of this section.

(viii) IFQ manual landing report for crab. See paragraph (e)(1)(iii) of this section.

(9) Shoreside processor or SFP information entered for production report. The manager of a shoreside processor or SFP that is required to have an FPP under § 679.4(f) must use eLandings or other NMFS-approved software during the fishing year to submit a production report to report daily processor identification information and all groundfish production data. The User must retain a copy of each production report per paragraphs (a)(5) and (6) of this section.

(i) Contents. eLandings autofills the following fields when creating a production report for a shoreside processor or SFP: FFP number, company name, ADF&G processor code, User name, e-mail address, and telephone number. The User must review the autofilled cells to ensure that they are accurate for the current report. In addition, the User for the shoreside processor or SFP must enter the following information (see paragraphs (e)(9)(i)(A) through (F) of this section):

(A) Date. Reporting date (mm/dd/yyyy).

(B) Observers. Number of observers onsite.

(C) Area of harvest. Whether harvested in GOA or BSAI.

(D) Product description. Species code, product type, and product code of product.

(E) Product weight. Enter actual scale weight of product to the nearest pound.

(F) No production/no deliveries (inactive). If there was no production or deliveries for the day, mark the “No Production” and/or “No Deliveries” boxes.

(ii) Submittal time limits. When checked-in pursuant to paragraph (h)(2) of this section, the User for a shoreside processor or SFP must submit a production report by noon each day to record the previous day's production information. If a shoreside processor or SFP using eLandings is not taking deliveries over a weekend, the User or manager may transmit the eLandings production report to NMFS on the following Monday.

(10) Catcher/processor or mothership information entered for production report—(i) Catcher/processor. The operator of a catcher/processor that is issued an FFP under § 679.4 and that harvests groundfish is required to use eLandings or other NMFS-approved software to submit a production report to record and report daily processor identification information, groundfish production data, and groundfish and prohibited species discard or disposition data.

(ii) Mothership. The operator of a mothership that is issued an FFP under § 679.4 and that receives groundfish is required to use eLandings or other NMFS-approved software to submit a production report to record and report daily processor identification information, groundfish production data, and groundfish and prohibited species discard or disposition data.

(iii) Contents. eLandings autofills the following fields when creating a production report for a catcher/processor or mothership: FFP number, company name, ADF&G processor code, User name, e-mail address, and telephone number. The User must review the autofilled cells to ensure that they are accurate for the current report. In addition, the User for the catcher/processor or mothership must enter the following information in paragraphs (e)(10)(iii)(A) through (N) of this section):

(A) Date. Reporting date (mm/dd/yyyy).

(B) Designation. From Table 14c to this part, enter whether the processor is a catcher/processor = FCP or a mothership = FLD.

(C) Crew size. Including operator.

(D) Management program. Enter management program and identifying number, if any, in which harvest occurred (see paragraph (a)(1)(iii) of this section).

(E) Gear type of harvester. Enter the gear type used by the harvester.

(F) Federal Reporting Area of harvest. Enter the Federal Reporting Area where harvest was made.

(G) COBLZ or RKCSA. Indicate whether fishing occurred in COBLZ or RKCSA (if applicable).

(H) Product description. Species code, product type, and product code of product.

(I) Product weight. Enter product weight in metric tons to the nearest 0.001 mt.

(J) No production (inactive). If there was no production for the day, mark the “No Production” box.

(K) Discard description. The operator must record the discard or disposition that occurred prior to, during, and after production of groundfish by species code and disposition code of discards and disposition.

(L) Discard weight. Daily weight of groundfish and the daily weight of herring PSC to the nearest 0.001 mt.

(M) PSC numbers. Daily number of PSC animals (Pacific salmon, steelhead trout, Pacific halibut, king crabs, and Tanner crabs) by species codes and product codes.

(N) ADF&G statistical area. Must be reported beginning January 1, 2009.

(iv) Submittal time limits. When checked-in pursuant to paragraph (h)(2) of this section, the User for a mothership or catcher/processor must submit a production report by noon each day to record the previous day's production information. If a vessel is required to have 100 percent observer coverage or more, the User may transmit a production report for Friday, Saturday, and Sunday no later than noon on the following Monday.

(11) Printing of landing reports, landing receipts, and production reports. (i) The User daily must retain a printed paper copy onsite or onboard of:

(A) Each landing report (ADF&G electronic groundfish tickets or electronic crab tickets).

(B) Each production report.

(C) If IFQ halibut, IFQ sablefish, or CDQ halibut, each groundfish IFQ landing receipt.

(D) If IFQ crab, each crab IFQ landing receipt.

(ii) In addition to paragraph (e)(11)(i) of this section, the mothership operator or User must print an additional copy of each landing report and provide it to the operator of the catcher vessel delivering groundfish to the mothership by 1200 hours, A.l.t., on Tuesday following the end of applicable weekly reporting period.

(12) Retention and inspection of landing reports, landing receipts, and production reports. The User must retain a printed copy of each IFQ landing report (ADF&G electronic groundfish ticket or electronic crab ticket), crab IFQ landing receipt, groundfish IFQ landing receipt, and production report as indicated at paragraphs (a)(5) and (6) of this section. The User must make available the printed copies upon request of NMFS observers and authorized officers as indicated at paragraph (a)(5) of this section.

(f) Electronic logbooks (ELBs). The operator may use a combination of a NMFS-approved ELB (instead of a DFL or DCPL) and eLandings to record and report groundfish information. To satisfy ELB use requirements, the operator after data entry must routinely create the following three products: an ELB logsheet, an ELB discard report, and an ELB data export.

(1) Responsibility. The operator must notify the Regional Administrator by fax at 907-586-7465 to ensure that NMFS knows that the operator is using a NMFS-approved ELB instead of a DFL or DCPL, prior to participating in any Federal fishery.

(i) Catcher vessel longline and pot gear ELB. The operator of a catcher vessel using longline and pot gear may use a NMFS-approved catcher vessel longline or pot gear ELB in lieu of using the NMFS-prescribed catcher vessel longline or pot gear DFL required at paragraph (c)(3) of this section.

(ii) Catcher/processor longline and pot gear ELB. The operator of a catcher/processor using longline or pot gear may use a combination of a NMFS-approved catcher/processor longline or pot gear ELB and eLandings to record and report groundfish information. The operator may use a NMFS-approved catcher/processor longline and pot gear ELB to record daily processor identification information and catch-by-set information. In eLandings, the operator must record daily processor identification, groundfish production data, and groundfish and prohibited species discard or disposition data.

(iii) Catcher vessel trawl gear ELB. The operator of a catcher vessel using trawl gear may use a NMFS-approved catcher vessel trawl gear ELB in lieu of using the NMFS-prescribed catcher vessel trawl gear DFL required at paragraph (c)(4) of this section.

(iv) Catcher/processor trawl gear ELB. The operator of a catcher/processor using trawl gear may use a combination of a NMFS-approved catcher/processor trawl gear ELB and eLandings to record and report groundfish information. In the ELB, the operator would record daily processor identification information and catch-by-haul information. In eLandings, the operator must record daily processor identification, groundfish production data, and groundfish and prohibited species discard or disposition data.

(v) Mothership ELB. The operator of a mothership may use a combination of a NMFS-approved mothership ELB and eLandings to record and report groundfish information. The operator may use a NMFS-approved mothership ELB to record daily processor identification information and catcher vessel and buying station groundfish delivery information. In eLandings, the operator must record daily processor identification, groundfish production data, and groundfish and prohibited species discard or disposition data.

(vi) If using a NMFS-approved ELB, the operator is not required to quarterly submit logsheets to OLE.

(2) Requirements for using an ELB—(i) Use a NMFS-approved ELB. The operator must use only a NMFS-approved ELB. The Regional Administrator maintains a list of approved ELBs on the Alaska Region NMFS Web site at http://www.alaskafisheries.noaa.gov (see also § 679.28(h) for approval of vendor software).

(ii) Keep a current copy of DFL or DCPL onboard. To ensure proper recording of the vessel's fishing activity in the event of problems with the ELB, the operator must keep a current copy of the appropriate DFL or DCPL onboard. In the event that electronic transmission is not made or confirmed for the ELB, the operator must enter information into the paper DFL or DCPL in accordance with the regulations at paragraphs (c)(1) through (c)(4) of this section. The operator must transfer any information recorded in a DFL or DCPL to the ELB when transmission resumes function.

(iii) Enter all required information into the ELB—(A) Inactive. The operator must enter all required information, if inactive (see paragraph (c)(2) of this section).

(B) Active. The operator must enter all required information, if active (see paragraph (c)(3), (c)(4), or (c)(6) of this section, as appropriate).

(1) Record the haul number or set number, time and date gear set, time and date gear hauled, begin and end position, CDQ group number (if applicable), and hail weight for each haul or set within 2 hours after completion of gear retrieval.

(2) Daily complete ELB data entry and printing of copies as indicated in paragraph (f)(3)(i) of this section.

(iv) Regularly backup ELB data. The operator must regularly backup ELB data to ensure that data are not lost in the event of hardware or software problems.

(v) Correct errors in ELB data. If after an ELB discard report and ELB logsheet are printed, an error is found in the data, the operator must make any necessary changes to the data, print a new copy of the ELB discard report and ELB logsheet, and export the revised file to NMFS. The operator must retain both the original and revised ELB reports.

(3) Printed copies. Upon completion of ELB data entry each day, the operator must print the following information (see paragraphs (f)(3)(i) and (ii) of this section) in the NMFS-specified format:

(i) ELB logsheet. (A) Print a copy of an ELB logsheet when a vessel is active, by noon each day to record the previous day's ELB information.

(B) Print one ELB logsheet to describe a continuous period of inactivity, when a vessel is inactive.

(C) Print a copy of the ELB logsheet for the observer's use if an observer is present, by noon each day to record the previous day's ELB information.

(ii) ELB discard report. (A) Print a copy of an ELB discard report upon completion of each fishing trip or each offload of fish.

(B) If an observer is present, print a copy of the ELB discard report for the observer's use upon completion of each fishing trip or each offload of fish.

(4) Signatures—(i) ELB logsheet. The operator daily must sign and date each printed ELB logsheet by noon each day to record the previous day's ELB information. The signature of the operator is verification of acceptance of the responsibility required in paragraph (a)(2) of this section.

(ii) ELB discard report. The operator daily must sign and date each printed ELB discard report upon completion of each fishing trip or each offload of fish. The signature of the operator is verification of acceptance of the responsibility required in paragraph (a)(2) of this section.

(5) Submittal time limits. (i) The operator of a catcher vessel using an ELB must upon delivery of catch submit the ELB discard report to the mothership, shoreside processor, or SFP.

(ii) The operator or manager of a buying station that receives groundfish catch from a catcher vessel using an ELB must upon delivery of catch submit the ELB discard report to the mothership, shoreside processor, or SFP, and submit the ELB data export directly to the Regional Administrator or through the mothership, shoreside processor, or SFP.

(6) Retention. The operator must keep a signed copy of each ELB logsheet and each ELB discard report, filed in sequence for immediate access by authorized personnel as described at paragraph (a)(5) of this section.

(7) ELB data export. The operator must transmit an ELB data export to NMFS at the specified e-mail address within 24 hours of completing each fishing trip or offload, as described under paragraph (f)(7)(i) or (ii) of this section in the following manner:

(i) Directly to NMFS as an e-mail attachment; or

(ii) If a catcher vessel, send directly to NMFS as an e-mail attachment or to NMFS through a shoreside processor, SFP, or mothership who received his/her groundfish catch. Through a prior agreement with the catcher vessel, the operator of a mothership or the manager of a shoreside processor or SFP will forward the ELB data export to NMFS as an e-mail attachment within 24 hours of completing receipt of the catcher vessel's catch.

(8) Return receipt. (i) Upon receiving an ELB data export, NMFS will generate a dated return-receipt to confirm receipt of the ELB data. If errors exist in the data transmitted to NMFS, the receipt will identify the errors. If errors are identified, the operator must correct the errors and send a revised transmission to NMFS which will then confirm acceptance of the ELB data.

(ii) The operator must retain the NMFS return receipt as described in paragraph (a)(5) of this section.

(iii) If a return receipt from NMFS is not received within 24 hours, the operator of the catcher vessel, the operator of a catcher/processor, the operator of the mothership, or the manager of the shoreside processor or SFP forwarding the ELB data export for the operator of the catcher vessel, must contact NMFS by telephone at 907-586-7228 or fax at 907-586-7131 for instructions.

(g) * * *

(1) General requirements. Except as provided in paragraphs (g)(2)(i) through (v) of this section, the operator or manager must record on a PTR those species that are listed in Tables 2a and 2c to this part when those species are transferred out of the facility or off the vessel and may also record species listed in Table 2d to this part.

* * * * *

(h) Check-in/Check-out report—(1) Requirement. Except as described in paragraph (h)(2) of this section, the operator of a catcher/processor or mothership and manager of a shoreside processor or SFP must submit to NMFS a check-in report (BEGIN message) prior to becoming active and a check-out report (CEASE message) for every check-in report submitted. The check-in report and check-out report must be submitted by fax to 907-586-7131, or by e-mail to erreports.alaskafisheries@noaa.gov.

(2) Exceptions—(i) VMS onboard. The operator of a catcher/processor or mothership is not required to submit to NMFS a check-in report or check-out report if the vessel is carrying onboard a transmitting VMS that meets the requirements of § 679.28(f).

(ii) Exception, two adjacent reporting areas. If on the same day a catcher/processor intends to fish in two adjacent reporting areas (an action which would require submittal of check-out reports and check-in reports multiple times a day when crossing back and forth across a reporting area boundary), and the two reporting areas have on that day and time an identical fishing status for every species, the operator must:

(A) Submit to NMFS a check-in report to the first area prior to entering the first reporting area, and

(B) Submit to NMFS a check-in report to the second area prior to entering the second reporting area.

(C) Remain within 10 nautical miles (18.5 km) of the boundary described in paragraph (h)(2)(i) of this section.

(D) If the catcher/processor proceeds in the second reporting area beyond 10 nautical miles (18.5 km) of the boundary between the two areas, the operator must submit a check-out report from the first reporting area. The operator must submit a check-out report from the second area upon exiting that reporting area.

(3) Transit through reporting areas. The operator of a catcher/processor or mothership is not required to submit a check-in or check-out report if the vessel is transiting through a reporting area and is not fishing or receiving fish.

(4) Time limits and submittal. Except as indicated in paragraph (h)(2) of this section, the operator or manager must submit a check-in report and a check-out report according to the following table:

For . . . | If you are a . . . | Submit a BEGIN message | Submit a CEASE message
(i) Each reporting area, except area 300, 400, 550, or 690 | (A) C/P using trawl gear | Before gear deployment | Within 24 hours after departing a reporting area but prior to checking-in to another reporting area.
| (B) C/P using longline or pot gear | Before gear deployment. May be checked in to more than one area simultaneously | Upon completion of gear retrieval and within 24 hours after departing each reporting area.
| (C) MS | Before receiving groundfish, must check-in to reporting area(s) where groundfish were harvested. May be checked in to more than one area simultaneously | Within 24 hours after receipt of fish is complete from that reporting area. If receipt of groundfish from a reporting area is expected to stop for at least one month during the fishing year and then start up again, may submit check-out report for that reporting area.
(ii) COBLZ or RKCSA | (A) C/P using trawl gear | Prior to fishing. Submit one check-in for the COBLZ or RKCSA and another check-in for the area outside the COBLZ or RKCSA | Upon completion of gear retrieval for groundfish, submit a separate check-out for the COBLZ or RKCSA and another check-out for the area outside the COBLZ or RKCSA.
| (B) MS | Before receiving groundfish harvested with trawl gear that were harvested in the COBLZ or RKCSA, submit one check-in for the COBLZ or RKCSA and another check-in for the area outside the COBLZ or RKCSA | Upon completion of groundfish receipt, submit a separate check-out for the COBLZ or RKCSA and another check-out for the area outside the COBLZ or RKCSA.
(iii) Gear Type | (A) C/P | If in the same reporting area but using more than one gear type, prior to fishing submit a separate check-in for each gear type | Upon completion of gear retrieval for groundfish, submit a separate check-out for each gear type for which a check-in was submitted.
| (B) MS | If harvested in the same reporting area but using more than one gear type, prior to receiving groundfish submit a separate check-in for each gear type | Upon completion of receipt of groundfish, submit a separate check-out for each gear type for which a check-in was submitted.
(iv) CDQ | (A) MS | Prior to receiving groundfish CDQ, if receiving groundfish under more than one CDQ number, use a separate check-in for each CDQ number | Within 24 hours after receipt of groundfish CDQ has ceased for each CDQ number.
| (B) C/P | Prior to fishing, submit a separate check-in for each CDQ number | Within 24 hours after groundfish CDQ fishing for each CDQ number has ceased.
(v) Exempted or Research Fishery | (A) C/P | Prior to fishing, submit a separate check-in for each type | Upon completion of receipt of groundfish submit a separate check-out for each type for which a check-in was submitted.
| (B) MS | Prior to receiving groundfish, submit a separate check-in for each type | Upon completion of receipt of groundfish submit a separate check-out for each type for which a check-in was submitted.
(vi) Aleutian Islands Pollock (AIP) | (A) C/P | Prior to AIP fishing | Within 24 hours after completion of gear retrieval for AIP.
| (B) MS | Before receiving AIP | Within 24 hours after receipt of AIP has ceased.
(vii) Processor Type | C/P, MS | If a catcher/processor and functioning simultaneously as a mothership in the same reporting area, before functioning as either processor type | Upon completion of simultaneous activity as both catcher/processor and mothership, a separate check-out, one for catcher/processor and one for mothership.
(viii) Change of fishing year | (A) C/P, MS | If continually active through the end of one fishing year and at the beginning of a second fishing year, submit a check-in for each reporting area to start the year on January 1 | If a check-out report was not previously submitted during a fishing year for a reporting area, submit a check-out report for each reporting area on December 31.
| (B) SS, SFP | If continually active through the end of one fishing year and at the beginning of a second fishing year, submit a check-in to start the year on January 1 | If a check-out report was not previously submitted during a fishing year, submit a check-out report on December 31.
(ix) Interruption of production | SS, SFP, MS | n/a | If receipt of groundfish is expected to stop for at least one month during the fishing year and then start up again, the manager or operator may choose to submit a check-out report.

(5) Required information. The operator of a catcher/processor or mothership and the manager of a shoreside processor or SFP must record the information in the following table on a check-in report and a check-out report, as appropriate.

Required information | Check-in report: MS | Check-in report: C/P | Check-in report: SS, SFP | Check-out report: MS | Check-out report: C/P | Check-out report: SS, SFP
(i) Whether an original or revised report | X | X | X | X | X | X
(ii) Vessel name, ADF&G processor code, FFP number | X | X |  | X | X |
(iii) Processor name, ADF&G processor code, FPP number |  |  | X |  |  | X
(iv) Representative name, business telephone number, business fax number | X | X | X | X | X | X
(v) COMSAT number (if applicable) | X | X |  | X | X |
(vi) Management program name (see paragraph (a)(1)(iii) of this section) and identifying number (if any). If harvest is not under one of these management programs, leave blank. | X | X |  | X | X |
(vii) Processor type, gear type | X | X |  | X | X |
(viii) Date (mm/dd/yy) and time (A.l.t., military format):
(A) When receipt of groundfish will begin | X |  | X |  |  |
(B) When gear deployment will begin |  | X |  |  |  |
(C) When the last receipt or processing of groundfish was completed |  |  |  | X |  | X
(D) When the vessel departed the reporting area |  |  |  |  | X |
(ix) Position coordinates:
(A) Where groundfish receipt begins | X |  |  |  |  |
(B) Where receiving groundfish (if SFP) |  |  | X |  |  |
(C) Where gear is deployed |  | X |  |  |  |
(D) Where the last receipt of groundfish was completed |  |  |  | X |  |
(E) Where the vessel departed the reporting area |  |  |  |  | X |
(x) Reporting area code:
(A) Where gear deployment begins |  | X |  |  |  |
(B) Where groundfish harvest occurred | X |  |  |  |  |
(C) Where the last receipt of groundfish was completed |  |  |  | X |  |
(D) Where the vessel departed the reporting area |  |  |  |  | X |
(xi) Primary and secondary target species (A change in intended target species within the same reporting area does not require a new BEGIN message.):
(A) Expected to be received the following week | X |  |  |  |  |
(B) Expected to be harvested the following week |  | X |  |  |  |
(xii) Indicate (YES or NO) whether this is a check-in report |  |  | X |  |  |
(xiii) If YES, indicate:
(A) If checking-in for the first time this fishing year |  |  | X |  |  |
(B) If checking-in to restart receipt and processing of groundfish after filing a check-out report |  |  | X |  |  |
(xiv) Indicate (YES or NO) whether this is a check-out report |  |  |  |  |  | X
(xv) If YES, indicate product weight of all fish or fish products (including non-groundfish) remaining at the facility (other than public cold storage) by species code and product code. Indicate if recorded to the nearest pound or to the nearest 0.001 mt. |  |  | X |  |  | X

(i) Weekly production report (WPR). The WPR is removed from use. Instead of a WPR, the operator of a mothership or catcher/processor and the manager of a shoreside processor or SFP must submit all landings information, production information, and discard and disposition information using eLandings or other NMFS-approved software (see paragraph (e) of this section).

* * * * *

(l) * * *

(1) * * *

(iv) Exemption—(A) Halibut. An IFQ landing of halibut of 500 lb or less of IFQ weight determined pursuant to § 679.40(h) and concurrent with a legal landing of salmon harvested using hand troll gear or power troll gear is exempt from the PNOL required by this section.

(B) Lingcod. An IFQ landing of halibut of 500 lb or less of IFQ weight determined pursuant to § 679.40(h) and concurrent with a legal landing of lingcod harvested using dinglebar gear is exempt from the PNOL required by this section.

(2) IFQ landing—(i) Remain at landing site. Once the landing has commenced, the IFQ permit holder, the IFQ hired master permit holder, or the CDQ hired master permit holder, and the harvesting vessel may not leave the landing site until the IFQ halibut, IFQ sablefish, or CDQ halibut account is properly debited (see § 679.40(h)).

(ii) No movement of IFQ halibut, CDQ halibut, or IFQ sablefish. The offloaded IFQ halibut, CDQ halibut, or IFQ sablefish may not be moved from the landing site until the IFQ Landing Report is completed through eLandings or other NMFS-approved software and the IFQ permit holder's or CDQ permit holder's account is properly debited (see § 679.40(h)).

(iii) Single offload site—(A) IFQ halibut and CDQ halibut. The vessel operator who lands IFQ halibut or CDQ halibut must continuously and completely offload at a single offload site all halibut onboard the vessel.

(B) IFQ sablefish. The vessel operator who lands IFQ sablefish must continuously and completely offload at a single offload site all sablefish onboard the vessel.

* * * * *

5. In § 679.7, paragraph (a)(1)(iii) is added to read as follows:

§ 679.7 Prohibitions.

* * * * *

(a) * * *

(1) * * *

(iii) Conduct fishing operations from a vessel using other than the operation type(s) specified on the FFP (see § 679.4(b)) issued for that vessel.

* * * * *

6. In § 679.22, paragraph (b)(6) is removed and reserved, and paragraphs (b)(5)(i) and (ii) are revised to read as follows:

§ 679.22 Closures.

* * * * *

(b) * * *

(5) * * *

(i) No FFP holder may fish for groundfish in the Sitka Pinnacles Marine Reserve, and no vessel named on an FFP may be anchored in the Sitka Pinnacles Marine Reserve, as described in Figure 18 to this part.

(ii) No person fishing under an IFQ halibut permit may fish for halibut and no person fishing under an IFQ sablefish permit may fish for sablefish in the Sitka Pinnacles Marine Reserve; and no vessel with an IFQ permit holder or IFQ hired master permit holder onboard may be anchored in the Sitka Pinnacles Marine Reserve, as described in Figure 18 to this part.

* * * * *

7. In § 679.28:

A. Paragraph (b)(2)(v) is removed and reserved.

B. Paragraphs (f)(4)(iii) and (h) are added.

C. Paragraphs (a), (b)(2)(iii), (b)(2)(iv), (b)(2)(vi)(A), (f)(4)(i), (f)(4)(ii), and (f)(5) are revised.

The revisions and additions read as follows:

§ 679.28 Equipment and operational requirements.

(a) Applicability. This section contains the operational requirements for scales, observer sampling stations, bins for volumetric estimates, vessel monitoring system hardware, catch monitoring and control plan, and catcher vessel electronic logbook software. The operator or manager must retain a copy of all records described in this section (§ 679.28) as indicated at § 679.5(a)(5) and (6) and make available the records upon request of NMFS observers and authorized officers as indicated at § 679.5(a)(5).

(b) * * *

(2) * * *

(iii) Who may perform scale inspections and approvals? Scales must be inspected and approved by a NMFS-staff scale inspector or an inspector designated by NMFS and trained by a NMFS-staff scale inspector.

(iv) How does a vessel owner arrange for a scale inspection? The operator must submit a request for a scale inspection at least 10 working days in advance of the requested date of inspection by filing a request online or by printing and faxing the scale inspection request at http://www.alaskafisheries.noaa.gov/scales/default.htm.

* * * * *

(vi) * * *

(A) Make the vessel and scale available for inspection by the scale inspector.

* * * * *

(f) * * *

(4) * * *

(i) Register the vessel's VMS unit with an appropriate service provider;

(ii) Use VMS check-in report to contact OLE by fax at 907-586-7703 and provide the date (mm/dd/yy), vessel name, USCG documentation number, FFP number or Federal crab vessel permit number, name and telephone number of contact person, and VMS transmitter ID or serial number; and

(iii) Call OLE at 907-586-7225, Monday through Friday, between the hours of 0800 hours, A.l.t., and 1630 hours, A.l.t., at least 72 hours before leaving port and receive confirmation that the transmissions are being received.

(5) What must the vessel owner do when the vessel replaces a VMS transmitter? A vessel owner who must use a VMS and who intends to replace a transmitter, must follow the reporting and confirmation procedure for the replacement transmitter, as described in paragraph (f)(4) of this section.

* * * * *

(h) ELB software—(1) How do I get my ELB software approved by NMFS?—(i) Specifications. NMFS will provide specifications for ELB software upon request. Interested parties may contact NMFS by mail at NMFS Alaska Region, Sustainable Fisheries Division, Catch Accounting/Data Quality, P.O. Box 21668, Juneau, AK 99802-1668; by telephone at 907-586-7228. The four types of ELB software are:

(A) Catcher vessel longline or pot gear (see § 679.5(c)(3));

(B) Catcher/processor longline or pot gear (see § 679.5(c)(3));

(C) Catcher vessel trawl gear (see § 679.5(c)(4)); and

(D) Catcher/processor trawl gear (see § 679.5(c)(4)).

(ii) ELB submittal package. A vendor or developer wishing to have an ELB approved by NMFS must submit:

(A) A fully operational test copy of the software; and

(B) An application for ELB-approval giving the following information (see paragraphs (h)(1)(ii)(B)(1) through (3) of this section):

(1) Company, contact person, address, telephone number, and fax number for the company developing the software;

(2) Name and type of software; and

(3) Printed name and signature of individual submitting the software for approval.

(C) Copies of all manuals and documentation for the software.

(iii) ELB approval. NMFS will approve ELB software within 60 working days of receipt of all required information if the software meets the following standards in paragraphs (h)(1)(iii)(A) through (H) of this section):

(A) Has fields for the entry of all information required for a paper DFL or DCPL as described in § 679.5(c)(3) and (4), as appropriate.

(B) The software must automatically time and date stamp each printed copy of the ELB logsheet and ELB discard report and clearly identify the first printed copy as an original. If any changes are made to the data in the ELB, subsequent printed copies must clearly be identified as revised. The software must be designed to prevent the operator from overriding this feature.

(C) The software must export data as an ASCII comma delimited text file, xml file, or other format approved by NMFS.

(D) The software must integrate with the vessel's global positioning system (GPS) to allow vessel location fields to be completed automatically.

(E) When the software is started, it must clearly show the software version number.

(F) The software must be designed to facilitate the transfer of an export file to NMFS as an e-mail attachment.

(G) The software must be designed to ensure that an operator can comply with the requirements for ELB use as described in § 679.5(f).

(H) The software must include sufficient data validation capability to prevent a submitter from accidentally transmitting a data file or printing an ELB logsheet that is incomplete or contains clearly erroneous data.

(2) What if I need to make changes to NMFS-approved ELB software?—(i) NMFS-instigated changes. NMFS will provide the developer with information that affects the ELB software as soon as it is available for distribution, e.g., changes in species codes or product codes.

(ii) Developer-instigated changes. The developer must submit a copy of the changed software along with documentation describing the need for the change to NMFS for review and approval as described in paragraph (h)(1)(ii) of this section. NMFS will review and approve the new version according to the guidelines set forth in paragraph (h)(1)(iii) of this section.

(iii) NMFS-approved ELB changes. If changes to ELB software are approved by NMFS, the developer must:

(A) Give the revised software a new version number;

(B) Notify all known ELB users of the software that a new version is available; and

(C) Ensure that the ELB users are provided with a revised copy within 15 days of notification.

* * * * *

8. In § 679.40, paragraph (c)(3) is revised and paragraph (h) is added to read as follows:

§ 679.40 Sablefish and halibut QS.

* * * * *

(c) * * *

(3) IFQ permit. The Regional Administrator shall issue to each QS holder, pursuant to § 679.4, an IFQ permit specifying the maximum amount of halibut and sablefish that may be harvested with fixed gear in a specified IFQ regulatory area and vessel category. Such IFQ permits will be sent to each QS holder at the address on record for that person prior to the start of the IFQ fishing season or following transfers or penalties (15 CFR part 904).

* * * * *

(h) Properly debited landing—(1) Permit holder's account. Except as provided in paragraph (g) of this section, all IFQ halibut, CDQ halibut, and IFQ sablefish catch onboard a vessel must be weighed and debited from the IFQ permit holder's account or CDQ halibut permit holder's account under which the catch was harvested.

(2) Properly debited account. A properly concluded groundfish IFQ landing receipt, crab IFQ landing receipt, or a manual IFQ landing report which is signed by the Registered Buyer and IFQ permit holder or IFQ hired master permit holder or CDQ hired master permit holder constitutes confirmation that the IFQ permit holder's or CDQ permit holder's account is properly debited.

(3) Source of debit. NMFS shall use the following sources (see paragraphs (h)(3)(i) and (ii) of this section) of information to debit a CDQ halibut, IFQ halibut, or IFQ sablefish account:

(i) Unprocessed landing. If offload of unprocessed IFQ halibut, CDQ halibut, or IFQ sablefish from a vessel, the scale weight (to the nearest pound) of the halibut or sablefish product actually measured at the time of offload, as required by § 679.5(e)(8)(i)(K) to be included in the IFQ Landing Report.

(ii) Processed landing. If offload of processed IFQ halibut, CDQ halibut, or IFQ sablefish from a vessel, the scale weight (to the nearest pound) of the halibut or sablefish processed product actually measured at or before the time of offload. If the product scale weights are taken before the time of offload, then the species and actual product weight of each box or container must be visibly marked on the outside of each container to facilitate inspection by OLE or designees.

9. In § 679.42, paragraphs (c), (h)(3), and (j)(8) are revised and paragraph (h)(4) is added to read as follows:

§ 679.42 Limitations on use of QS and IFQ.

* * * * *

(c) Requirements and deductions. Any individual who harvests halibut or sablefish with fixed gear must have a valid IFQ permit, and if a hired master is conducting the harvest, a valid IFQ hired master permit, aboard the vessel at all times during the fishing trip and present during the landing.

* * * * *

(h) * * *

(3) Excess. An IFQ permit holder who receives an approved IFQ allocation of halibut or sablefish in excess of these limitations may nevertheless catch and retain all that IFQ with a single vessel. However, two or more IFQ permit holders may not catch and retain their IFQs with one vessel in excess of these limitations.

(4) Liability. Owners of vessels exceeding these limitations are jointly and severally liable with IFQ permit holders and IFQ hired master permit holders whose harvesting causes the vessel to exceed these limitations.

* * * * *

(j) * * *

(8) A corporation, partnership, or other non-individual entity, except for a publicly held corporation, that receives an allocation of QS must provide annual updates to the Regional Administrator identifying all current shareholders, partners, or members to the individual person level and affirming the entity's continuing existence as a corporation or partnership, or other non-individual entity.

* * * * *

10. In § 679.50, paragraph (g)(1)(ix)(A) is revised to read as follows:

§ 679.50 Groundfish Observer Program.

* * * * *

(g) * * *

(1) * * *

(ix) * * *

(A) Ensure that transfers of observers at sea are carried out during daylight hours, under safe conditions, and with the agreement of observers involved.

* * * * *

§§ 679.1, 679.2, 679.4, 679.5, 679.20, 679.21, 679.22, 679.27, 679.28, 679.40, 679.41, 679.42, 679.50, 679.61, and 679.84 [Amended]

11. At each of the locations shown in the Location column, remove the phrase indicated in the “Remove” column and replace it with the phrase indicated in the “Add” column for the number of times indicated in the “Frequency” column.

Location | Remove | Add | Frequency
§ 679.1 introductory text | under the Magnuson-Stevens Fishery Conservation and Management Act and the Northern Pacific Halibut Act | under the Magnuson-Stevens Fishery Conservation and Management Act, 16 U.S.C. 1801 et seq. (Magnuson-Stevens Act) and the Northern Pacific Halibut Act of 1982 (Halibut Act) | 1
§ 679.1(a)(2) | 5 AAC 28.110 | 5 AAC 28.111 | 1
§ 679.2 definition of “Authorized distributor” | food bank distributors | food bank distributors (see § 679.26, Prohibited Species Donation Program) | 1
§ 679.2 definition of “Authorized fishing gear” paragraph (14)(iii) introductory text | paragraph (10)(ix) | paragraph (14)(ix) | 1
§ 679.2 definition of “Authorized fishing gear” paragraph (14)(iv) | paragraph (10)(iii) | paragraph (14)(iii) | 1
§ 679.2 definition of “Authorized fishing gear” paragraph (14)(v) | paragraphs (10)(iii) and (iv) | paragraphs (14)(iii) and (iv) | 1
§ 679.2 definition of “Basis species” | authorized to harvest | authorized to harvest (see Tables 10 and 11 to this part) | 1
§ 679.2 definition of “Catcher/processor” introductory text | Catcher/processor means: | Catcher/processor (C/P) means: | 1
§ 679.2 definition of “Catcher vessel” | Catcher vessel means | Catcher vessel (CV) means | 1
§ 679.2 definition of “Legal rockfish landing for purposes of qualifying for the Rockfish Program” paragraph (2)(i) | Weekly Production Report | production report | 1
§ 679.2 definition of “Person” | other entity | other non-individual entity | 1
§ 679.2 definition of “Prohibited species” | Regulated under this part | issued an FFP under § 679.4(b) | 1
§ 679.2 definition of “Stationary floating processor” | Stationary floating processor | Stationary floating processor (SFP) | 1
§ 679.2 definition of “U.S. Citizen” paragraph (2)(ii) | other entity | other non-individual entity | 1
§ 679.2 definition of “Vessel operations category” | § 679.5(b)(3) | § 679.4(b)(3) | 1
§ 679.2 definition of “Weekly production report (WPR)” | (see § 679.5(i)) | is no longer required (see § 679.5(e)(9) and (10)) | 1
§ 679.4(b)(5)(ii) | owner; and the name | owner; and if applicable, the name | 1
§ 679.4(b)(5)(iii) | horsepower; whether this is a vessel of the United States; and whether this vessel will be used as a stationary floating processor | horsepower; and whether this is a vessel of the United States | 1
§ 679.4(d)(1)(i), (d)(2)(i), (d)(3)(i), and (d)(3)(iv) | suspended, or modified | suspended, surrendered in accordance with paragraph (a)(9) of this section, or modified | 1
§ 679.4(k) heading | Licenses for license limitation groundfish or crab species | Licenses for license limitation program (LLP) groundfish or crab species | 1
§ 679.4(k)(3)(ii)(A)(3) and (k)(4) introductory text | Weekly Production Reports | production reports | 1
§ 679.4(k)(5)(iv) | Pacific time | Alaska local time | 1
§ 679.5(g)(1)(i) heading | Groundfish | Groundfish and donated prohibited species | 1
§ 679.5(p)(2) | Alaska Department of Fish & Game, Division of Commercial Fisheries | ADF&G Division of Commercial Fisheries | 1
§ 679.5(r)(3) | SPELR | eLandings | 2
§ 679.5(r)(5) heading | Weekly production report (WPR) | Production reports. | 1
§ 679.5(r)(5) | submit a WPR as described in paragraph (i) of this section | submit a production report as described in paragraphs (e)(9) and (10) of this section | 1
§ 679.5(r)(10)(i)(B)(2) | as reported in a WPR | as reported in a production report | 1
§ 679.20(e) heading | Maximum retainable amounts— | Maximum retainable amounts (MRA)— | 1
§ 679.20(g)(2)(iii) | § 679.5(a)(9) | § 679.5(a)(7)(v)(C) | 1
§ 679.21(a)(2) | motherships and shoreside processors | motherships, shoreside processors, and SFPs | 1
§ 679.21(e)(7)(vii) | during August | during the period August | 1
§ 679.22(b)(1)(iii) | open to any trawl other than a pelagic trawl gear year round | open unless otherwise closed to trawling | 1
§ 679.27(j)(2) | weekly production report required at § 679.5(i) | production report required at § 679.5(e)(10) | 1
§ 679.28(c)(3)(i) | § 679.5(a)(13) | § 679.5(a)(5)(ii) | 1
§ 679.40(a)(2)(i)(D) | other entity | other non-individual entity | 1
§ 679.40(a)(3)(v)(B) | WPRs | production reports | 1
§ 679.40(a)(6)(i) | corporation or partnership | corporation, partnership, or other non-individual entity | 2
§ 679.41(d)(2)(ii) | A corporation, partnership, or other entity | A corporation, partnership, or other non-individual entity | 1
§ 679.42(j) heading | corporations and partnerships | corporations, partnerships, or other non-individual entities | 1
§ 679.42(j) | corporation, partnership, or other entity | corporation, partnership, association, or other non-individual entity | 13
§ 679.42(j) | corporation or partnership | corporation, partnership, association, or other non-individual entity | 10
§ 679.50(c)(3)(i) | weekly production report submitted to the Regional Administrator under § 679.5(i) | production report submitted to the Regional Administrator under § 679.5(e)(10) | 1
§ 679.50(c)(3)(ii) | weekly production report submitted to the Regional Administrator for that week by the mothership under § 679.5(i) | production reports submitted to the Regional Administrator under § 679.5(e)(10) | 1
§ 679.61(d)(1) | paragraph (c) of this section | this paragraph (d) | 1
§ 679.61(e)(1) | paragraph (c) of | this section this paragraph (d) | 1
§ 679.84(b) | § 679.4(m) | § 679.4(n) | 1

12. The map in Figure 3 to part 679 is revised to read as follows:

BILLING CODE 3510-22-P

* * * * *

13. The map in Figure 5 to part 679 is revised to read as follows:

* * * * *

14. Figure 7 to part 679 is revised to read as follows:

15. Figure 12 to part 679 is revised to read as follows:

16. Table 1 to part 679 is removed; Tables 1a, 1b, and 1c to part 679 are added; and Tables 2a and 2b to part 679 are revised to read as follows:

Table 1a to Part 679—Delivery Condition and Product Codes
Description | Code
General Use Codes
Belly flaps. Flesh in region of pelvic and pectoral fins and behind head (ancillary only) | 19
Bled only. Throat or isthmus slit to allow blood to drain | 03
Bled fish destined for fish meal (includes offsite production). DO NOT RECORD ON PTR. | 42
Bones (if meal, report as 32) (ancillary only) | 39
Butterfly, no backbone.
Head removed, belly slit, viscera and most of backbone removed; fillets attached | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets | 24
Fillets, skinless/boneless. Meat with both skin and ribs removed, from sides of body behind head and in front of tail | 23
Fillets with ribs, no skin.
Meat with ribs with skin removed, from sides of body behind head and in front of tail | 22
Fillets with skin and ribs.
Meat and skin with ribs attached, from sides of body behind head and in front of tail | 20
Fillets with skin, no ribs.
Meat and skin with ribs removed, from sides of body behind head and in front of tail | 21
Fish meal. Meal from whole fish or fish parts; includes bone meal | 32
Fish oil. Rendered oil from whole fish or fish parts. Record only oil destined for sale and not oil stored or burned for fuel onboard | 33
Gutted, head on. Belly slit and viscera removed | 04
Gutted, head off. Belly slit and viscera removed | 05
Head and gutted, with roe | 06
Headed and gutted, Western cut.
Head removed just in front of the collar bone, and viscera removed | 07
Headed and gutted, Eastern cut.
Head removed just behind the collar bone, and viscera removed | 08
Headed and gutted, tail removed.
Head removed usually in front of collar bone, and viscera and tail removed | 10
Heads. Heads only, regardless where severed from body (ancillary only) | 16
Kirimi (Steak). Head removed either in front or behind the collar bone, viscera removed, and tail removed by cuts perpendicular to the spine, resulting in a steak | 11
Mantles, octopus or squid. Flesh after removal of viscera and arms | 36
Milt (in sacs, or testes) (ancillary only) | 34
Minced. Ground flesh | 31
Other retained product. If product is not listed on this table, enter code 97 and write a description and product recovery rate next to it in parentheses. | 97
General Use Codes
Pectoral girdle. Collar bone and associated bones, cartilage and flesh | 15
Roe. Eggs, either loose or in sacs, or skeins (ancillary only) | 14
Salted and split. Head removed, belly slit, viscera removed, fillets cut from head to tail but remaining attached near tail. Product salted | 12
Stomachs. Includes all internal organs (ancillary only) | 35
Surimi. Paste from fish flesh and additives | 30
Whole fish or shellfish/food fish | 01
Wings. On skates, side fins are cut off next to body. | 13
Shellfish Only
Soft shell crab | 75
Bitter crab | 76
Deadloss | 79
Sections | 80
Meat | 81

Note: When using whole fish codes, record round weights not product weights, even if the whole fish is not used.

Table 1b to Part 679—Discard and Disposition Codes
Description | Code
Confiscation | 63
Deadloss (crab only) | 79
Halibut retained for future sale (Halibut only) | 87
Overage (Specify overage type in comment) | 62
Tagged Fish (Exempt from IFQ) | 64
Whole fish/bait, not sold. Used as bait on board vessel | 92
Whole fish/bait, sold | 61
Whole fish/discard at sea | 98
Whole groundfish and prohibited species discarded by catcher vessels, catcher/processors, motherships, or tenders. DO NOT RECORD ON PTR.
Whole fish/discard, damaged.
Whole fish damaged by observer's sampling procedures | 93
Whole fish/discard, decomposed. Decomposed or previously discarded fish | 89
Whole fish/discard, infested. Flea-infested fish, parasite-infested fish | 88
Whole fish/discard, onshore. Discard after delivery and before processing by shoreside processors, stationary floating processors, and buying stations and in-plant discard of whole groundfish and prohibited species during processing. DO NOT RECORD ON PTR | 99
Whole fish/donated prohibited species | 86
Number of Pacific salmon or Pacific halibut, otherwise required to be discarded that is donated to charity under a NMFS-authorized program.
Whole fish/fish meal.
Whole fish destined for meal (includes offsite production.) DO NOT RECORD ON PTR | 41
Whole fish/personal use, consumption. Fish or fish products eaten on board or taken off the vessel for personal use. Not sold or utilized as bait | 95
Whole fish/sold, for human consumption | 60

Note: When using whole fish codes, record round weights not product weights, even if the whole fish is not used.

Table 1c to Part 679—Product Type Codes
Description | Code
Ancillary product.
A product, such as meal, heads, internal organs, pectoral girdles, or any other product that may be made from the same fish as the primary product | A
Primary product.
A product, such as fillets, made from each fish, with the highest recovery rate | P
Reprocessed or rehandled product.
A product, such as meal, that results from processing a previously reported product or from rehandling a previously reported product | R

Table 2a to Part 679—Species Codes: FMP Groundfish
Species description | Code
Atka mackerel (greenling) | 193
Flatfish, miscellaneous (flatfish species without separate codes) | 120
FLOUNDER:
Alaska plaice | 133
Arrowtooth and/or Kamchatka | 121
Starry | 129
Octopus, North Pacific | 870
Pacific cod | 110
Pollock | 270
ROCKFISH:
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. ciliatus) | 154
Greenstriped (S. elongatus) | 135
Harlequin (S. variegatus) | 176
Northern (S. polyspinis) | 136
Pacific Ocean perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS:
Other (if salmon, spiny dogfish or Pacific sleeper shark—use specific species code) | 689
Pacific sleeper | 692
Salmon | 690
Spiny dogfish | 691
SKATES:
Big | 702
Longnose | 701
Other (If longnose or big skate—use specific species code) | 700
SOLE:
Butter | 126
Dover | 124
English | 128
Flathead | 122
Petrale | 131
Rex | 125
Rock | 123
Sand | 132
Yellowfin | 127
Squid, majestic | 875
Turbot, Greenland | 134

Table 2d to Part 679—Species Codes: Non-FMP Species
General use: Species description | General use: Code
Arctic char (anadromous) | 521
Bering flounder (Hippoglossoides robustus) | 116
Dolly varden (anadromous) | 531
Eels or eel-like fish | 210
Eel, wolf | 217
GREENLING:
Kelp | 194
Rock | 191
Whitespot | 192
Grenadier, giant | 214
Grenadier (rattail) | 213
Jellyfish (unspecified) | 625
Lamprey, Pacific | 600
Lingcod | 130
Lumpsucker | 216
Pacific flatnose | 260
Pacific hagfish | 212
Pacific hake | 112
Pacific lamprey | 600
Pacific saury | 220
Pacific tomcod | 250
Poacher (Family Agonidae) | 219
Prowfish | 215
Ratfish | 714
Rockfish, black (GOA) | 142
Rockfish, blue (GOA) | 167
Sardine, Pacific (pilchard) | 170
Sea cucumber, red | 895
Shad | 180
Skilfish | 715
Snailfish, general (genus Liparis and genus Careproctus) | 218
Sturgeon, general | 680
Wrymouths | 211
SHELLFISH:
Abalone, northern (pinto) | 860
CLAMS:
Arctic surf | 812
Cockle | 820
Eastern softshell | 842
Pacific geoduck | 815
Pacific littleneck | 840
Pacific razor | 830
Washington butter | 810
Coral | 899
Mussel, blue | 855
Oyster, Pacific | 880
Scallop, weathervane | 850
Scallop, pink (or calico) | 851
SHRIMP:
Coonstripe | 964
Humpy | 963
Northern (pink) | 961
Sidestripe | 962
Spot | 965
Snails | 890
Urchin, green sea | 893
Urchin, red sea | 892

18. Table 4 to part 679 is revised to read as follows:

Table 4 to Part 679—Steller Sea Lion Protection Areas Pollock Fisheries Restrictions
Site name | Area or subarea | Boundaries from: Latitude | Boundaries from: Longitude | Boundaries to ¹: Latitude | Boundaries to ¹: Longitude | Pollock no-fishing zones for trawl gear ²,⁸ (nm)
Column No. 1 | 2 | 3 | 4 | 5 | 6 | 7
St. Lawrence I./S Punuk I | Bering Sea | 63°04.00 N | 168°51.00 W |  |  | 20
St. Lawrence I./SW Cape | Bering Sea | 63°18.00 N | 171°26.00 W |  |  | 20
Hall I | Bering Sea | 60°37.00 N | 173°00.00 W |  |  | 20
St. Paul I./Sea Lion Rock | Bering Sea | 57°06.00 N | 170°17.50 W |  |  | 3
St. Paul I./NE Pt | Bering Sea | 57°15.00 N | 170°06.50 W |  |  | 3
Walrus I. (Pribilofs) | Bering Sea | 57°11.00 N | 169°56.00 W |  |  | 10
St. George I./Dalnoi Pt | Bering Sea | 56°36.00 N | 169°46.00 W |  |  | 3
St. George I./S Rookery | Bering Sea | 56°33.50 N | 169°40.00 W |  |  | 3
Cape Newenham | Bering Sea | 58°39.00 N | 162°10.50 W |  |  | 20
Round (Walrus Islands) | Bering Sea | 58°36.00 N | 159°58.00 W |  |  | 20
Attu I./Cape Wrangell | Aleutian I | 52°54.60 N | 172°27.90 E | 52°55.40 N | 172°27.20 E | 20
Agattu I./Gillon Pt | Aleutian I | 52°24.13 N | 173°21.31 E |  |  | 20
Attu I./Chirikof Pt | Aleutian I | 52°49.75 N | 173°26.00 E |  |  | 20
Agattu I./Cape Sabak | Aleutian I | 52°22.50 N | 173°43.30 E | 52°21.80 N | 173°41.40 E | 20
Alaid I | Aleutian I | 52°46.50 N | 173°51.50 E | 52°45.00 N | 173°56.50 E | 20
Shemya I | Aleutian I | 52°44.00 N | 174°08.70 E |  |  | 20
Buldir I | Aleutian I | 52°20.25 N | 175°54.03 E | 52°20.38 N | 175°53.85 E | 20
Kiska I./Cape St. Stephen | Aleutian I | 51°52.50 N | 177°12.70 E | 51°53.50 N | 177°12.00 E | 20
Kiska I./Sobaka & Vega | Aleutian I | 51°49.50 N | 177°19.00 E | 51°48.50 N | 177°20.50 E | 20
Kiska I./Lief Cove | Aleutian I | 51°57.16 N | 177°20.41 E | 51°57.24 N | 177°20.53 E | 20
Kiska I./Sirius Pt | Aleutian I | 52°08.50 N | 177°36.50 E |  |  | 20
Tanadak I. (Kiska) | Aleutian I | 51°56.80 N | 177°46.80 E |  |  | 20
Segula I | Aleutian I | 51°59.90 N | 178°05.80 E | 52°03.06 N | 178°08.80 E | 20
Ayugadak Point | Aleutian I | 51°45.36 N | 178°24.30 E |  |  | 20
Rat I./Krysi Pt | Aleutian I | 51°49.98 N | 178°12.35 E |  |  | 20
Little Sitkin I | Aleutian I | 51°59.30 N | 178°29.80 E |  |  | 20
Amchitka I./Column Rocks | Aleutian I | 51°32.32 N | 178°49.28 E |  |  | 20
Amchitka I./East Cape | Aleutian I | 51°22.26 N | 179°27.93 E | 51°22.00 N | 179°27.00 E | 20
Amchitka I./Cape Ivakin | Aleutian I | 51°24.46 N | 179°24.21 E |  |  | 20
Semisopochnoi/Petrel Pt | Aleutian I | 52°01.40 N | 179°36.90 E | 52°01.50 N | 179°39.00 E | 20
Semisopochnoi I./Pochnoi Pt | Aleutian I | 51°57.30 N | 179°46.00 E |  |  | 20
Amatignak I. Nitrof Pt | Aleutian I | 51°13.00 N | 179°07.80 W |  |  | 20
Unalga & Dinkum Rocks | Aleutian I | 51°33.67 N | 179°04.25 W | 51°35.09 N | 179°03.66 W | 20
Ulak I./Hasgox Pt | Aleutian I | 51°18.90 N | 178°58.90 W | 51°18.70 N | 178°59.60 W | 20
Kavalga I | Aleutian I | 51°34.50 N | 178°51.73 W | 51°34.50 N | 178°49.50 W | 20
Tag I | Aleutian I | 51°33.50 N | 178°34.50 W |  |  | 20
Ugidak I | Aleutian I | 51°34.95 N | 178°30.45 W |  |  | 20
Gramp Rock | Aleutian I | 51°28.87 N | 178°20.58 W |  |  | 20
Tanaga I./Bumpy Pt | Aleutian I | 51°55.00 N | 177°58.50 W | 51°55.00 N | 177°57.10 W | 20
Bobrof I | Aleutian I | 51°54.00 N | 177°27.00 W |  |  | 20
Kanaga I./Ship Rock | Aleutian I | 51°46.70 N | 177°20.72 W |  |  | 20
Kanaga I./North Cape | Aleutian I | 51°56.50 N | 177°09.00 W |  |  | 20
Adak I | Aleutian I | 51°35.50 N | 176°57.10 W | 51°37.40 N | 176°59.60 W | 20
Little Tanaga Strait | Aleutian I | 51°49.09 N | 176°13.90 W |  |  | 20
Great Sitkin I | Aleutian I | 52°06.00 N | 176°10.50 W | 52°06.60 N | 176°07.00 W | 20
Anagaksik I | Aleutian I | 51°50.86 N | 175°53.00 W |  |  | 20
Kasatochi I | Aleutian I | 52°11.11 N | 175°31.00 W |  |  | 20
Atka I./North Cape | Aleutian I | 52°24.20 N | 174°17.80 W |  |  | 20
Amlia I./Sviech. Harbor ¹¹ | Aleutian I | 52°01.80 N | 173°23.90 W |  |  | 20
Sagigik I ¹¹ | Aleutian I | 52°00.50 N | 173°09.30 W |  |  | 20
Amlia I./East ¹¹ | Aleutian I | 52°05.70 N | 172°59.00 W | 52°05.75 N | 172°57.50 W | 20
Tanadak I. (Amlia ¹¹) | Aleutian I | 52°04.20 N | 172°57.60 W |  |  | 20
Agligadak I ¹¹ | Aleutian I | 52°06.09 N | 172°54.23 W |  |  | 20
Seguam I./Saddleridge Pt ¹¹ | Aleutian I | 52°21.05 N | 172°34.40 W | 52°21.02 N | 172°33.60 W | 20
Seguam I./Finch Pt | Aleutian I | 52°23.40 N | 172°27.70 W | 52°23.25 N | 172°24.30 W | 20
Seguam I./South Side | Aleutian I | 52°21.60 N | 172°19.30 W | 52°15.55 N | 172°31.22 W | 20
Amukta I. & Rocks | Aleutian I | 52°27.25 N | 171°17.90 W |  |  | 20
Chagulak I | Aleutian I | 52°34.00 N | 171°10.50 W |  |  | 20
Yunaska I | Aleutian I | 52°41.40 N | 170°36.35 W |  |  | 20
Uliaga ³ | Bering Sea | 53°04.00 N | 169°47.00 W | 53°05.00 N | 169°46.00 W | 20,10
Chuginadak | Gulf of Alaska | 52°46.70 N | 169°41.90 W |  |  | 20
Kagamil ³ | Bering Sea | 53°02.10 N | 169°41.00 W |  |  | 20,10
Samalga | Gulf of Alaska | 52°46.00 N | 169°15.00 W |  |  | 20
Adugak I ³ | Bering Sea | 52°54.70 N | 169°10.50 W |  |  | 10
Umnak I./Cape Aslik ³ | Bering Sea | 53°25.00 N | 168°24.50 W |  |  | BA
Ogchul I | Gulf of Alaska | 52°59.71 N | 168°24.24 W |  |  | 20
Bogoslof I./Fire I ³ | Bering Sea | 53°55.69 N | 168°02.05 W |  |  | BA
Polivnoi Rock | Gulf of Alaska | 53°15.96 N | 167°57.99 W |  |  | 20
Emerald I | Gulf of Alaska | 53°17.50 N | 167°51.50 W |  |  | 20
Unalaska/Cape Izigan | Gulf of Alaska | 53°13.64 N | 167°39.37 W |  |  | 20
Unalaska/Bishop Pt ⁹ | Bering Sea | 53°58.40 N | 166°57.50 W |  |  | 10
Akutan I./Reef-lava ⁹ | Bering Sea | 54°08.10 N | 166°06.19 W | 54°09.10 N | 166°05.50 W | 10
Unalaska I./Cape Sedanka ⁶ | Gulf of Alaska | 53°50.50 N | 166°05.00 W |  |  | 20
Old Man Rocks ⁶ | Gulf of Alaska | 53°52.20 N | 166°04.90 W |  |  | 20
Akutan I./Cape Morgan ⁶ | Gulf of Alaska | 54°03.39 N | 165°59.65 W | 54°03.70 N | 166°03.68 W | 20
Akun I./Billings Head ⁹ | Bering Sea | 54°17.62 N | 165°32.06 W | 54°17.57 N | 165°31.71 W | 10
Rootok ⁶ | Gulf of Alaska | 54°03.90 N | 165°31.90 W | 54°02.90 N | 165°29.50 W | 20
Tanginak I ⁶ | Gulf of Alaska | 54°12.00 N | 165°19.40 W |  |  | 20
Tigalda/Rocks NE ⁶ | Gulf of Alaska | 54°09.60 N | 164°59.00 W | 54°09.12 N | 164°57.18 W | 20
Unimak/Cape Sarichef ⁹ | Bering Sea | 54°34.30 N | 164°56.80 W |  |  | 10
Aiktak ⁶ | Gulf of Alaska | 54°10.99 N | 164°51.15 W |  |  | 20
Ugamak I ⁶ | Gulf of Alaska | 54°13.50 N | 164°47.50 W | 54°12.80 N | 164°47.50 W | 20
Round (GOA) ⁶ | Gulf of Alaska | 54°12.05 N | 164°46.60 W |  |  | 20
Sea Lion Rock (Amak) ⁹ | Bering Sea | 55°27.82 N | 163°12.10 W |  |  | 10
Amak I. And rocks ⁹ | Bering Sea | 55°24.20 N | 163°09.60 W | 55°26.15 N | 163°08.50 W | 10
Bird I | Gulf of Alaska | 54°40.00 N | 163°17.2 W |  |  | 10
Caton I | Gulf of Alaska | 54°22.70 N | 162°21.30 W |  |  | 3
South Rocks | Gulf of Alaska | 54°18.14 N | 162°41.3 W |  |  | 10
Clubbing Rocks (S) | Gulf of Alaska | 54°41.98 N | 162°26.7 W |  |  | 10
Clubbing Rocks (N) | Gulf of Alaska | 54°42.75 N | 162°26.7 W |  |  | 10
Pinnacle Rock | Gulf of Alaska | 54°46.06 N | 161°45.85 W |  |  | 3
Sushilnoi Rocks | Gulf of Alaska | 54°49.30 N | 161°42.73 W |  |  | 10
Olga Rocks | Gulf of Alaska | 55°00.45 N | 161°29.81 W | 54°59.09 N | 161°30.89 W | 10
Jude I | Gulf of Alaska | 55°15.75 N | 161°06.27 W |  |  | 20
Sea Lion Rocks (Shumagins) | Gulf of Alaska | 55°04.70 N | 160°31.04 W |  |  | 3
Nagai I./Mountain Pt | Gulf of Alaska | 54°54.20 N | 160°15.40 W | 54°56.00 N | 160°15.00 W | 3
The Whaleback | Gulf of Alaska | 55°16.82 N | 160°05.04 W |  |  | 3
Chernabura I | Gulf of Alaska | 54°45.18 N | 159°32.99 W | 54°45.87 N | 159°35.74 W | 20
Castle Rock | Gulf of Alaska | 55°16.47 N | 159°29.77 W |  |  | 3
Atkins I | Gulf of Alaska | 55°03.20 N | 159°17.40 W |  |  | 20
Spitz I | Gulf of Alaska | 55°46.60 N | 158°53.90 W |  |  | 3
Mitrofania | Gulf of Alaska | 55°50.20 N | 158°41.90 W |  |  | 3
Kak | Gulf of Alaska | 56°17.30 N | 157°50.10 W |  |  | 20
Lighthouse Rocks | Gulf of Alaska | 55°46.79 N | 157°24.89 W |  |  | 20
Sutwik I | Gulf of Alaska | 56°31.05 N | 157°20.47 W | 56°32.00 N | 157°21.00 W | 20
Chowiet I | Gulf of Alaska | 56°00.54 N | 156°41.42 W | 56°00.30 N | 156°41.60 W | 20
Nagai Rocks | Gulf of Alaska | 55°49.80 N | 155°47.50 W |  |  | 20
Chirikof I | Gulf of Alaska | 55°46.50 N | 155°39.50 W | 55°46.44 N | 155°43.46 W | 20
Puale Bay ¹² | Gulf of Alaska | 57°40.60 N | 155°23.10 W |  |  | 3,10
Kodiak/Cape Ikolik | Gulf of Alaska | 57°17.20 N | 154°47.50 W |  |  | 3
Takli I | Gulf of Alaska | 58°01.75 N | 154°31.25 W |  |  | 10
Cape Kuliak | Gulf of Alaska | 58°08.00 N | 154°12.50 W |  |  | 10
Cape Gull | Gulf of Alaska | 58°11.50 N | 154°09.60 W | 58°12.50 N | 154°10.50 W | 10
Kodiak/Cape Ugat | Gulf of Alaska | 57°52.41 N | 153°50.97 W |  |  | 10
Sitkinak/Cape Sitkinak | Gulf of Alaska | 56°34.30 N | 153°50.96 W |  |  | 10
Shakun Rock | Gulf of Alaska | 58°32.80 N | 153°41.50 W |  |  | 10
Twoheaded I | Gulf of Alaska | 56°54.50 N | 153°32.75 W | 56°53.90 N | 153°33.74 W | 10
Cape Douglas (Shaw I.) ¹² | Gulf of Alaska | 59°00.00 N | 153°22.50 W |  |  | 20, 10
Kodiak/Cape Barnabas | Gulf of Alaska | 57°10.20 N | 152°53.05 W |  |  | 3
Kodiak/Gull Point ⁴ | Gulf of Alaska | 57°21.45 N | 152°36.30 W |  |  | 10, 3
Latax Rocks | Gulf of Alaska | 58°40.10 N | 152°31.30 W |  |  | 10
Ushagat I./SW | Gulf of Alaska | 58°54.75 N | 152°22.20 W |  |  | 10
Ugak I ⁴ | Gulf of Alaska | 57°23.60 N | 152°17.50 W | 57°21.90 N | 152°17.40 W | 10, 3
Sea Otter I | Gulf of Alaska | 58°31.15 N | 152°13.30 W |  |  | 10
Long I | Gulf of Alaska | 57°46.82 N | 152°12.90 W |  |  | 10
Sud I | Gulf of Alaska | 58°54.00 N | 152°12.50 W |  |  | 10
Kodiak/Cape Chiniak | Gulf of Alaska | 57°37.90 N | 152°08.25 W |  |  | 10
Sugarloaf I | Gulf of Alaska | 58°53.25 N | 152°02.40 W |  |  | 20
Sea Lion Rocks (Marmot) | Gulf of Alaska | 58°20.53 N | 151°48.83 W |  |  | 10
Marmot I ⁵ | Gulf of Alaska | 58°13.65 N | 151°47.75 W | 58°09.90 N | 151°52.06 W | 15, 20
Nagahut Rocks | Gulf of Alaska | 59°06.00 N | 151°46.30 W |  |  | 10
Perl | Gulf of Alaska | 59°05.75 N | 151°39.75 W |  |  | 10
Gore Point | Gulf of Alaska | 59°12.00 N | 150°58.00 W |  |  | 10
Outer (Pye) I | Gulf of Alaska | 59°20.50 N | 150°23.00 W | 59°21.00 N | 150°24.50 W | 20
Steep Point | Gulf of Alaska | 59°29.05 N | 150°15.40 W |  |  | 10
Seal Rocks (Kenai) | Gulf of Alaska | 59°31.20 N | 149°37.50 W |  |  | 10
Chiswell Islands | Gulf of Alaska | 59°36.00 N | 149°34.00 W |  |  | 10
Rugged Island | Gulf of Alaska | 59°50.00 N | 149°23.10 W | 59°51.00 N | 149°24.70 W | 10
Point Elrington ⁷ ¹⁰ | Gulf of Alaska | 59°56.00 N | 148°15.20 W |  |  | 20
Perry I ⁷ | Gulf of Alaska | 60°44.00 N | 147°54.60 W |  |  |
The Needle ⁷ | Gulf of Alaska | 60°06.64 N | 147°36.17 W |  |  |
Point Eleanor ⁷ | Gulf of Alaska | 60°35.00 N | 147°34.00 W |  |  |
Wooded I. (Fish I.) | Gulf of Alaska | 59°52.90 N | 147°20.65 W |  |  | 20
Glacier Island ⁷ | Gulf of Alaska | 60°51.30 N | 147°14.50 W |  |  |
Seal Rocks (Cordova) ¹⁰ | Gulf of Alaska | 60°09.78 N | 146°50.30 W |  |  | 20
Cape Hinchinbrook ¹⁰ | Gulf of Alaska | 60°14.00 N | 146°38.50 W |  |  | 20
Middleton I | Gulf of Alaska | 59°28.30 N | 146°18.80 W |  |  | 10
Hook Point ¹⁰ | Gulf of Alaska | 60°20.00 N | 146°15.60 W |  |  | 20
Cape St. Elias | Gulf of Alaska | 59°47.50 N | 144°36.20 W |  |  | 20
Notes to Table 4 to part 679:
¹ Where two sets of coordinates are given, the baseline extends in a clockwise direction from the first set of geographic coordinates along the shoreline at mean lower-low water to the second set of coordinates. Where only one set of coordinates is listed, that location is the base point.
² Closures as stated in § 679.22(a)(7)(iv), (a)(8)(ii), and (b)(2)(ii).
³ This site lies within the Bogoslof area (BA). The BA consists of all waters of area 518 as described in Figure 1 of this part south of a straight line connecting 55°00′ N / 170°00′ W, and 55°00′ N / 168°11′4.75″ W. Closure to directed fishing for pollock around Uliaga and Kagamil is 20 nm for waters west of 170°W long. and 10 nm for waters east of 170°W long.
⁴ Trawl closure between 0 nm to 10 nm is effective from January 20 through May 31. Trawl closure between 0 nm to 3 nm is effective from August 25 through November 1.
⁵ Trawl closure between 0 nm to 15 nm is effective from January 20 through May 31. Trawl closure between 0 nm to 20 nm is effective from August 25 to November 1.
⁶ Restriction area includes only waters of the Gulf of Alaska Area.
⁷ Contact the Alaska Department of Fish and Game for fishery restrictions at these sites.
⁸ No-fishing zones are the waters between 0 nm and the nm specified in column 7 of this table around each site and within the BA.
⁹ This site is located in the Bering Sea Pollock Restriction Area, closed to pollock trawling during the A season. This area consists of all waters of the Bering Sea subarea south of a line connecting the points 55°46′30″ N lat. 163°00′00″ W long., 54°42′9″ N lat. 165°08′00″ W long., 54°26′30″ N lat. 165°40′00″ W long., 54°18′40″ N lat. 166°12′00″ W long. and 54°8′50″ N lat. 167°00′00″ W long.
¹⁰ The 20 nm closure around this site is effective in federal waters outside of State of Alaska waters of Prince William Sound.
¹¹ Some or all of the restricted area is located in the Seguam Foraging area (SFA) which is closed to all gears types. The SFA is established as all waters within the area between 52°N lat. and 53°N lat. and between 173°30′ W long. and 172°30′ W long.
¹² The 3 nm trawl closure around Puale Bay and the 20 nm trawl closure around Cape Douglas/Shaw I. are effective January 20 through May 31. The 10 nm trawl closure around Puale Bay and the 10 nm trawl closure around Cape Douglas/Shaw I. are effective August 25 through November 1.

19. Table 9 is removed and reserved; and Tables 10, 11, and 12 to part 679 are revised to read as follows:

BILLING CODE 3510-22-P

Table 12 to Part 679—Steller Sea Lion Protection Areas, 3 nm No Groundfish Fishing Sites
Site name | Area or subarea | Boundaries from: Latitude | Boundaries from: Longitude | Boundaries to ¹: Latitude | Boundaries to ¹: Longitude | No transit ² 3 nm
Column No. 1 | 2 | 3 | 4 | 5 | 6 | 7
Walrus I. (Pribilofs) | Bering Sea | 57°11.00 N | 169°56.00 W |  |  | Y
Attu I./Cape Wrangell | Aleutian I. | 52°54.60 N | 172°27.90 E | 52°55.40 N | 172°27.20 E | Y
Agattu I./Gillon Pt. | Aleutian I. | 52°24.13 N | 173°21.31 E |  |  | Y
Agattu I./Cape Sabak | Aleutian I. | 52°22.50 N | 173°43.30 E | 52°21.80 N | 173°41.40 E | Y
Buldir I. | Aleutian I. | 52°20.25 N | 175°54.03 E | 52°20.38 N | 175°53.85 E | Y
Kiska I./Cape St. Stephen | Aleutian I. | 51°52.50 N | 177°12.70 E | 51°53.50 N | 177°12.00 E | Y
Kiska I./Lief Cove | Aleutian I. | 51°57.16 N | 177°20.41 E | 51°57.24 N | 177°20.53 E | Y
Ayugadak Point | Aleutian I. | 51°45.36 N | 178°24.30 E |  |  | Y
Amchitka I./Column Rocks | Aleutian I. | 51°32.32 N | 178°49.28 E |  |  | Y
Amchitka I./East Cape | Aleutian I. | 51°22.26 N | 179°27.93 E | 51°22.00 N | 179°27.00 E | Y
Semisopochnoi/Petrel Pt. | Aleutian I. | 52°01.40 N | 179°36.90 E | 52°01.50 N | 179°39.00 E | Y
Semisopochnoi I./Pochnoi Pt. | Aleutian I. | 51°57.30 N | 179°46.00 E |  |  | Y
Ulak I./Hasgox Pt. | Aleutian I. | 51°18.90 N | 178°58.90 W | 51°18.70 N | 178°59.60 W | Y
Tag I. | Aleutian I. | 51°33.50 N | 178°34.50 W |  |  | Y
Gramp Rock | Aleutian I. | 51°28.87 N | 178°20.58 W |  |  | Y
Adak I. | Aleutian I. | 51°35.50 N | 176°57.10 W | 51°37.40 N | 176°59.60 W | Y
Kasatochi I. | Aleutian I. | 52°11.11 N | 175°31.00 W |  |  | Y
Agligadak I. | Aleutian I. | 52°06.09 N | 172°54.23 W |  |  | Y
Seguam I./Saddleridge Pt. | Aleutian I. | 52°21.05 N | 172°34.40 W | 52°21.02 N | 172°33.60 W | Y
Yunaska I. | Aleutian I. | 52°41.40 N | 170°36.35 W |  |  | Y
Adugak I. | Bering Sea | 52°54.70 N | 169°10.50 W |  |  | Y
Ogchul I. | Gulf of Alaska | 52°59.71 N | 168°24.24 W |  |  | Y
Bogoslof I./Fire I. | Bering Sea | 53°55.69 N | 168°02.05 W |  |  | Y
Akutan I./Cape Morgan | Gulf of Alaska | 54°03.39 N | 165°59.65 W | 54°03.70 N | 166°03.68 W | Y
Akun I./Billings Head | Bering Sea | 54°17.62 N | 165°32.06 W | 54°17.57 N | 165°31.71 W | Y
Ugamak I. | Gulf of Alaska | 54°13.50 N | 164°47.50 W | 54°12.80 N | 164°47.50 W | Y
Sea Lion Rock (Amak) | Bering Sea | 55°27.82 N | 163°12.10 W |  |  | Y
Clubbing Rocks (S) | Gulf of Alaska | 54°41.98 N | 162°26.7 W |  |  | Y
Clubbing Rocks (N) | Gulf of Alaska | 54°42.75 N | 162°26.7 W |  |  | Y
Pinnacle Rock | Gulf of Alaska | 54°46.06 N | 161°45.85 W |  |  | Y
Chernabura I. | Gulf of Alaska | 54°45.18 N | 159°32.99 W | 54°45.87 N | 159°35.74 W | Y
Atkins I. | Gulf of Alaska | 55°03.20 N | 159°17.40 W |  |  | Y
Chowiet I. | Gulf of Alaska | 56°00.54 N | 156°41.42 W | 56°00.30 N | 156°41.60 W | Y
Chirikof I. | Gulf of Alaska | 55°46.50 N | 155°39.50 W | 55°46.44 N | 155°43.46 W | Y
Sugarloaf I. | Gulf of Alaska | 58°53.25 N | 152°02.40 W |  |  | Y
Marmot I. | Gulf of Alaska | 58°13.65 N | 151°47.75 W | 58°09.90 N | 151°52.06 W | Y
Outer (Pye) I. | Gulf of Alaska | 59°20.50 N | 150°23.00 W | 59°21.00 N | 150°24.50 W | Y
Wooded I. (Fish I.) | Gulf of Alaska | 59°52.90 N | 147°20.65 W |  |  |
Seal Rocks (Cordova) | Gulf of Alaska | 60°09.78 N | 146°50.30 W |  |  |
¹ Where two sets of coordinates are given, the baseline extends in a clock-wise direction from the first set of geographic coordinates along the shoreline at mean lower-low water to the second set of coordinates. Where only one set of coordinates is listed, that location is the base point.
² See 50 CFR 223.202(a)(2)(i) for regulations regarding 3 nm no transit zones.

Note: No groundfish fishing zones are the waters between 0 nm to 3 nm surrounding each site.

20. Tables 14a and 14b to part 679 are revised to read as follows:

Table 14a to Part 679—Port of Landing Codes, Alaska
Port name | NMFS code | ADF&G code
Adak | 186 | ADA
Akutan, Akutan Bay | 101 | AKU
Alitak | 103 | ALI
Anchorage | 105 | ANC
Angoon | 106 | ANG
Aniak | 300 | ANI
Anvik | 301 | ANV
Atka | 107 | ATK
Auke Bay | 136 | JNU
Beaver Inlet | 119 | DUT
Bethel | 302 | BET
Captains Bay | 119 | DUT
Chefornak | 189 | CHF
Chignik | 113 | CHG
Cordova | 115 | COR
Craig | 116 | CRG
Dillingham | 117 | DIL
Douglas | 136 | JNU
Dutch Harbor/Unalaska | 119 | DUT
Egegik | 122 | EGE
Ekuk | 303 | EKU
Elfin Cove | 123 | ELF
Emmonak | 304 | EMM
Excursion Inlet | 124 | XIP
False Pass | 125 | FSP
Fairbanks | 305 | FBK
Galena | 306 | GAL
Glacier Bay | 307 | GLB
Glennallen | 308 | GLN
Gustavus | 127 | GUS
Haines | 128 | HNS
Homer | 132 | HOM
Hoonah | 133 | HNH
Hydaburg | 309 | HYD
Hyder | 134 | HDR
Juneau | 136 | JNU
Kake | 137 | KAK
Kaltag | 310 | KAL
Kasilof | 138 | KAS
Kenai | 139 | KEN
Kenai River | 139 | KEN
Ketchikan | 141 | KTN
King Cove | 142 | KCO
King Salmon | 143 | KNG
Kipnuk | 144 | KIP
Klawock | 145 | KLA
Kodiak | 146 | KOD
Kotzebue | 311 | KOT
Larsen Bay | 327 | LRB
Mekoryuk | 147 | MEK
Metlakatla | 148 | MET
Moser Bay | 312 | MOS
Naknek | 149 | NAK
Nenana | 313 | NEN
Nikiski (or Nikishka) | 150 | NIK
Ninilchik | 151 | NIN
Nome | 152 | NOM
Nunivak Island | 314 | NUN
Old Harbor | 153 | OLD
Other Alaska¹ | 499 | OAK
Pelican | 155 | PEL
Petersburg | 156 | PBG
Port Alexander | 158 | PAL
Port Armstrong | 315 | PTA
Port Bailey | 159 | PTB
Port Graham | 160 | GRM
Port Lions | 316 | LIO
Port Moller | 317 | MOL
Port Protection | 161 | PRO
Quinhagak | 187 | QUK
Sand Point | 164 | SPT
Savoonga | 165 | SAV
Selawik | 326 | SWK
Seldovia | 166 | SEL
Seward | 167 | SEW
Sitka | 168 | SIT
Skagway | 169 | SKG
Soldotna | 318 | SOL
St. George | 170 | STG
St. Mary | 319 | STM
St. Paul | 172 | STP
Tee Harbor | 136 | JNU
Tenakee Springs | 174 | TEN
Togiak | 176 | TOG
Toksook Bay | 177 | TOB
Tununak | 178 | TUN
Ugashik | 320 | UGA
Unalakleet | 321 | UNA
Valdez | 181 | VAL
Wasilla | 322 | WAS
Whittier | 183 | WHT
Wrangell | 184 | WRN
Yakutat | 185 | YAK
¹To report a landing at an Alaska location not currently assigned a location code number, use “Other Alaska” code “499” or “OAK.”

Table 14b to Part 679—Port of Landing Codes: Non-Alaska
[California, Canada, Oregon, and Washington]
Port State or country | Port name | NMFS code | ADF&G code
CALIFORNIA | Eureka | 500 | EUR
| Other California¹ | 599 | OCA
CANADA | Other Canada¹ | 899 | OCN
| Port Edward, B.C. | 802 | PRU
| Prince Rupert, B.C. | 802 | PRU
| Vancouver, B.C. | 803 | VAN
OREGON | Astoria | 600 | AST
| Newport | 603 | NPT
| Other Oregon¹ | 699 | OOR
| Portland | 323 | POR
| Warrenton | 604 | WAR
WASHINGTON | Anacortes | 700 | ANA
| Bellingham | 702 | BEL
| Blaine | 717 | BLA
| Everett | 704 | EVT
| La Conner | 708 | LAC
| Olympia | 324 | OLY
| Other Washington¹ | 799 | OWA
| Seattle | 715 | SEA
| Tacoma | 325 | TAC
¹To report a landing at a location not currently assigned a location code number, use the code for “Other California”, “Other Oregon”, “Other Washington”, or “Other Canada” at which the landing occurs.

21. Table 15 to part 679 is revised to read as follows:

BILLING CODE 3510-22-P

PART 680—SHELLFISH FISHERIES OF THE EXCLUSIVE ECONOMIC ZONE OFF ALASKA

22. The authority citation for part 680 continues to read as follows:

Authority: 16 U.S.C. 1862.

23. In § 680.2, paragraphs (1), (2) introductory text, (3), and (4) in the definition for “Crab individual fishing quota (crab IFQ)” are revised and a definition for “Sideboards” is added in alphabetical order to read as follows:

§ 680.2 Definitions.

* * * * *

Crab individual fishing quota (crab IFQ) * * *

(1) Catcher vessel crew (CVC) IFQ means crab IFQ derived from QS initially issued to persons who historically held CFEC crab permits and signed fish tickets for qualifying landings based on pounds delivered raw, to annually harvest, but not process, CR crab onboard the vessel used to harvest that crab.

(2) Catcher vessel owner (CVO) IFQ means crab IFQ derived from QS initially issued to persons who held LLP crab permits and had qualifying landings based on pounds delivered raw, to annually harvest, but not process, CR crab onboard the vessel used to harvest that crab.

* * * * *

(3) Catcher/processor owner (CPO) IFQ means crab IFQ derived from QS initially issued to persons who held LLP crab permits and had qualifying landings derived from landings processed at sea, to annually harvest and process CR crab.

(4) Catcher/processor crew (CPC) IFQ means crab IFQ derived from QS initially issued to persons who historically held CFEC crab permits and signed fish tickets for qualifying landings based on landings processed at sea, to annually harvest and process CR crab.

* * * * *

Sideboards (see § 680.22).

* * * * *

24. In § 680.4, paragraph (d)(3) is revised to read as follows:

§ 680.4 Permits.

* * * * *

(d) * * *

(3) On an annual basis, the Regional Administrator will issue a crab IFQ permit to a person who submits a complete annual application for a crab IFQ/IPQ permit, described at paragraph (f) of this section, that is subsequently approved by the Regional Administrator.

* * * * *

25. In § 680.5:

A. Paragraphs (c) and (d) are removed and reserved.

B. Paragraphs (a)(2)(i)(G) and (b) are revised.

C. Paragraphs (a)(2)(i) (L) and (m) are added.

The revisions and additions read as follows:

§ 680.5 Recordkeeping and reporting (R&R).

(a) * * *

(2) * * *

(i) * * *

Recordkeeping and reporting report | Person responsible | Reference
* * * * * * *
(G) CR crab landing report | RCR | § 679.5(e)(9)
* * * * * * *
(L) CR RCR Ex-vessel Volume and Value Report | RCR | § 80.5(m)

* * * * *

(b) IFQ crab landings—(1) Landing reports. See § 679.5(e) of this chapter.

(2) Properly debited landing. All landed crab catch must be weighed, reported, and debited from the appropriate IFQ account under which the catch was harvested, and IPQ account under which it was received, as appropriate (see § 679.5(e) of this chapter).

* * * * *

(m) CR Registered Crab Receiver (RCR) Ex-vessel Volume and Value Report—(1) Applicability. An RCR that also operates as a shoreside processor or stationary floating crab processor and receives and purchases landings of CR crab must submit annually to NMFS a complete CR RCR Ex-vessel Volume and Value Report, as described in this paragraph (m), for each reporting period in which the RCR receives CR crab.

(2) Reporting period. The reporting period of the CR RCR Ex-vessel Volume and Value Report shall extend from August 15 through April 30 of the following year, inclusive.

(3) Due date. A complete CR RCR Ex-vessel Volume and Value Report must be received by the Regional Administrator not later than May 15 of the reporting period in which the RCR received the CR crab.

(4) Information required. The RCR must log in to http://www.alaskafisheries.noaa.gov using his or her password and NMFS person ID to submit a CR RCR Ex-vessel Volume and Value Report. A complete CR RCR Ex-vessel Volume and Value Report must include the information in paragraphs (m)(4)(i) through (iv) of this section only for priced crab delivered raw:

(i) RCR identification. This includes:

(A) Name;

(B) RCR permit number;

(C) Social security number or tax identification number;

(D) NMFS person ID;

(E) Business mailing address, indicate whether permanent or temporary;

(F) Business telephone number, fax number; and e-mail address (if any); and

(G) Facility or vessel location (port location).

(ii) CR crab program (e.g., IFQ, CDQ, ADAK).

(iii) CR crab pounds purchased and ex-vessel value—(A) Pounds purchased. The total CR crab pounds purchased by fishery and species for each month.

(B) Ex-vessel value paid. The total gross ex-vessel value paid for raw CR crab pounds before any deductions are made for goods and services provided to the CR crab harvesters. The gross value includes all value paid in any form (e.g., dollars, goods, services, bait, ice, fuel, repairs, machinery replacement, etc.).

(C) Value paid for price adjustments. Enter the monthly total U.S. dollar amount (value paid for price adjustments) of any CR crab retro-payments (correlated by CR crab species and fishery, landing month(s), and month of payment) made in the current year to CR crab permit holders for landings made during the previous calendar year.

(iv) Certification. By using the RCR NMFS ID and password and submitting the report, the RCR certifies that all information is true, correct, and complete to the best of his or her knowledge and belief.

(5) Submittal. The RCR must complete and submit online by electronic submission to NMFS the CR Registered Crab Receiver Ex-vessel Volume and Value Report available at http://alaskafisheries.noaa.gov/ram.

26. In § 680.23, paragraph (b)(4) is revised to read as follows:

§ 680.23 Equipment and operational requirements.

* * * * *

(b) * * *

(4) Offload all CR crab product processed onboard at a shoreside location in the United States accessible by road or regularly scheduled air service and weigh that product on a scale approved by the state in which the CR crab product is removed from the vessel that harvested the CR crab; and

* * * * *

27. In § 680.44, paragraph (a)(2)(i) is revised to read as follows:

§ 680.44 Cost recovery.

(a) * * *

(2) * * *

(i) All CR allocation holders and RCR permit holders will be subject to a fee liability for any CR crab debited from a CR allocation during a crab fishing year, except for crab designated as personal use or deadloss, or crab confiscated by NMFS or the State of Alaska.

* * * * *

§§ 680.7, 680.20, and 680.40 [Amended]

28. At each of the locations shown in the Location column, remove the phrase indicated in the “Remove” column and replace it with the phrase indicated in the “Add” column for the number of times indicated in the “Frequency” column.

Location | Remove | Add | Frequency
§ 680.7(e)(1) | without a valid crab IFQ permit | without a legible copy of a valid crab IFQ permit | 1
§ 680.20(g)(2)(ix) | not required under this section, except as permitted by paragraph (j) of this section | unless required under this section | 1
§ 680.40(c)(2)(vi)(A) | § 679.40(k)(5)(v) | § 679.4(k)(5)(v) of this chapter. | 1

[FR Doc. E8-21722 Filed 9-23-08; 8:45 am]

BILLING CODE 3510-22-P